DEPARTMENT OF COMMERCE

National Oceanic and Atmospheric Administration

50 CFR Part 660

[Docket No. 120814338-2338-01]

RIN 0648-BC35

Magnuson-Stevens Act Provisions; Fisheries Off West Coast States; Pacific Coast Groundfish Fishery; 2013-2014 Biennial Specifications and Management Measures

AGENCY: National Marine Fisheries Service (NMFS), National Oceanic and Atmospheric Administration (NOAA), Commerce.

ACTION: Proposed rule; request for comments.

SUMMARY: This proposed rule would establish the 2013-2014 harvest specifications and management measures for groundfish taken in the U.S. exclusive economic zone off the coasts of Washington, Oregon, and California consistent with the Magnuson-Stevens Fishery Conservation and Management Act (MSA) and the Pacific Coast Groundfish Fishery Management Plan (PCGFMP). This proposed rule would also revise the collection of management measures in the groundfish fishery regulations that are intended to keep the total catch of each groundfish species or species complex within the harvest specifications.

DATES: Comments must be received no later than December 5, 2012.

ADDRESSES: You may submit comments on this document, identified by NOAA-NMFS-2012-0202, by any of the following methods:

• Electronic Submission: Submit all electronic public comments via the Federal e-Rulemaking Portal www.regulations.gov. To submit comments via the e-Rulemaking Portal, first click the “submit a comment” icon, then enter NOAA-NMFS-2012-0202 in the keyword search. Locate the document you wish to comment on from the resulting list and click on the “Submit a Comment” icon on the right of that line.

• Mail: Submit written comments to William Stele, Administrator, Northwest Region, NMFS, 7600 Sand Point Way NE., Seattle, WA 98115-0070, Attn: Sarah Williams.

• Fax: 206-526-6736, Attn: Sarah Williams.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Information relevant to this proposed rule, which includes a draft environmental impact statement (EIS), a regulatory impact review (RIR), and an initial regulatory flexibility analysis (IRFA) are available for public review during business hours at the office of the Pacific Fishery Management Council (Council), at 7700 NE. Ambassador Place, Portland, OR 97220, phone: 503-820-2280. Copies of additional reports referred to in this document may also be obtained from the Council.

FOR FURTHER INFORMATION CONTACT: Sarah Williams, phone: 206-526-4646, fax: 206-526-6736, or email: sarah.williams@noaa.gov.

SUPPLEMENTARY INFORMATION:

Electronic Access

This rule is accessible via the Internet at the Office of the Federal Register Web site at https://www.federalregister.gov. Background information and documents are available at the NMFS Northwest Region Web site at http://www.nwr.noaa.gov/Groundfish-Halibut/Groundfish-Fishery-Management/index.cfm and at the Council's Web site at http://www.pcouncil.org.

Executive Summary

I. Purpose of the Regulatory Action

This proposed rule is needed to implement the 2013-2014 harvest specifications and management measures for groundfish species taken in the U.S. exclusive economic zone off the coasts of Washington, Oregon, and California. The purpose of the proposed action is to conserve and manage Pacific Coast groundfish fishery resources to prevent overfishing, to rebuild overfished stocks, to ensure conservation, to facilitate long-term protection of essential fish habitats (EFH), and to realize the full potential of the Nation's fishery resources. The need for this proposed action is to set catch limit specifications and management measures for 2013-2014 that are consistent with existing or revised overfished species target rebuilding years and harvest control rules for all stocks. These harvest specifications are set consistent with the optimum yield (OY) harvest management framework described in Chapter 4 of the PCGFMP. This rule is authorized by 16 U.S.C. 1854-55 and by the PCGFMP.

II. Major Provisions

This proposed rule contains two types of major provisions. The first are the harvest specifications (overfishing limits (OFLs), acceptable biological catches (ABCs), and annual catch limits (ACLs)), and the second are management measures designed to keep fishing mortality within the ACLs. The harvest specifications (OFLs, ABCs, and ACLs) in this rule have been developed through a rigorous scientific review and decision-making process, which is described in detail later in this proposed rule.

In summary, the OFL is the maximum sustainable yield (MSY) harvest level and is an estimate of the catch level above which overfishing is occurring. OFLs are based on recommendations by the Council's Scientific and Statistical Committee (SSC) as the best scientific information available. The ABC is an annual catch specification that is the stock or stock complex's OFL reduced by an amount associated with scientific uncertainty. The SSC-recommended method for incorporating scientific uncertainty is referred to as the P star-sigma approach and is discussed in more detail below and in the proposed and final rules for the 2011-2012 biennial specifications and management measures (75 FR 67810, November 3, 2010 and 76 FR 27508, May 11, 2011). The ACL is a harvest specification set equal to or below the ABC. The ACLs are decided in a manner to achieve OY from the fishery, which is the amount of fish that will provide the greatest overall benefit to the Nation, particularly with respect to food production and recreational opportunities and taking into account the protection of marine ecosystems. The ACLs are based on consideration of conservation objectives, socio-economic concerns, management uncertainty, and other factors. All known sources of fishing and research catch are counted against the ACL.

This proposed rule includes ACLs for the seven overfished species managed under the PCGFMP. For the 2013-2014 biennium two species, canary rockfish and Pacific ocean perch (POP), require rebuilding plan changes. These changes are necessary because the rebuilding analyses prepared showed that even in the absence of fishing, these two species were unlikely to rebuild by the current target rebuilding year (TTARGET) in their rebuilding plans. The EIS prepared for this action analyzed a range of POP and canary rockfish ACLs arrayed in different configurations along with the ACLs for other stocks and the management measures needed to prevent ACLs from being exceeded. These “integrated alternatives” are designed to help demonstrate how changes in POP and canary rockfish ACLs affect access to target stocks or influence projected mortalities of overfished species, among other factors. This integrated approach is also described in the proposed rule for the 2011-2012 harvest specifications and management measures (75 FR 67810, November 3, 2010). However, unlike the integrated alternatives from the last biennium, for 2013-2014 the integrated alternatives varied mainly with respect to the ACLs for canary rockfish and POP, as those were the only species for which new scientific information required changes to rebuilding plans. Because of the multispecies nature of the groundfish fishery (the ACL of one species can influence the ACL and/or access to another species), the choice of canary rockfish and POP harvest rates, and the resulting ACLs and TTARGETS, were carefully considered by the Council. In their final recommendation, the Council weighed many factors including rebuilding progress, biology of the stock, economic impacts, allocations, and the need for new or more restrictive management measures. Ultimately, the Council recommended maintaining the harvest rate in the existing rebuilding plans for POP and canary rockfish and establishing revised TTARGETS.

In order to keep mortality of the species managed under the PCGFMP within the ACLs the Council also recommended management measures. Generally speaking, management measures are intended to rebuild overfished species, prevent ACLs from being exceeded, and allow for the harvest of healthy stocks. Management measures include time and area restrictions, gear restrictions, trip or bag limits, size limits, and other management tools. Management measures may vary by fishing sector because different fishing sectors require different types of management to control catch. The groundfish fishery is also managed with a variety of other regulatory requirements, many of which are not proposed to be changed through this rulemaking. Most of the management measures the Council recommended for 2013-2014 were slight variations to existing management measures and do not represent a change from current management practices. These types of changes include changes to trip limits, bag limits, closed areas, etc. However, several new management measures were recommended by the Council including: Changes to latitude and longitude coordinates that define the boundaries of the Rockfish Conservation Areas (RCA)s; the ability to routinely modify deductions from the ACL to assign fish to different sectors that would otherwise go unharvested while still preventing ACLs from being exceeded; a requirement that all fish from a landing be offloaded before a new trip begins to improve catch accounting; a new sorting requirement for blackgill rockfish so mortality can be accounted against the new species-specific blackgill rockfish harvest guideline (HG); the ability for NMFS to modify the percentage of surplus carryover in the Shorebased Individual Fishing Quota (IFQ) Program, as an inseason action based on a Council recommendation; and a clarification to the threshold at which participants in the limited entry fixed gear sablefish primary fishery would transition from fishing their tier limits and begin fishing against trip limits.

Background

The Pacific Coast Groundfish fishery is managed under the PCGFMP. The PCGFMP was prepared by the Council, approved on July 30, 1984, and has been amended numerous times. Regulations at 50 CFR part 660, subparts C through G, implement the provisions of the PCGFMP.

The PCGFMP requires the harvest specifications and management measures for groundfish to be set at least biennially. This proposed rule is based on the Council's final recommendations that were made at its June 2012 meeting.

Specification and Management Measure Development Process

The process for setting the 2013 and 2014 biennial harvest specifications began in 2011 with the preparation of stock assessments. A stock assessment is the scientific and statistical process where the status of a fish population or subpopulation (stock) is assessed in terms of population size, reproductive status, fishing mortality, and sustainability. In the terms of the PCGFMP, stock assessments generally provide: (1) An estimate of the current biomass (reproductive potential); (2) an FMSY or proxy (a default harvest rate for the fishing mortality rate that is expected to achieve the maximum sustainable yield), translated into exploitation rate; (3) an estimate of the biomass that produces the maximum sustainable yield (BMSY); and, (4) a precision estimate (e.g., confidence interval) for current biomass. Each stock assessment is reviewed by the Council's stock assessment review panel (STAR panel). The STAR panel is designed to review the technical merits of stock assessments and is responsible for determining if a stock assessment document is sufficiently complete. Finally, the SSC reviews the stock assessment and STAR panel reports and makes recommendations to the Council. In addition to full stock assessments, stock assessment updates that run new data through existing models without changing the model are also prepared.

When spawning stock biomass falls below the minimum stock size threshold (MSST), a stock is declared overfished and a rebuilding plan must be developed that determines the strategy for rebuilding the stock to BMSY in the shortest time possible while considering needs of fishing communities and other factors (16 U.S.C. 1854(e)). The current MSST reference point for assessed flatfish stocks is 12.5 percent of initial biomass or B12.5%. For all other assessed groundfish stocks, the current MSST reference point is 25 percent of initial biomass or B25%. The following overfished groundfish stocks would be managed under rebuilding plans in 2013 and 2014: bocaccio south of 40°10′ N. lat.; canary rockfish; cowcod south of 40°10′ N. lat.; darkblotched rockfish; Pacific Ocean Perch (POP); petrale sole; and yelloweye rockfish. NMFS declared widow rockfish rebuilt based on the most recent stocks assessment and therefore widow rockfish will not be managed under a rebuilding plan after 2012.

For overfished stocks, in addition to any stock assessments or stock assessment updates, rebuilding analyses are also prepared. The rebuilding analysis is used to project the future status of the overfished resource under a variety of alternative harvest strategies and to determine the probability of recovering to BMSY or its proxy within a specified time-frame. The SSC establishes minimum requirements for rebuilding analyses and encourages analysts to explore alternative calculations and projections that may more accurately capture uncertainties in stock rebuilding and better represent stock-specific concerns. The SSC groundfish subcommittee reviews the rebuilding analyses and associated modeling issues, and makes recommendations relative to the best available information for management decisions. The SSC also encourages explicit consideration of uncertainty in projections of stock rebuilding for individual stocks, including comparisons of alternative states of nature using decision tables to quantify the impact of model uncertainty. Each rebuilding analysis includes: An estimation of B0 (the unfished biomass) and BMSY or its proxy; the selection of a method to generate future recruitment; the specification of the mean generation time; a calculation of the minimum possible rebuilding time (TMIN), which is the time to rebuild to BMSY with a 50 percent probability starting from the time when the rebuilding plan was first implemented assuming no fishing occurs; TF=0, which is the number of years needed to rebuild to BMSY with a 50 percent probability if all future fishing mortality was eliminated from the first year of the biennium, in this case 2013; and the identification and analysis of alternative harvest strategies and rebuilding times.

The Council considered new stock assessments, stock assessment updates, rebuilding analyses, public comment, and advice from its advisory bodies over the course of six Council meetings during development of its recommendations for the 2013-2014 harvest specifications and management measures. At each Council meeting between September 2011 and June 2012, the Council made a series of decisions and recommendations that were in some cases refined after further analysis and discussion. Detailed information, including the supporting documentation the Council considered at each meeting is available at the Council's Web site, www.pcouncil.org.

A draft EIS identifying the preliminary preferred alternative for each decision point was made available to the public, the Council, and the Council's advisory bodies prior to the June 2012 Council meeting. At that meeting, following public comment and Council consideration, the Council made its final recommendations on the 2013 and 2014 harvest specifications and management measures as well as Amendment 21-2 to the PCGFMP. Amendment 21-2 would reinstate previous catch accounting methodologies that were inadvertently removed through Amendment 21. This proposed rule does not contain regulations to implement Amendment 21-2 to the PCGFMP. The amendment was analyzed in the EIS and was part of the Council's final action. However, in consultation with NMFS, the Council chose not to transmit the FMP amendment at this time because additional work on the implementing regulations was necessary. It is anticipated that the FMP amendment, and any necessary implementing regulations, will be transmitted at a later date.

Additional information regarding the OFLs, ABCs, and ACLs being proposed for groundfish stocks and stock complexes in 2013-2014 is presented below, followed by a description of the proposed management measures for commercial and recreational groundfish fisheries.

Harvest Specifications

Proposed OFLs for 2013 and 2014

The OFL is the MSY harvest level associated with the current stock abundance and is an estimate of the level of total catch of a stock or stock complex above which overfishing is occurring. The OFLs for groundfish species with stock assessments are derived by multiplying the FMSY harvest rate proxy by the current estimated biomass. Fx% harvest rates are the rates of fishing mortality that will reduce the female spawning biomass per recruit (SPR) to X percent of its unfished level. A rate of F40% is a more aggressive harvest rate than F45% or F50%.

For 2013 and 2014, the Council maintained a policy of using a default harvest rate as a proxy for the fishing mortality rate that is expected to achieve the maximum sustainable yield (FMSY). A proxy is used because there is insufficient information for most Pacific Coast groundfish stocks to estimate species-specific FMSY values. Taxon-specific proxy fishing mortality rates are used due to perceived differences in the productivity among different taxa of groundfish. A lower value is used for stocks with relatively high resilience to fishing while higher values are used for less resilient stocks with low productivity. In 2013 and 2014, the following default harvest rate proxies, based on the SSC's recommendations, were used: F30% for flatfish, F50% for rockfish (including thornyheads), and F45% for other groundfish such as sablefish and lingcod.

For the 2013 and 2014 biennial specification process, eight stock assessments and four stock assessment updates were prepared. Full stock assessments, those that consider the appropriateness of the assessment model and that revise the model as necessary, were prepared for the following stocks: POP, widow rockfish, petrale sole, Dover sole, blackgill rockfish, sablefish, spiny dogfish, and greenspotted rockfish. Stock assessment updates, those that run new data through an existing model, were prepared for bocaccio, canary rockfish, darkblotched rockfish, and yelloweye rockfish. Because the bocaccio and darkblotched assessment updates encountered data anomalies, some modifications to the models were required and these were therefore not strictly updates.

Each new stock assessment includes a base model and two alternative models. The alternative models are developed from the base model by bracketing the dominant dimension of uncertainty (e.g., stock-recruitment steepness, natural mortality rate, survey catchability, recent year-class strength, weights on conflicting catch per unit effort series, etc.) and are intended to be a means of expressing uncertainty within the model by showing the contrast in management implications. Once a base model has been bracketed on either side by alternative model scenarios, capturing the overall degree of uncertainty in the assessment, a two-way decision table analysis (states-of-nature versus management action) is used to present the repercussions of uncertainty to decision makers. As noted above, the SSC makes recommendations to the Council on the appropriateness of using the different stock assessments for management purposes, after which the Council considers adoption of the stock assessments, use of the stock assessment for the development of rebuilding analysis, and the OFLs resulting from the base model runs of the stock assessments.

The following summaries pertain to the proposed 2013 and 2014 OFLs for stocks that were overfished in 2011.

Bocaccio (Sebastes paucispinis)

A stock assessment update was prepared for the bocaccio stock between the U.S.-Mexico border and Cape Blanco, OR. The bocaccio OFLs of 884 mt for 2013 and 881 mt for 2014 are based on the FMSY harvest rate proxy of F50% as applied to the estimated exploitable biomass from the 2011 stock assessment update. For setting harvest specifications, six percent of the assessed biomass was estimated to occur north of 40°10′ N. lat. The projected OFLs from the assessment were adjusted accordingly.

Canary Rockfish (Sebastes pinniger)

A stock assessment update was prepared for the coastwide canary rockfish stock. The canary rockfish OFLs of 592 mt for 2013 and 741 mt for 2014 are based on the FMSY harvest rate proxy of F50% as applied to the estimated exploitable biomass from the 2011 stock assessment update.

Darkblotched Rockfish (Sebastes crameri)

A stock assessment update was prepared for darkblotched rockfish in the U.S. Vancouver, Columbia, Eureka, and Monterey areas. The darkblotched rockfish OFLs of 541 mt for 2013 and 553 mt for 2014 are based on the FMSY harvest rate proxy of F50% as applied to the estimated exploitable biomass from the 2011 stock assessment update.

Petrale Sole (Eopsetta jordani)

A new coastwide stock assessment was prepared for petrale sole. The assessment treats the U.S. petrale sole resource from the Mexican border to the Canadian border as a single coastwide stock. The petrale sole OFLs of 2,711 mt for 2013 and 2,774 mt for 2014 are based on the FMSY harvest rate proxy of F30% as applied to the estimated exploitable biomass from the 2011 stock assessment.

POP (Sebastes alutus)

A new stock assessment was prepared for POP north of 40°10′ north latitude. This is the first full assessment of POP since 2003. The POP OFLs of 844 mt for 2013 and 838 mt for 2014 are based on the FMSY harvest rate proxy of F50% as applied to the estimated exploitable biomass from the 2011 stock assessment.

Widow Rockfish (Sebastes entomelas)

A new coastwide stock assessment was prepared for widow rockfish in the U.S. Vancouver, Columbia, Eureka, Monterey, and Conception areas. The widow rockfish OFLs of 4,841 mt for 2013 and 4,435 mt for 2014 are based on the FMSY harvest rate proxy of F50% as applied to the estimated exploitable biomass from the 2011 stock assessment.

Yelloweye Rockfish (Sebastes ruberrimus)

A coastwide stock assessment update was prepared for yelloweye rockfish. The yelloweye rockfish OFLs of 51 mt for 2013 and 2014 are based on the FMSY harvest rate proxy of F50% as applied to the estimated exploitable biomass from the 2011 stock assessment update.

The following summaries pertain to the proposed OFLs for individually managed non-overfished stocks with new stock assessments or stock assessment updates in 2011.

Dover Sole (Microstomus pacificus)

A new coastwide stock assessment was prepared for Dover sole. The Dover sole OFLs of 92,955 mt in 2013 and 77,774 mt in 2014 are based on the FMSY harvest rate proxy of F30% as applied to the estimated exploitable biomass from the 2011 stock assessment.

Sablefish (Anoplopoma fimbria)

A new coastwide stock assessment was prepared for sablefish. The sablefish OFLs of 6,621 mt in 2013 and 7,158 mt in 2014 are based on the FMSY harvest rate proxy of F45% as applied to the estimated exploitable biomass from the 2011 stock assessment.

For individually managed species that did not have new stock assessments or updates prepared, the Council recommended OFLs derived from applying the FMSY harvest rate proxy to the estimated exploitable biomass from the most recent stock assessment or update, the results of rudimentary stock assessments, or the historical landings data approved by the Council for use in setting harvest specifications. These stocks include: Arrowtooth flounder, English sole, starry flounder, black rockfish south, black rockfish north, California scorpionfish, chilipeper rockfish south, longnose skate, longspine thornyhead Pacific cod, shortbelly rockfish, shortspine thornyhead, splitnose rockfish south, yellowtail rockfish, cabezon (off California), cabezon (off Oregon), and lingcod north and south. Proposed OFLs for these species can be found in Tables 1a and 2a.

There are currently eight stock complexes used to manage groundfish stocks pursuant to the PCGFMP. These stock complexes are: (1) Minor nearshore rockfish north; (2) minor shelf rockfish north; (3) minor slope rockfish north; (4) minor nearshore rockfish south; (5) minor shelf rockfish south; (6) minor slope rockfish south; (7) other flatfish; and (8) other fish. Stock complexes are used to manage the harvest of many of the unassessed groundfish stocks. The proposed OFLs for stock complexes are the sum of the OFL contributions for the component stocks, when known. For the 2013-2014 biennial specification process, similar to what was done in 2011-2012, Depletion-Corrected Average Catch (DCAC), Depletion-Based Stock Reduction Analysis (DB-SRA), or other SSC-endorsed methodologies were used to determine the OFL contributions made by category three species (data limited species). Stock assessment scientists from the Northwest Fisheries Science Center and the Southwest Fisheries Science Center developed the DCAC and DB-SRA methodologies. The DCAC and DB-SRA provide an estimate of sustainable yield for data-poor stocks of uncertain status. The Council and the SSC recognized these methods as improvements upon previous catch-based methods for estimating sustainable yield. While OFL contribution estimates should not vary from year to year for the category three stocks, a bias was discovered and corrected in both the DB-SRA and DCAC estimates. The 2011 estimates were generally biased somewhat high and the revised 2013 estimates were more precise. The corrected 2013 and 2014 OFL contribution estimates decreased an average of 6 percent relative to the 2011 estimates. For further information see http://www.pcouncil.org/resources/archives/briefing-books/september-2011-briefing-book/#groundfish, Agenda Item G.5.a Supplemental Attachment 8.

The proposed OFLs for complexes can be found at in tables 1a and 2a of this proposed rule. In addition to OFL contributions derived by DCAC, DB-SRA, or other SSC approved estimates, OFL contributions for the following stocks were determined by applying the FMSY harvest rate proxy to the estimated exploitable biomass from the most recent stock assessments: Blackgill rockfish, blue rockfish, chilipepper rockfish north, greenstriped rockfish, greenspotted rockfish, gopher rockfish, splitnose rockfish north, and spiny dogfish. As summarized below, three of the stocks with OFL contributions determined by applying the FMSY harvest rate proxy to the estimated exploitable biomass from stock assessments had new stock assessments this cycle.

Blackgill Rockfish (Sebastes melanostomus)

A new stock assessment was prepared for the portion of the blackgill rockfish stock south of 40°10′ N. lat. Blackgill rockfish contributes 130 mt in 2013 and 134 mt in 2014 to the minor slope rockfish south OFL. The blackgill rockfish contributions to the 2013 and 2014 minor slope rockfish south OFLs are based on the FMSY harvest rate proxy of F50% as applied to the estimated exploitable biomass from the 2011 stock assessment.

Greenspotted Rockfish (Sebastes chlorostictus)

A new assessment was prepared for the portion of the greenspotted rockfish stock off California. The assessment modeled greenspotted rockfish as two independent stocks, one off southern California, and one off northern California. Greenspotted rockfish contributes 80.3 mt in 2013 and 80.3 mt in 2014 to the minor shelf rockfish south OFLs and contributes 15.5 mt in 2013 and 15.5 mt in 2014 to the minor shelf rockfish north OFLs. The greenspotted rockfish contributions to the 2013-2014 minor shelf rockfish south OFLs are based on a FMSY harvest rate proxy of F50% as applied to the estimated exploitable biomass from the 2011 stock assessment, and as apportioned to the minor shelf rockfish south complex. Greenspotted rockfish contributions to the 2013-2014 minor shelf rockfish north OFLs are based on the application of the of the same FMSY harvest rate proxy as described above and as apportioned to the minor shelf rockfish north complex. The DCAC estimate of 6.1 mt for the portion of the greenspotted rockfish stock off Oregon and Washington also contributes to the minor shelf rockfish north OFLs.

Spiny Dogfish (Squalus acanthias)

A new coastwide stock assessment was prepared for spiny dogfish. Spiny dogfish contributes 2,980 mt in 2013 and 2,950 mt in 2014 to the other fish complex OFLs. Spiny dogfish contributions to the other fish complex OFLs are based on the FMSY harvest rate proxy of F45% as applied to the estimated exploitable biomass from the 2011 stock assessment.

Proposed ABCs for 2013 and 2014

The ABC is the stock or stock complex's OFL reduced by an amount associated with scientific uncertainty. The SSC-recommended P star-Sigma approach determines the amount by which the OFL is reduced to establish the ABC. Under this approach, the SSC recommends a sigma (σ) value. The σ value is generally based on the scientific uncertainty in the biomass estimates generated from stock assessments. After the SSC determines the appropriate σ value the Council chooses a P star (P*) based on its chosen level of risk aversion considering the scientific uncertainties. As the P* value is reduced, the probability of the ABC being greater than the “true” OFL becomes lower. In combination, the P* and σ values determine the amount by which the OFL will be reduced to establish the SSC-endorsed ABC.

The SSC has quantified major sources of scientific uncertainty in the estimate of OFL for category one stocks (stocks with relatively data-rich quantitative assessments) and recommended a σ value of 0.36. For category two stocks (stocks with relatively data-poor quantitative or non-quantitative assessments) the SSC recommended a σ value of 0.72 and for category three stocks (data-limited stocks with OFL contributions usually determined with DCAC or DB-SRA), the SSC recommend a σ value of 1.44. For stocks with data-poor stock assessments or no stock assessments (category two and three stocks), there is typically greater scientific uncertainty in the estimate of OFL. Therefore, the scientific uncertainty buffer is generally greater than that recommended for stocks with quantitative stock assessments. Assuming the same P* is applied, a larger σ value results in a larger reduction from the OFL.

For 2013 and 2014, the Council continued the general policy of using the SSC-recommended σ values for each species category. However, an exception to the general σ policy was made for widow rockfish. For widow rockfish, the SSC recommended a larger σ value of 0.41 rather than the 0.36 that would typically be used for category one stocks to better represent uncertainty in stock-recruit steepness, which is considered the major source of uncertainty in the widow rockfish assessment. In addition, several species changed categories in 2013-2014 as a result of updated stock assessments or due to being assessed for the first time. The σ value for these species was updated accordingly when determining the proposed ABCs for 2013 and 2014, as described below.

The species categories for yelloweye rockfish and blackgill rockfish south of 40°10′N. lat. were revised for 2013 and 2014 from category one to category two stocks. The yelloweye rockfish assessment was not able to estimate relative year class strength and the SSC recommended, yelloweye rockfish be considered a category two stock, and the σ value of 0.72 was used. Similarly, based on the stock assessment, the SSC recommended that blackgill rockfish be treated as a category two stock and the σ value of 0.72 was used. As a result of new stock assessments the species categories for spiny dogfish and greenspotted rockfish were revised for 2013 and 2014 from category three stocks to category two stocks. Accordingly, the σ values of 0.72 were used. Additional information about the σ values used for different species categories as well as the P*- σ approach can be found in the proposed and final rules from the 2011-2012 biennium. (75 FR 67810, November 3, 2010; 76 FR 27508, May 11, 2011). A discussion of the P* values used in combination with the σ values follows.

The PCGFMP specifies that the upper limit of P* will be 0.45. A P* of 0.5 equates to no additional reduction for scientific uncertainty beyond the sigma value reduction. A lower P* is more risk averse than a higher value, meaning that the probability of the ABC being greater than the “true” OFL is lower. For 2013 and 2014, the Council largely maintained the P* policies it established for the 2011-2012 biennium. Specifically, the Council recommended using P* values of 0.45 for all category one species, expect sablefish, which is described below. Combining the σ value of 0.36 the P* value of 0.45 results in a reduction of 4.4 percent from the OFL when deriving the ABC. For category two and three stocks, the Council's general policy was to use a P* of 0.4. When combined with the σ values of 0.72 and 1.44 for category two and three stocks, a P* value of 0.40 corresponds to 16.7 percent and 30.6 percent reductions, respectively.

The Council recommended more precautionary P* values in 2013-2014 for spiny dogfish and sablefish in order to account for uncertainty regarding the stock assessments. Spiny dogfish is a category two stock due to the model structure (fixed key parameters and no recruitment deviations) and sensitivity of the model results. The Council recommended a P* of 0.3 for spiny dogfish, which results in a 31.4 percent reduction from the OFL, in recognition of the uncertain catch history of the stock, which are largely discarded in west coast fisheries. The Council also expressed the need for precaution in managing spiny dogfish, pending a meta-analysis of elasmobranch FMSY harvest rates due to the indication in the stock assessment that the current FMSY harvest rate proxy of F45% may be too aggressive. Regarding the 2011 sablefish assessment, the level of uncertainty in estimates of both depletion and absolute biomass is greater than in earlier assessments, in particular because allowance was made for uncertainty in key parameters such as natural mortality, growth, and survey catchability. Additionally, sablefish steepness cannot be estimated reliably given the currently available data, and steepness had to be set to an assumed value (0.6) in the assessment. Therefore, the Council recommended a P* of 0.4 for sablefish, which results in a 8.7 percent reduction from the OFL.

The Council also applied the two-step σ and P* approach for stocks managed in stock complexes. The Council's SSC categorized and applied the appropriate σ value for individual stocks managed in stock complexes. For the six minor rockfish complexes, which are comprised of a mix of all three categories of stocks, the Council recommended a P* of 0.45. For the other flatfish, and other fish stock complexes, which is composed of category three stocks (except for spiny dogfish in the Other Fish which is category 2) a more precautionary P* of 0.40 was recommended. For each of the stock complexes, the component species ABC contributions were calculated and summed to derive the complex ABC. Tables 1a and 2a of this proposed rule present the harvest specifications for each stock and stock complex, including the proposed ABCs, while the footnotes to these tables describe how the proposed specifications where derived. Details regarding this can also be found in Chapter 2.1.2 of the DEIS (see Supplementary Information section above).

Proposed ACLs for 2013 and 2014

ACLs are specified for each stock and stock complex that is “in the fishery”. An ACL is a harvest specification set equal to or below the ABC to address conservation objectives, socioeconomic concerns, management uncertainty, or other factors necessary to meet management objectives. All sources of fishing related mortality (tribal, commercial groundfish and non groundfish, recreational, and EFP), including retained and discard mortality, plus research catch are counted against an ACL. The ACL serves as the basis for invoking accountability measures (AMs). If ACLs are exceeded more than one time in four years, then improvements to or additional AMs, for example catch monitoring and inseason adjustments to fisheries, may need to be implemented.

Under the PCGFMP harvest policies, when a stocks depletion level falls below BMSY or the proxy for BMSY, which is the biomass level that produces MSY (B25% for assessed flatfish, B40% for all other groundfish stocks), but is above the overfished level (MSST- B12.5% for assessed flatfish, B25% for all other groundfish stocks), the stock is said to be in the “precautionary zone” or below the precautionary threshold. In general, when recommending ACLs, the Council follows a risk-averse policy by recommending an ACL that is below the ABC when there is a perception the stock is below its BMSY, or to accommodate management uncertainty, socioeconomic concerns, or other considerations. When a stock is below the precautionary threshold the harvest policies reduce the fishing mortality rate. The further the stock biomass is below the precautionary threshold, the greater the reduction in ACL relative to the ABC, until at B10% for a stock with a BMSY proxy of B40% or B5% for a stock with a BMSY proxy of B25%, the ACL would be set at zero. These policies, known as the 40-10 and 25-5 harvest control rules, respectively, are designed to prevent stocks from becoming overfished and serve as an interim rebuilding policy for stocks that are below the overfished threshold. For stock complexes, the ACL is set for the complex in its entirety and is less than or equal to the sum of the individual component ABCs. The ACL may be adjusted below the sum of component ABCs to address the factors described above.

Under the PCGFMP, the Council may recommend setting the ACL at a different level than what the default ACL harvest control rule specifies as long as the ACL does not exceed the ABC and complies with the requirements of the MSA. The ACLs proposed for 2013-2014 are discussed below.

ACLs for “Healthy” and “Precautionary Zone” Individually Managed Species

For the following individually managed species there was no new scientific information or change in management policy from the 2011-2012 biennium for establishing 2013 and 2014 ACLs: arrowtooth flounder (ACLs set equal to the ABCs); black rockfish (OR-CA) (ACLs set below the ABCs); black rockfish (WA) (ACLs set equal to the ABCs); cabezon (CA) (ACLs set equal to the ABCs); cabezon (OR) (ACLs set equal to the ABCs); California scorpionfish (ACLs set equal to the ABCs); chilipepper south of 40°10′ N. lat. (ACLs set equal to the ABCs); English sole (ACLs set equal to the ABCs); longspine thornyhead north of 34°27′ N. lat. (ACLs set below the ABCs); longspine thornyhead south of 34°27′ N. lat. (ACLs set below the ABCs); Pacific cod (ACLs set below the ABCs); shortbelly rockfish (ACLs set below the ABCs); shortspine thornyhead north of 34°27′ N. lat. (ACLs set below the ABCs); shortspine thornyhead south of 34°27′ N. lat. (ACLs set below the ABCs); splitnose south of 40°10′ N. lat. (ACLs set equal to the ABCs); starry flounder (ACLs set equal to the ABCs); and yellowtail north of 40°10′ N. lat. (ACLs set equal to the ABCs).

The Council considered new policies or information relative to the ACLs for the following healthy and precautionary zone species: Dover sole, lingcod north of 42° N. lat., lingcod south of 42° N. lat., longnose skate, sablefish north of 36° N. lat., sablefish south of 36° N. lat., and widow rockfish.

Dover Sole

A new Dover sole assessment was done in 2011, which indicated the stock was healthy with a 2011 spawning stock biomass depletion of 83.7 percent of unfished biomass. Rather than set the ACLs equal to the ABCs of 88,865 mt in 2013 and 74,352 mt in 2014, the proposed 2013 and 2014 ACL of 25,000 mt is a re-specification of the 2012 ACL. The stock is projected to remain healthy while accommodating the current level of catch. Lower sablefish ACLs are proposed for 2013 and 2014 and, given that the trawl sablefish allocation can dictate the amount of Dover sole that can be accessed in the IFQ fishery, the Council did not recommend higher Dover sole ACLs.

Lingcod

Lingcod are distributed coastwide with harvest specifications based on two area stock assessments that were conducted in 2009 for the areas north and south of the California-Oregon border at 42° N. latitude. The stock assessments indicate west coast lingcod stocks are healthy with the stock depletion estimated for lingcod off Washington and Oregon to be at 62 percent of its unfished biomass, and lingcod off California estimated to be at 74 percent of its unfished biomass at the start of 2009. The lingcod ACLs for 2013-14 are being proposed for the areas north and south of the current 40°10′ N. lat. management line rather than north and south of the California-Oregon border (42° N. lat.), which is where the stock assessment splits the stocks. Current regulations at § 660.112(b)(1)(vii) prohibit vessels participating in the shorebased IFQ program from fishing in more than one IFQ management area on the same trip. Therefore, if lingcod were to have a geographic split at 42° N. lat. it would create a new IFQ management area that could unnecessarily restrict IFQ program participants. Dividing the lingcod specifications at 40°10′ N. lat. has no biological implications yet is consistent with the management of most other species with north-south specifications. The adjusted specifications for lingcod were based on the NMFS Northwest Fisheries Science Center trawl survey. The swept area biomass estimates calculated annually (2003-2010) in the NMFS Northwest Fisheries Science Center trawl survey indicated that 48 percent of the lingcod biomass for the stock south of 42° N. lat. occurred between 40°10′ N. lat. and 42° N. lat, and the specifications were adjusted accordingly. The 2013 and 2014 lingcod ACLs are 3,187 mt in 2013 and 3,023 mt in 2014 for the stock north of 40°10′ N. latitude and 1,111 mt in 2013 and 1,063 mt in 2014 for the stock south of 40°10′ N. lat., with the ACLs set equal to the ABCs.

Longnose Skate

The west coast longnose skate stock was assessed in 2007. The spawning stock biomass was estimated to be at 66 percent of its unfished biomass at the start of 2007. The Council considered two 2013 and 2014 longnose skate ACL alternatives. The alternatives were an ACL of 1,349 mt, which was the 2012 ACL and was based on a 50 percent increase in the average 2004-2006 total catch mortality, and an ACL of 2,000 mt. The Council recommended an ACL of 2,000 mt to accommodate the increased landings in the non-whiting trawl fishery seen in recent years and limit potential disruption of current fisheries. An ACL of 2,000 mt is well below the 2013 and 2014 ABCs for the stock of 2,774 mt and 2,692 mt. The proposed ACL is within a level of harvest projected to maintain the population at a healthy level as projected in the 10-year forecast for longnose skate in the 2007 stock assessment.

Sablefish

A new coastwide sablefish stock assessment was conducted in 2011. The spawning stock biomass was estimated to be at 33 percent of its unfished biomass at the beginning of 2011. Because the sablefish stock is in the precautionary zone with a stock biomass below the B40% target MSY biomass, the 40-10 harvest control rule was applied to the ABC to determine the proposed ACL. The coastwide ACL was then apportioned north and south of 36° N. lat., using the average 2003-2010 proportions derived from the swept-area biomass estimates of sablefish from the NWFSC shelf-slope trawl survey (73.6 percent north; 26.4 percent south). The apportionments used to determine 2013 and 2014 sablefish ACLs included updated information from the 2011 stock assessment. The proportions differ slightly from those used to apportion in 2012 ACLs.

To account for the uncertainty inherent in the abundance estimates of sablefish south of 36° N. lat. (due to the short time-series of survey data from the southern area and advisory body advice), the Council recommended southern area ACL apportionments that were reduced by 50 percent for 2011 and 2012. For 2013 and 2014, the SSC advised the Council that a fuller time series of trawl survey and catch data informing stock biomass in the Conception area reduced the scientific uncertainty in estimating biomass in that area in the 2011 assessment making the added 50 percent reduction unnecessary. The 2013 and 2014 proposed sablefish ACLs are 4,012 mt in 2013 and 4,349 mt in 2014 for the stock north of 36° N. lat. and 1,439 mt in 2013 and 1,560 mt in 2014 for the stock south of 36° N. lat. The ACLs are set below the ABCs based on the 40-10 harvest control rule. The 2013 and 2014 ACLs are a 25 percent reduction from the 2011-2012 ACLs for sablefish north of 36° N. lat. Sablefish is an economically important species in all commercial fisheries. The effects of the sablefish ACL on projected ex-vessel revenues in 2013 and 2014 are further discussed in the Classification section below.

Widow Rockfish

A new full assessment of widow rockfish was conducted in 2011. The new stock assessment indicated the spawning stock biomass was at 51 percent of its unfished biomass at the start of 2011 and above the rebuilding threshold. Beginning in 2013 and 2014, widow rockfish will be managed as a healthy stock. Although the base model is considered to be the best available science, there was considerable uncertainty regarding the new stock assessment's findings. The Council took this into consideration when making the ACL recommendations. For 2013-2014, the Council recommended ACLs of 1,500 mt to accommodate increased opportunity in the trawl fishery while keeping the spawning stock biomass above the target B40% level for the next 10 years according to the base model. The ACL of 1,500 mt adds more precaution given the uncertainty associated with the results of the stock assessment and is set below the ABC of 4,598 mt in 2013 and 4,212 mt in 2014.

ACLs for Stock Complexes

For the eight stock complexes managed under the PCGFMP, the Council recommended maintaining the 2013 and 2014 ACLs as close as possible to the 2012 ACLs. Maintaining ACLs as similar as possible to 2012 will help provide stability to fisheries in 2013 and 2014 while the trawl fishery continues to adjust to IFQ management and while NMFS and the Council consider changes to how stock complexes are structured. All of the ACLs for stock complexes are less than or equal to the summed ABC contribution of each component stock in each complex as described in the following paragraphs.

Minor Nearshore Rockfish North and South of 40°10′ N. Lat.

For minor nearshore rockfish north of 40°10′ N. lat., the preferred 2013 and 2014 complex ACL is set equal to the ABC, at 94 mt each year. The 2013 and 2014 complex ABC is the summed contribution of the component stocks′ ABCs. For minor nearshore rockfish south of 40°10′ N. lat., the preferred 2013 and 2014 complex ACL of 990 mt is the same as the 2012 ACL and is less than the 2013 ABC for the complex.

Minor Shelf Rockfish North and South of 40°10′ N. lat.

For minor shelf rockfish north of 40°10′ N. lat., the preferred 2013 and 2014 complex ACL of 968 mt is the same as the 2012 ACL and is less than the 2013 ABC of 1,920 and the 2014 ABC of 1,932 mt, for the complex. For minor shelf rockfish south of 40°10′ N. lat., the preferred 2013 and 2014 complex ACL of 714 mt is the same as the 2012 ACL and is less than the 2013 and 2014 ABCs for the complex.

Greenspotted rockfish is managed within the minor shelf rockfish complexes. The 2011 assessment indicated the stock is in the precautionary zone with spawning biomass depletions of 30.6 percent and 37.4 percent for the stocks north and south of Point Conception, respectively. However, the stocks have shown substantial biomass increases since implementation of the rock fish conservation areas (RCAs) in 2003. Shelf rockfish are particularly well-protected by the RCAs, and greenspotted rockfish catches have been negligible since 2003.

Minor Slope Rockfish North and South of 40°10′ N. Lat.

For minor slope rockfish north of 40°10′ N. lat., the preferred 2013 and 2014 complex ACL of 1,160 mt is the same as the 2012 ACL and is less than the 2013 ABC of 1,381 mt and the 2014 ABC of 1,414 mt, for the complex. For minor slope rockfish south of 40°10′ N. lat., the preferred 2013 and 2014 complex ACL is set equal to the ABC, at 618 mt in 2013 and 622 mt in 2014.

Blackgill rockfish is managed within the minor slope rockfish complexes. The 2011 assessment for the stock south of 40°10′ N. lat. indicated the stock was in the precautionary zone with spawning biomass depletion estimated to be 30 percent of its unfished biomass at the start of 2011. The Council recommended and NMFS is proposing to establish 2013 and 2014 HGs equal to the 40-10 adjusted ACLs calculated for the southern blackgill rockfish stock of 106 mt and 110 mt in 2013 and 2014, respectively.

Other Flatfish

The preferred 2013 and 2014 ACL for the other flatfish complex of 4,884 mt is equal to 2012 ACL. The 2013-2014 ACLs are set below the ABC of 6,982 mt.

Other Fish

The preferred 2013 and 2014 ACLs for the other fish complex of 4,717 mt and 4,697 mt, respectively, are equal to the preferred 2013 and 2014 ABCs, which are lower than the No Action 2012 ACL of 5,575 mt.

Spiny dogfish is managed within the other fish complex. The 2011 assessment indicated that spiny dogfish stock was healthy with an estimated spawning biomass at 63 percent of its unfished biomass. Although the Council initially considered managing spiny dogfish with a species specific harvest specifications, the final recommendation was to continue managing it within the other fish complex ACL for 2013 and 2014. Reconsideration of species specific specifications would be made in the 2015-2016 specifications cycle when a thorough analysis on complex management is expected to be completed as described below.

Stock Complex Composition

The Council and NMFS have recognized the need to revisit the composition of the stock complexes to ensure that stocks grouped together are sufficiently similar in geographic distribution, life history, productivity, and susceptibility to the fishery. However, recognizing that additional scientific work and management consideration is necessary to comprehensively address the issue, the Council recommended maintaining the current stock complexes for 2013 and 2014. NMFS is prioritizing completion of an analysis to inform changes to stock complexes in time for the 2015-2016 biennium due to information indicating that the harvest of some stocks may be out of proportion to their contribution to the complex specifications. The DEIS indicates that routine modifications to existing management measures could be effective at controlling catch of stock complexes if it becomes necessary.

Rebuilding Plan ACLs for Overfished Species

When a stock has been declared overfished a rebuilding plan must be developed and the stock must be managed in accordance with the rebuilding plan. ACLs for these stocks are therefore set according to the rebuilding plans. The following seven overfished groundfish stocks would be managed under rebuilding plans in 2013 and 2014: Bocaccio south of 40°10′ N. lat.; canary rockfish; cowcod south of 40°10′ N. lat.; darkblotched rockfish, Pacific Ocean Perch (POP), petrale sole, and yelloweye rockfish. Section 304(e)(4) of the MSA provides that any fishery management plan, plan amendment, or proposed regulations for rebuilding an overfished fishery shall: “(A) specify a time period for rebuilding the fishery that shall—(i) be as short as possible, taking into account the status and biology of any overfished stocks of fish, the needs of fishing communities, recommendations by international organizations in which the United States participates, and the interaction of the overfished stock of fish within the marine ecosystem; and (ii) not exceed ten years, except in cases where the biology of the stock of fish, other environmental conditions, or management measures under an international agreement in which the United States participates dictates otherwise” (16 U.S.C. 1854(e)(4)).

The Council and NMFS rely on rebuilding analyses to develop rebuilding plans, particularly to determine the amount of time needed to rebuild stocks given varying levels of fishing mortality. An overfished groundfish stock is considered rebuilt once its biomass reaches BMSY. Rebuilding analyses are used to project the status of the overfished resource into the future under a variety of alternative harvest strategies to determine the probability of recovering to BMSY (or its proxy) within a specified time frame. Life history characteristics (e.g., age of reproductive maturity, relative productivity at different ages and sizes, etc.) and the effects of environmental conditions on abundance (e.g., relative productivity under inter-annual and inter-decadal climate variability, availability of suitable food and habitat for different life stages, etc.) are taken into account in the stock assessment and the rebuilding analysis. A rebuilding analysis for an overfished species uses the information in the stock assessment for that species to determine TMIN, the minimum time to rebuild to BMSY with a 50 percent probability starting at the time the rebuilding plan was implemented, in the absence of fishing-caused mortality. Also included in the rebuilding analysis and rebuilding plan is TF=0 which is the minimum time to rebuild to BMSY with a 50 percent probability in the absence of fishing-caused mortality starting from the beginning of the next biennial cycle, in this case 2013. The value of TF=0 is therefore, in effect, TMIN based on our current understanding of the stock. For purposes of this section and its description of the canary rockfish and POP rebuilding plans, TF=0 can thus be considered as TMIN. The rebuilding analyses are used to predict TMIN for each overfished species and, in doing so, answer the question of what time period for rebuilding is “as short as possible” for each of the overfished species. The amount of time between TMIN and the target rebuilding year (TTARGET), is used to measure the time period that the MSA requires to be as “short as possible,” when taking into account the required factors, including the needs of fishing communities. The TTARGET parameter is discussed in more detail below.

TTARGET is the year in which the Council expects the stock to rebuild with at least a 50 percent probability under the chosen rebuilding strategy and is set between TMIN and TMAX. TMAX is TMIN plus the length of time associated with one mean generation time for that stock. A particular TTARGET is determined by the productivity of the stock, its current status, and the allowable harvest associated with a particular rebuilding strategy established based on consideration of the required factors. To rebuild a stock by the TMIN date would require elimination of human-induced mortality on a stock (the complete absence of fishing mortality is referred to as F=0). Even if incidental fishing mortality of overfished species, that occurs as the result of fishing for target groundfish species is ended, this does not necessarily result in the complete absence of human-induced fishing mortality. To rebuild by the TMIN date would require elimination of extractive scientific research, such as surveys, in addition to any target or incidental commercial, recreational, or ceremonial and subsistence fishing that results in overfished species mortality. Eliminating extractive scientific research would eliminate a significant portion of the data used to inform stock assessments and better understand the biological condition of groundfish stocks. Thus, the Council's rebuilding strategies allow for these sources of scientific research-related mortality. Also, as discussed above, the MSA requires that rebuilding plans take into account the needs of fishing communities. The rebuilding strategy for each overfished stock, and the resulting TTARGET, is determined in consideration of the statutory factors.

When an SPR harvest rate is used as the rebuilding strategy, the Council's preference is to maintain a constant SPR harvest rate during the rebuilding period for a stock, if appropriate. The SPR is the expected lifetime contribution to the spawning stock biomass for a recruit (a fish of specific spawning age or greater). Harvest rates are presented in terms of the SPR. This is a percent value indicating an effective harvest rate that would return the population to a given level of spawning potential (reproductive output) in relation to the spawning potential of the unfished population. The SPR harvest rate specifies the proportion of the spawning stock that can be removed each year while allowing the stock to rebuild by TTARGET and inherently takes into account the productivity of the stock. The harvest rate, or harvest control rule, determines the ACLs for overfished species. The exploitation pattern, rate of growth, and natural mortality can be given consideration when calculating an SPR harvest rate. Applying a constant SPR harvest rate is more precautionary in an uncertain environment as it reduces the effect of changes in variability in the scale of biomass (a change in the entire trajectory of biomass from the first biomass estimate forward to the current biomass estimate). When a new stock assessment results in a change in the understanding of stock scale or absolute stock abundance, a constant harvest rate strategy is expected to keep the stock on track towards rebuilding. In addition, the “rebuilding paradox” (the fishing interaction for a stock increases as the stock biomass increases) is addressed within a constant SPR approach. This is because the ACL would change in relation to changes in biomass. In contrast, constant catch rebuilding strategies do not adjust in relation to changes in biomass, which can be problematic when there is a downward change in abundance. In this case, the catch may become too large relative to the size of the biomass population and adjustments would become necessary to meet the same TTARGET. Although the biennial management cycle requires focus on ACLs for a two year period, an SPR harvest strategy is based on a rebuilding trajectory over time. For stocks with slow trajectories, the differences between two alternatives considered during a single biennial management cycle need to be compared in relation to how they rebuild the stock over time.

As explained in the preamble to the proposed specifications and management measures for the 2011-2012 biennium (75 FR 67810, November 3, 2010), new information or changes in perception of stock status and biology can result in variability in stock assessments and rebuilding analyses. In some cases, this variability requires revisions to existing rebuilding plans in order to account for new estimates of TMIN. Given the changes in perception of stock status and biology, the Council tracks rebuilding progress in three dimensions: Stock productivity; absolute stock abundance or stock scale; and relative stock abundance or stock status. Stock productivity is referred to as recruitment and means the ability of a stock to generate new individuals of harvestable size. Stock scale is the total number of individuals in a population. This value is rarely known, but is usually estimated from relative abundance or through other methods. Absolute stock abundance is an estimate of the current biomass usually measured by indices that track trends in population biomass over time. Stock status is the current biomass relative to the unfished biomass. Each of these dimensions is subject to considerable scientific uncertainty and can change the overall rebuilding outlook from cycle to cycle. To determine whether a stock is better or worse off compared to a previous assessment, all three dimensions must be examined. Changes in the understanding of stock productivity can affect rebuilding plans by altering our perception of how quickly a stock can increase. Changes in our understanding of life history traits (e.g. mortality, maturity, fecundity, or growth) can change the evaluation of stock productivity. In the case of many groundfish, recruitment is highly variable and sporadic or poorly understood. Age or length data, along with survey biomass estimates and removal histories, all inform recruitment patterns, but to varying degrees of resolution. The most recent few years of recruitment are often the most uncertain.

Absolute stock abundance, or stock scale, has also demonstrated considerable variability across assessments. This variability is often a result of uncertainty in catch histories, which scales the biomass via estimates of fishing mortality, but is also sensitive to life history parameters such as growth and mortality. Any changes in these estimates can have large effects in perceived biomass. These changes in scale are commonly seen in estimates of unfished biomass, as the scale of the entire population trajectory can shift up or down. Changes in population scale will affect the level of catch needed to achieve the rebuilding goals if harvest levels are not based on harvest rates. Stock status or depletion is expressed as an estimate of current biomass relative to the estimate of unfished biomass. Importantly, changes in the estimate of unfished biomass can change with new data, even though the current population biomass stays the same. Likewise, as more data becomes available on productivity in current years it may alter our understanding of current year biomass relative to an unfished biomass. Because stock status is the basis for determining when a stock is rebuilt, subsequent estimates of when a stock is projected to rebuild at a specific SPR may change as estimates of stock status change.

For two stocks, POP and canary rockfish, new scientific information revealed that it is unlikely that the stocks can be rebuilt by their current TTARGET even if all catch of these stocks was prohibited. To avoid disastrous short-term consequences for fishing communities, harvest levels above the TMIN level were considered. Section 4.5.3.2 of the PCGFMP provides the following general guidance on the needs of the fishing communities: “Fishing communities need a sustainable fishery that: is safe, well-managed, and profitable; provides jobs and incomes; contributes to the local social fabric, culture, and image of the community; and helps market the community and its services and products.” Because so many of the groundfish stocks are intermixed in different proportions, making adjustments to protect one stock may increase the mortality of other stocks. This intermixing makes rockfish rebuilding plans particularly challenging. Reducing catch of overfished rockfish indirectly affects fishing opportunity by constraining the harvest of target stocks in multiple commercial and recreational fishery sectors. The Council has approached this challenging situation using a comprehensive approach to analyzing rebuilding alternatives and impacts to fishing communities by taking into account the biology of the stocks and the needs of fishing communities in a holistic fashion that simultaneously considers all rebuilding species and groundfish fishing sectors.

The EIS prepared for this action analyzed a range of POP and canary rockfish ACLs arrayed in different configurations along with the ACLs for other stocks and the management measures needed to prevent ACLs from being exceeded. These “integrated alternatives” are designed to help demonstrate how changes in POP and canary rockfish ACLs affect access to target stocks or influence projected mortalities of overfished species, among other factors. Because of the multispecies nature of the groundfish fishery (the ACL of one species can influence the ACL and/or access to another species), the choice of canary rockfish and POP harvest rates, and the resulting ACLs and TTARGETS, were carefully considered by the Council. In their final recommendation, the Council weighed many factors including rebuilding progress, biology of the stock, economic impacts, allocations, and the need for new or more restrictive management measures. Ultimately, the Council recommended maintaining the harvest rate in the existing rebuilding plans for POP and canary rockfish and establishing revised TTARGETS, and maintaining the existing rebuilding plans, including the TTARGETS, for the other five overfished species. The proposed SPR or harvest control rule for each stock managed under a rebuilding plan, the resulting ACLs, and summarized information about rebuilding progress are presented below. Detailed information is also available in the relevant stock assessments, stock assessment updates, rebuilding analyses, and the EIS for this action, which are all available from NMFS and the Pacific Fishery Management Council (See SUPPLEMENTARY INFORMATION).

Bocaccio

The 2011 rebuilding analysis indicated that bocaccio is showing steady progress towards rebuilt status under the current rebuilding plan described in 50 CFR 660.40(a). Applying the current rebuilding harvest control rule to new information from the 2011 stock assessment update, the rebuilding analysis projects bocaccio to rebuild to BMSY one year earlier than the TTARGET of 2022 specified in the current rebuilding plan.

When an SPR harvest rate of 77.7 percent from the current rebuilding plan is applied to the biomass estimate from the 2011 assessment update, it results in the proposed ACLs of 320 mt in 2013 and 337 mt in 2014. Because rebuilding progress is considered adequate, and the 2011 assessment update supports our fundamental understanding of the stock, the Council's recommendation was to maintain the rebuilding plan currently in the FMP and 50 CFR 660.40(a) (i.e., no modifications to TTARGET or SPR harvest rate).

Canary Rockfish

The 2011 rebuilding analysis indicated that the point estimate for the canary rockfish biomass is slightly below the rebuilding trajectory from the previous (2009) rebuilding analysis. The estimated unfished spawning biomass increased by 7 percent resulting in a change in the depletion estimate (the metric used to gauge stock status expressed as the ratio of current to unfished spawning biomass) from 23.7 to 23.3 percent. Given changes in the relative status and productivity of the canary rockfish stock, the median time to rebuild the canary rockfish stock in the absence of fishing, TF=0, would be 2028, which is one year longer than the TTARGET of 2027 specified in the current rebuilding plan at 50 CFR 660.40(b). Because the canary rockfish stock cannot rebuild by the current TTARGET of 2027 even in the absence of fishing, the rebuilding plan must be modified.

The No Action or 2012 ACL for canary rockfish is 107 mt. Given the results of the 2011 stock assessment update and rebuilding analysis, the No Action ACL corresponds with an SPR of 89.5 percent and a median time to rebuild of 2030. In addition to the No Action ACL, the Council considered five ACLs that extend the median time to rebuild by one, two, three and four years from TF=0. The additional ACLs included: 48 mt in 2013 and 49 mt in 2014, which corresponds to a median time to rebuild of 2028 and an SPR of 95.1 percent; 101 mt in 2013 and 104 mt in 2014, which corresponds to a median time to rebuild of 2029 and an SPR of 90 percent; 116 mt in 2013 and 119 mt in 2014, which corresponds to a median time to rebuild of 2030 and an SPR of 88.7 percent; 147 mt in 2013 and 151 mt in 2014, which corresponds to a median time to rebuild of 2030 and an SPR of 85.9 percent; and, 216 mt in 2013 and 220 mt in 2014, which corresponds to a median time to rebuild of 2030 and an SPR of 80.3 percent.

The ACLs of 116 mt in 2013 and 119 mt in 2014 were included in integrated alternatives one and three and would maintain the Council's existing policies and the SPR specified in the existing rebuilding plan (88.7 percent). Although estimates of unfished biomass increased for canary rockfish, the increase was relatively small compared to the increase in estimated unfished biomass for POP (discussed below). In addition, the estimated ending year spawning biomass increased. Due to the estimated increase in population size and different assumption used in the most recent rebuilding analysis about the relative catch by different gear types, the 2013-2014 ACLs resulting from the SPR 88.7 percent harvest rate are slightly higher than the No Action ACLs. The ACLs of 101 mt in 2013 and 104 mt in 2014 were included in integrated alternatives two and six and are most similar to the 2012 ACL (No Action ACL). The ACLs of 48 mt in 2013 and 49 mt in 2014, included in integrated alternative four, are the most restrictive, and are similar to the OYs that were in place between 2003 and 2008. The alternative five ACLs of 216 mt in 2013 and 220 mt in 2014, and the alternative seven and alternative eight ACLs, which are the same, of 147 mt and 151 mt, are increases that are expected to provide increased fishing opportunity particularly for widow rockfish.

Despite very restrictive management measures being in place from 2003 to 2008 (prior to implementation of the trawl rationalization program, for more information on this program see 75 FR 78344, December 15, 2010 and 75 FR 60868, October 1, 2010), total mortality of canary rockfish exceeded the OYs in every year during this time period except in 2008. Effectively controlling catch of canary rockfish has proven difficult, particularly at low harvest levels that were in place between 2003 and 2008. The low canary rockfish ACL alternative, alternative four, would require a combination of shortened recreational fishing seasons or lower commercial fishery trip limits, and depth restrictions. Providing a higher ACL as under alternatives five, seven, or eight could allow some fishing effort to shift off of the slope areas resulting in reduced catch of POP.

The Council's recommended ACLs are 116 mt in 2013 and 119 mt in 2014, which maintains the current SPR harvest rate of 88.7. The target rebuilding year for canary rockfish is changed by three years (from 2027 to 2030). However, the target rebuilding year is only two years longer than TF=0; the same length of time as in the previous rebuilding plan. Under the 2011 rebuilding analysis, the probability of rebuilding to TTARGET in 2030 using an SPR harvest rate of 88.7 percent is 54.6 percent (see http://www.pcouncil.org/wp-content/uploads/D5b_SUP_GMT_JUN2012BB.pdf). The preferred ACLs are intended to provide a level of harvest that rebuilds quickly, yet takes into account the needs of fishing communities. Also, the proposed management measures and catch allocations are projected to result in canary rockfish total catch mortality less than the annual ACLs. Managing the fishery to a level that is less than the annual ACLs is intended help ensure total mortality stays below the ACL, to allow the stock to rebuild faster, and to reduce the likelihood that inseason management changes will be needed to ensure that ACLs are not exceeded.

Cowcod

The proposed 2013 and 2014 harvest specifications are consistent with the current rebuilding plan. No new assessment was done for cowcod because there was not enough new information on which to base an assessment. However, rebuilding progress is considered adequate, the Council's recommendation was to maintain the rebuilding plan currently in the FMP, and at 50 CFR 660.40 (i.e., no modifications to TTARGET of 2068 or SPR harvest rate). The three mt ACLs proposed for 2013 and 2014 are based on an SPR harvest rate of 82.7 percent and result in a median time to rebuild of 2068, which is eight years longer than TF=0. As in previous biennial harvest specifications, the Conception area ACL was doubled as an appropriate harvest contribution for the unassessed Monterey area.

Darkblotched Rockfish

The 2011 rebuilding analysis indicates that darkblotched rockfish is showing steady progress towards rebuilding under the current rebuilding plan (50 CFR 660.40(d)). The revised estimates from the new rebuilding analysis indicate that darkblotched rockfish will rebuild to BMSY eight years earlier than the TTARGET of 2025 specified in the current rebuilding plan if the existing harvest control rule (SPR = 64.9 percent) remains in place. The proposed ACLs of 317 mt in 2013 and 330 mt in 2014 result from application of the SPR harvest rate of 64.9 percent to information from the 2011 stock assessment and has a median time to rebuild of 2017, which is one year longer than TF=0. Because the rebuilding progress indicated in the 2011 assessment and rebuilding analysis was considered adequate, and supports our fundamental understanding of the stock, the Council recommendation was to maintain the rebuilding plan currently in the FMP and regulation (i.e., no modifications to TTARGET or SPR harvest rate).

Petrale Sole

The 2011 stock assessment and rebuilding analysis projected the petrale sole biomass to be at 18 percent of its unfished biomass and showing strong progress towards rebuilt status. The new rebuilding analysis estimates that petrale sole will rebuild to BMSY three years earlier than the TTARGET of 2016 specified in the current rebuilding plan if the 25-5 harvest control rule included in the rebuilding plan continues to be used as the rebuilding strategy. The ACLs derived by applying the 25-5 harvest control rule and being proposed are 2,592 mt and 2,652 mt in 2013 and 2014, respectively. The minimum time to rebuild petrale sole is 2014 (TMIN). The ACLs derived from the 25-5 harvest control rule are projected to rebuild the stock by 2013, the same year as TF=0. Because the rebuilding progress was considered adequate, and the 2011 assessment supports our fundamental understanding of the stock, the Council recommendation was to maintain the rebuilding plan currently in the FMP and at 50 CFR 660.40(f) (i.e., no modifications to TTARGET or harvest control rule).

POP

The 2011 rebuilding analysis showed the POP biomass to be below the rebuilding trajectory from the previous (2009) rebuilding analysis. The change is primarily due to a revised estimate of initial unfished biomass (B0) and depletion, rather than a change to the current biomass level. The new estimate of unfished stock size is higher than previously thought. This represented a fundamental revision to our understanding of the status of this species, which in turn warranted revisions to the rebuilding plan. Even if harvest of POP were prohibited (F=0) the median time to rebuild would be 2043, which is 23 years past the current TTARGET of 2020.

The No Action or 2012 ACL for POP is 183 mt. In 2012, an annual catch target (ACT) of 157 mt was also specified. In addition to the No Action ACL and ACT, the Council considered four ACLs for the 2013-14 cycle that would extend the median time to rebuild beyond TF=0 by three, eight, 14, and 17 years. The alternative ACLs considered by the Council included: 74 mt in 2013 and 76 mt in 2014, which corresponds to a median time to rebuild of 2046 and an SPR of 92.9 percent; 150 mt in 2013 and 153 mt in 2014, which corresponds to a median time to rebuild of 2051and an SPR of 86.4 percent; 222 mt in 2013 and 226 mt in 2014, which corresponds to a median time to rebuild of 2057 and an SPR or 80.9 percent; and, 247 mt in 2013 and 251 mt in 2014, which corresponds to a median time to rebuild of 2060 and an SPR or 79.2 percent.

The Council considered this broad range of POP ACL alternatives in order to examine the effects of varying levels of POP mortality on the “needs of fishing communities” and the POP rebuilding trajectory. The ACLs of 150 mt in 2013 and 153 mt in 2014 were included in integrated alternatives one, two, and eight and would maintain the SPR harvest rate policy in the existing rebuilding plan (86.4 percent). The ACLs of 74 mt in 2013 and 76 mt in 2014 were included in integrated alternatives three and five and are similar to the lowest single year (2005) catch seen since 2004. The alternative four ACLs of 247 mt and 251 mt are the most liberal followed by alternative six and seven with ACLs of 222 mt in 2013 and 226 mt in 2014. The larger ACL alternatives would allow targeting opportunity for widow rockfish and increases in the harvest of Pacific whiting. POP is a slope rockfish species that is primarily taken in the trawl fishery. Generally, lower ACLs for POP would reduce the flexibility of trawl vessels to fish deeper when targeting Pacific whiting and non-whiting stocks on slope fishing grounds north of 40°10′ N. lat. In recent years, POP catch has increased later in the season when the Pacific whiting fishery operated deeper and more northerly than earlier in the season. However, the bulk of POP catch is taken in the bottom trawl sector and has increased in recent years as more effort has shifted to areas seaward of the trawl RCA. For the commercial and tribal fisheries, the primary common factor limiting commercial groundfish fisheries under integrated alternatives one, two, three, five, seven, and eight were the POP ACLs under each alternative. In other words, management measures necessary to keep the commercial fisheries within the POP ACLs limited access to other stocks under alternatives one, two, three, five, seven, and eight. This was not the case for alternative four because of the higher POP ACL and the very low canary rockfish ACL. Under alternative four, canary rockfish becomes the limiting factor and even more effort is shifted offshore.

The Council has recommended maintaining the rebuilding strategy in the current rebuilding plan, with an SPR harvest rate of 86.4 percent, resulting in ACLs of 150 mt in 2013 and 153 mt in 2014. This is a reduction from the 2012 POP ACL of 183 mt. The revised TTARGET is 2051, which is eight years longer than TF=0. The proposed management measures and catch allocations for 2013 and 2014 are projected to result in POP total catch mortality less than the annual ACLs. Managing the fishery to a level that is less than the annual ACLs is intended to help ensure total mortality stays below the ACL, to allow the stock to rebuild faster, and to reduce the likelihood that inseason management changes will be needed to keep mortality within the ACL. The ACL for POP has the greatest effect on the northern trawl fishery (both the at-sea whiting sectors and the shorebased IFQ sector).

Yelloweye Rockfish

The 2011 rebuilding analysis indicates that yelloweye rockfish is showing steady progress towards rebuilt status under the current rebuilding plan. The new rebuilding analysis estimates that yelloweye rockfish will rebuild to BMSY seven years earlier than the TTARGET of 2074 specified in the current rebuilding plan if the existing harvest control rule (SPR = 76.0 percent) remains in place. The proposed ACL of 18 mt in 2013 and 2014 results from applying an SPR harvest rate of 76.0 percent to current biomass and has a predicted median time to rebuild of 2067 (yelloweye rockfish now has 62.1 percent probability of rebuilding by the TTARGET specified in the current rebuilding plan. Because rebuilding progress was considered adequate, and the assessment supports our fundamental understanding of the stock, the Council recommended maintaining the rebuilding plan currently in the FMP and at specified at § 660.40 (i.e., no modifications to TTARGET or SPR harvest rate).

Management Measures

New management measures being proposed for the 2013-2014 biennial cycle would work in combination with management measures in existing regulations to create a management structure intended to control fishing. This management structure should ensure that the catch of overfished groundfish species does not exceed the rebuilding ACLs while allowing harvest of healthier groundfish stocks to occur to the extent possible. Routine management measures are used to modify fishing behavior during the fishing year. Routine management measures for the commercial fisheries include trip and cumulative landing limits, time/area closures, size limits, and gear restrictions. Routine management measures for the recreational fisheries include bag limits, size limits, gear restrictions, fish dressing requirements, and time/area closures. The groundfish fishery is managed with a variety of other regulatory requirements that are not routinely adjusted, many of which are not changed through this rulemaking, and are found at 50 CFR 660, subparts C through G. The regulations at 50 CFR 660, subparts C through G, include, but are not limited to, long-term harvest allocations, recordkeeping and reporting requirements, monitoring requirements, license limitation programs, and essential fish habitat (EFH) protection measures. The routine management measures specified at 50 CFR 660.60 (c), in combination with the entire collection of groundfish regulations, are used to manage the Pacific Coast groundfish fishery during the biennium to achieve harvest guidelines, quotas, or allocations, that result from the harvest specifications identified in this proposed rule, while protecting overfished and depleted stocks.

This section describes biennial fishery allocations and new management measures proposed for 2013-2014 including: changes to latitude and longitude coordinates that define the boundaries of the Rockfish Conservation Areas (RCA)s; the ability to routinely modify deductions from the ACL to provide fishing opportunities but not exceed ACLs; requirements to completely offload before starting a new trip; updating sorting requirements; and management measures to control the harvest, if needed, of longnose skate and spiny dogfish.

Biennial Fishery Allocations

Two-year trawl and nontrawl allocations are decided during the biennial process for those species without long-term allocations or species where the long-term allocation is suspended because the species was declared overfished. For all species, except sablefish north of 36° N. lat., allocations for the trawl and nontrawl sectors are calculated from the fishery harvest guideline. The term “fishery harvest guideline” is defined at § 660.11, and is the tonnage that remains after subtracting from the ACL, or ACT when specified, harvest in Tribal fisheries, scientific research activities, non-groundfish fisheries and activities conducted under exempted fishing permits. The two-year allocations and recreational harvest guidelines are designed to accommodate anticipated mortality in each sector as well as to accommodate variability and uncertainty in those estimates of mortality. Allocations described below are specified in the harvest specification tables appended to part 660, subpart C.

Longnose Skate

The Council recommended a two-year trawl and nontrawl HG for longnose skate of 90 percent to the trawl fishery and 10 percent to the nontrawl fishery. The allocation percentages reflect historical catch of longnose skate between the two sectors.

Bocaccio

The following are the Council's recommended allocations for bocaccio in 2013: Limited entry trawl, 76.9 mt; limited entry and open access non-nearshore fixed gears, 74.2 mt; limited entry and open access nearshore fixed gear, 0.9 mt; and California recreational 167.9 mt. The following are the Council's recommended allocations for bocaccio in 2014: Limited entry trawl, 79.8 mt; limited entry and open access non-nearshore fixed gears, 77 mt; limited entry and open access nearshore fixed gear, 0.9 mt; California recreational 174.2 mt. These allocations are anticipated to accommodate estimates of mortality of bocaccio by sector in 2013-2014.

Canary Rockfish

The following are the Council's recommended allocations for canary rockfish in 2013: Shorebased IFQ Program, 40.3 mt; at-sea sectors of the Pacific whiting fishery, 12.8 mt (catcher/processor 7.5 mt and mothership 5.3 mt); limited entry and open access non-nearshore fixed gears, 3.6 mt; limited entry and open access nearshore fixed gear, 6.2 mt; Washington recreational, 3.1 mt; Oregon recreational 10.9 mt; and California recreational 22.6 mt. The following are the Council's recommended allocations for canary rockfish in 2014: Shorebased IFQ Program, 41.5 mt; at-sea sectors of the Pacific whiting fishery, 13.2 mt (catcher/processor 7.7 mt and mothership 5.5 mt); limited entry and open access non-nearshore fixed gears, 3.7 mt; limited entry and open access nearshore fixed gear, 6.4 mt; Washington recreational, 3.2 mt; Oregon recreational 11.2 mt; and California recreational 23.3 mt. These allocations are anticipated to accommodate estimates of mortality of canary rockfish by sector in 2013-2014.

Cowcod

The trawl/non-trawl allocations of cowcod for the first years of the IFQ fishery were 66 percent to the trawl fishery and 34 percent to the non-trawl fisheries. The trawl fishery had a higher allocation to account for the uncertainty in how much cowcod IFQ fishery participants would encounter. Catch of cowcod in the IFQ fishery during 2011 was only 39 pounds while best available estimates for cowcod catch in non-trawl fisheries was almost 1 mt. If the non-trawl allocation is not increased, and catches of cowcod continue at levels similar to those estimated for 2011, trip limit reductions and/or RCA modifications may be required in southern California to address the higher-than-expected catch levels in non-trawl fisheries. Rather than imposing such restrictions, the Council recommended a change in the allocation, making less cowcod available to trawl fisheries and more available to non-trawl fisheries. The cowcod allocation is proposed to be 34 percent trawl and 66 percent non-trawl for 2013-2014. NMFS anticipates the proposed allocation structure will keep catch below the 2013-2014 cowcod ACLs without having to make changes to fishery management measures.

Minor Shelf Rockfish

For minor shelf rockfish north of 40°10′ N. lat., 560 mt (60.2 percent of the fishery harvest guideline) is allocated to the trawl fishery and 370 mt (39.8 percent of the fishery harvest guideline) is allocated to the nontrawl fishery for 2013 and 2014. For minor shelf rockfish south of 40°10′ N. lat., 82 mt (12.2 percent of the fishery harvest guideline) is allocated to the trawl fishery and 587 mt (87.8 percent of the fishery harvest guideline) is allocated to the nontrawl fishery for 2013-2014. For both minor slope rockfish north and minor slope rockfish south, this maintains the same allocation percentages as were in place for these complexes in 2012.

Petrale Sole

For petrale sole, 35 mt is allocated to the nontrawl fishery and the remainder of the fishery HG is allocated to the trawl fishery. This maintains the same allocation scheme that was in place for petrale sole in 2012.

Yelloweye Rockfish

The following are the Council's recommended allocations for yelloweye rockfish in 2013 and 2014: limited entry trawl, 1 mt; limited entry and open access non-nearshore fixed gears, 1.1; limited entry and open access nearshore fixed gear, 1.2; Washington recreational, 2.9; Oregon recreational 2.6 mt; and California recreational 3.4 mt. These allocations are anticipated to accommodate estimates of mortality of yelloweye by sector in 2013-2014.

Modifications to the Boundaries Defining RCAs

RCAs are large area closures intended to reduce the catch of a species or species complex, by restricting fishing activity at specific depths. The boundaries for RCAs are defined by straight lines connecting a series of latitude and longitude coordinates that approximate depth contours. A set of coordinates define lines that approximate various depth contours. These sets of coordinates, or lines, in and of themselves, are not gear or fishery specific, but are used in combination to define an area. That area may then be described with fishing restrictions implemented for a specific gear and/or fishery (e.g., between the boundary line approximating the 75 fm depth contour and the boundary line approximating the 150 fm depth contour is the trawl RCA, and fishing with bottom trawl gear is prohibited in this area). For the 2013-2014 cycle, changes to refine selected coordinates to more closely approximate the depth contour are being proposed for the 150 fm line off Washington, the 200 fm line off Washington and Oregon and the 150 fm line defining the Usal and Noyo Canyons off California. These changes refine the lines that approximate the depth contours and makes no regulatory changes to how, or for which fisheries, those lines may be used.

Deductions From the ACL

Background

Before allocations are made to groundfish fisheries, deductions are made from ACLs to set fish aside fish for certain types of activities. The deductions from the ACL are associated with four distinct sources of groundfish mortality: Harvest in Pacific Coast treaty Indian tribal fisheries; harvest in scientific research activities; harvest in non-groundfish fisheries; and harvest that occurs under exempted fishing permits (EFPs). These deductions from the ACL are described at § 660.55(b) and specified in the footnotes to Tables 1a and 2a to subpart C. Under current regulations if any of these sources came in under the amounts deducted from the ACL, for example because a research activity was canceled, the leftover was generally not available to other fisheries. In order to make any unharvested fish available for harvest in other sectors, the Council recommended formalizing a process for allowing groundfish that are set aside for harvest in scientific research, non-groundfish fisheries, and for EFPs, to be harvested in other groundfish fisheries if those fish would otherwise go unharvested (fish unharvested in the tribal fisheries are not part of this change). In order to keep the public informed about these changes, any movement of fish from the deductions from the ACL to other fisheries will be announced in the Federal Register. This additional flexibility for 2013-2014, and beyond, is intended to allow unused yield to be redistributed to other sectors of the groundfish fishery, as needed.

This rule proposes revising regulations to allow more flexibility and is not proposing changes to how set-asides that come off an allocation for a specific fishery are managed. Additionally, for clarity this rule makes changes to definitions and descriptions at § 660.55(k), § 660.55(b) and (b)(4) to distinguish between off the top deductions and set-asides.

To implement this change the Council recommended and NMFS is proposing to allow the non-tribal deductions from the ACL for any groundfish species to be modified inseason, however this movement of fish is discretionary and not automatic. Therefore, the Council will consider various factors before recommending that fish be moved from the non-tribal deductions from the ACL, including: Status of the activities for which the yield was initially intended and the level of certainty that there will be unharvested fish; potential benefits to groundfish fishery sectors; risk of exceeding ACLs; and other appropriate factors. For 2013-2014, the Council recommended that fish that would go unharvested be available to be distributed among the sectors in proportion to the allocations made at the start of the year, but that the Council may make modifications to those proportions based on sector needs. The Council will consider various factors when making recommendations for changing the proportions by which fish would be distributed including: Whether sectors are closed and additional fish would not provide enough yield to re-open the fishery; whether sectors are not anticipated to catch their existing allocation of the species that is to be redistributed; and the timing and feasibility of how additional yield could be released to and used by a given sector. Allowing changes to the proportions based on sector needs will help maximize the socioeconomic benefits of moving unused yield into a fishery sector.

Regulations that describe routine management measures, at § 660.60(c), and that describe the types of deductions that are made from the ACL, at § 660.55(b), are proposed to be revised to allow the non-tribal deductions from the ACL to be modified as a routine action.

Special consideration must be made for the shorebased IFQ program because these species are allocated differently than non-IFQ species. An IFQ species that has yield available may be made available for harvest in the Shorebased IFQ Program. Shorebased IFQ program participants would be notified of any changes through the Federal Register. NMFS is proposing regulations to allow quota pounds (QP) made available after September 1 due to changes in the non-tribal deductions from the ACL to be transferred from a quota share (QS) account to a vessel account in a similar manner as Pacific whiting reapportionment: NMFS will credit the QS account with additional QP proportionally, based on the increase in the shorebased trawl allocation; the QS account transfer function will be reactivated for species with additional QP; and after December 15 the transfer function will again be inactivated. Therefore, changes to regulations at § 660.140(d)(3)(ii)(B)(3) are proposed to expand the regulations for Pacific whiting reapportionment after September 1 so they may also apply to QP that are released to the Shorebased IFQ Program due to changes in the non-tribal deductions from the ACL.

QP made available to the Shorebased IFQ Program from the non-tribal deductions from the ACL will count towards calculations for accumulation limits: Both QS and QP accumulation limits. Any movement of fish from the deductions from the ACL into the Shorebased IFQ Program would change allocations, and therefore would also affect the individual amounts associated with the QS and QP accumulation limits. There would be no change in the percentage that applies; the existing percentage would be applying to a larger poundage that may result in a higher poundage at the individual level.

In contrast, QP made available to the Shorebased IFQ Program from the non-tribal deductions from the ACL will not count towards calculations for carryover. The Pacific whiting final rule (77 FR 28497, May 15, 2012, comment 15) addressed this issue in the context of reapportionment of whiting to the Shorebased IFQ Program. Any release of additional QP resulting from deductions from the ACL is similar to reapportionment of whiting in that both may be added to the shorebased trawl allocation during the year but were not part of the annual allocation. Because reapportionment of whiting is not included in the calculation for the carryover limit in the Shorebased IFQ Program, and because release of additional QP is a similar provision, NMFS proposes that that release of additional QP resulting from changes to the non-tribal deductions from the ACL would also not count toward the carryover limit. Language has been added to § 660.140(e)(5) stating that these additional amounts do not count toward calculation of the carryover limit. No changes to the regulations at § 660.140(e)(5)(ii) regarding deficit carryover are proposed. Therefore, if a vessel has already opted out of the fishery, it would not have the option of covering its deficit with the additional QP that were released due to changes to the non-tribal deductions from the ACL. Also at § 660.140(e)(5)(i), NMFS proposes clarifying language stating that surplus carryover QP or IBQ pounds are deposited straight into vessel accounts and do not change the shorebased trawl allocation.

Offloading Requirements

The trawl rationalization program, in part, implemented sector allocations and the management measures to track catches against those sector allocations. Initially, regulations were established for the shorebased IFQ fishery such that, once the transfer of fish begins, all fish on board a vessel count toward a landing and the offload must be completed prior to the start of a subsequent trip. The purpose of this measure was to ensure all fish harvested on a shorebased IFQ trip were clearly associated with the landings receipts and permit status. The information on the landing receipts, combined with the permit status of the vessel making the landing, provides fishery managers with the tools to accurately account for catch against the sector allocation. During development of the 2013-2014 harvest specifications and management measures, the Council and NMFS identified a need for similar offloading requirements in other sectors of the fishery to ensure accurate catch accounting between other sector allocations.

At its June 2012 meeting, the Council recommended a change to regulations that would require all fish from any trip be offloaded prior to beginning a new trip. Based on that recommendation, every sector of the groundfish fishery, including landings in the limited entry fixed gear and open access fisheries, and would be required to completely remove all fish from the vessel once landing had begun, in order for them to be allowed to start a subsequent trip. Therefore, in particular, NMFS is seeking comments from participants in the limited entry fixed gear and open access sectors, on the proposed action to require all fish from any trip, except for vessels fishing in the at-sea sectors of the Pacific whiting fishery, be offloaded prior to beginning a new trip.

While developing regulations for this new requirement, NMFS noted that the complete offloading requirements for the shorebased IFQ program that are currently in place do not apply to vessels participating in the primary whiting fishery as part of the mothership or catcher/processor sectors. However, there is already a provision at § 660.112(d)(8) requiring MS CVs to offload all catch to a single MS before resetting the net. Therefore, NMFS is not proposing changes to the offload requirements for the mothership or catcher/processor sectors.

Sorting Requirements

In the non-whiting groundfish fishery, catch is sorted to species or species group in order to account for catch against the various harvest specifications and management measures that are specific to those species or species groups. Except for vessels participating in the Pacific whiting fishery (see § 660.130(d)(2)(ii) and (d)(3)), groundfish regulations require that species or species groups with a trip limit, size limit, scientific sorting designation, quota, harvest guideline, ACT, ACL or OY, be sorted (see § 660.12(a)(8)). Whenever a new species is given its own harvest specification or management measure, as described in the list above, that species must then be sorted. For the first time, blackgill rockfish is given a species specific harvest guideline for the area south of 40°10′ N. lat.; therefore, blackgill rockfish would need to be sorted in all fisheries, except the Pacific whiting fishery, beginning in 2013.

Longnose Skate Management Measures

Longnose skate were assessed for the first time in 2008 and in the 2009-2010 harvest specifications and management measures longnose skate was removed from the “other fish” complex and given its own species specific harvest specifications. At that time, mortality estimates from the stock assessment were below the harvest specifications and the concern for overfishing was extremely low so no new management measures were established. Since longnose skate is not an IFQ species, the 2011-2012 harvest specifications and management measures established an incidental landing limit for the Shorebased IFQ Program as a management tool. However, as a precautionary measure for 2013 and 2014, the Council recommended that trawl and non-trawl harvest guidelines be specified for longnose skate. Therefore, this proposed rule reflects a fishery harvest guideline for longnose skate of 1,927.8 mt, of which the trawl harvest guideline is 90 percent (1,735 mt), and the non-trawl harvest guideline is 10 percent (192.8 mt) in 2013 and 2014. For vessels using trawl gear, landing limits for the non-IFQ species, including longnose skate, are published in Table 1 (North) and Table 1 (South) to subpart D. Also for 2011-2012, longnose skate was added to the list of species for which trip landing and frequency limits, and size limits could be implemented or modified routinely for the Shorebased IFQ Program.

According to West coast groundfish observer program (WCGOP) data available at the end of 2011, the estimates of longnose skate total mortality in 2009 and 2010 approached or slightly exceeded the longnose skate OYs in those years, depending on the assumptions made about discard mortality. The assumptions made about discard mortality of longnose skate have varied, with 100 percent discard mortality assumed by WCGOP but the stock assessment assumed 50 percent discard mortality. Since the 2008 stock assessment has been recommended as the best available science by the SSC, the SSC has also recommended that the discard mortality rate that is assumed in the stock assessment be used by WCGOP. So, if one were to apply the best available discard mortality assumption of 50 percent retroactively, longnose skate mortality would have been approximately 88 percent of the 2009 and 2010 OYs. However, the Council considered that total mortality, regardless of the assumptions in discard mortality, has an increasing trend and recommended that management measures, including trip limits and depth-based area restrictions to control or reduce fishery impacts to longnose skate be designated as routine for all fisheries to allow fishery managers to respond to the best available fishery data during the year and take action to make sure that total mortality of longnose skate does not exceed the 2013-2014 ACLs. Therefore, the Council recommended and NMFS is proposing to add longnose skate to the list of species for which trip landing and frequency limits, and size limits could be implemented or modified routinely for all fisheries.

Lingcod Management Measures

Minimum size limits for lingcod have been in place since the late 1990s. Minimum size limits were used as a rebuilding tool to decrease harvest and improve stock status after lingcod was declared overfished in 1999. The lingcod stock was declared rebuilt in 2005. The Council considered reducing or removing the minimum size limit for lingcod in the shorebased IFQ fishery because all of the catch counts against a vessel's IFQ, and fish that are smaller than the minimum size limit are still considered marketable but are required to be discarded. However, the Council's Enforcement Consultants (EC) recommended that if the Council made changes to lingcod minimum size limits in the IFQ fishery that they make the same changes to the non-IFQ fisheries. Because of the concerns raised by the EC, the Council recommended no changes to lingcod size limits for any commercial or recreational fisheries for the start of the 2013-2014 biennium. However, the Council requested additional analysis of the environmental effects of reducing or eliminating the minimum lingcod size limit for non-IFQ commercial as well as recreational fisheries. The Council may use this analysis in combination with the most recently available fishery information to make changes to lingcod minimum size limits during the biennium. Changes to lingcod size limits are considered a routine measure under § 660.60(c) and may be implemented, if determined necessary, through inseason action.

Spiny Dogfish Management Measures

Spiny dogfish are a component stock in the “other fish” complex, and have species specific trip limits in commercial groundfish fisheries. Mortality of spiny dogfish in recent years has approached, and would have exceeded in 2008, the 2013-2014 level of the contribution of this stock to the “other fish” ABC. Therefore, the Council considered management measures that could be implemented, if needed, to decrease catch of spiny dogfish inseason.

Catch of spiny dogfish in each sector of the groundfish fishery has been highly variable, but they are most commonly encountered by vessels fishing for groundfish with bottom trawl gear, midwater trawl gear, or with fixed gear seaward of the non-trawl RCA (also referred to as the non-nearshore fishery). Of these fisheries, two have targeted and sold spiny dogfish: The bottom trawl and non-nearshore fixed gear fisheries. Therefore, if changes to management measures were necessary to reduce catch, they would primarily focus on bottom trawl and non-nearshore fixed gear fisheries (both limited entry and open access fixed gear). Based on a review of catch estimates, landings data, price per pound, and current fishery management measures that are likely affecting the harvest levels of spiny dogfish, the Council recommended no changes to fishery management measures for the start of the biennium, but noted that adjustments to spiny dogfish trip limits and changes to RCA boundaries would be effective tools to control catch, if needed inseason.

Limited Entry Trawl

Trawl Fishery Management Measures

Amendment 20 established a program to “rationalize” the groundfish limited entry trawl fishery. Rationalization results in a sustainable level of fishing from both the resource conservation and economic perspective through the use of harvest shares and cooperatives. The program under the PCGFMP uses quota shares, or catch allocation, to allow individuals to harvest specific amounts of groundfish. The trawl rationalization program is intended to increase net economic benefits, create individual economic stability, provide full utilization of the trawl sector allocation, consider environmental impacts, and achieve individual accountability of catch (retained and discarded).

Since the start of 2011, the limited entry trawl fishery has been divided into three distinct sectors (shoreside, mothership, and catcher/processor). An individual fishing quota (IFQ) program is created for the shoreside sector and harvester cooperatives are created for the catcher/processor and mothership sectors. Formal allocations to and among the trawl sectors to support the trawl rationalization program are specified in the PCGFMP and in federal Pacific coast groundfish regulations at 50 CFR 660, Subparts C and D.

The PCGFMP framework specifies formal, long term, allocations between trawl and non-trawl fisheries for many groundfish species including: lingcod, Pacific cod, sablefish south of 36° N. lat., Pacific ocean perch (POP), widow rockfish, chilipepper rockfish, splitnose rockfish, yellowtail rockfish north of 40°10′ N. lat., shortspine thornyhead (north and south of 34°27′ N. lat.), longspine thornyhead north of 34°27′ N. lat., darkblotched rockfish, minor slope rockfish (north and south of 40°10′ N. lat.), Dover sole, English sole, petrale sole, arrowtooth flounder, starry flounder, and other flatfish. Species that are not formally allocated by the PCGFMP are addressed through short-term allocations, decided through the biennial harvest specifications and management measure process. Trawl and non-trawl allocations are established through the biennial harvest specifications for canary rockfish, bocaccio, cowcod, yelloweye rockfish, and minor shelf rockfish north and south. In addition to allocations specified by the PCGFMP and those mentioned above, trawl and non-trawl allocations for some additional species are being specified through the biennial harvest specifications including: Minor nearshore rockfish north and south, and longnose skate. Species being managed under trip limits and without trawl and non-trawl allocations are: Shortbelly rockfish, longspine thornyhead south of 34°27′ N. lat., black rockfish (Washington-Oregon), California scorpionfish, cabezon (California only), kelp greenling, and the “other fish” complex.

Carry-Over

The Shorebased IFQ Program contains a carryover provision that is specified at 50 CFR part 660.140(e)(5). The carryover provision allows for two types of carryover. If an individual catches more fish than is in their corresponding vessel account, but it is within the 10 percent carryover limit for a deficit, then this overage in one year can be covered by the following year's QP—called a deficit carryover. Likewise, the provision also allows up to 10 percent of QP that were not used in one year to be carried over into the following year—called a surplus carryover. Each year NMFS is required to determine whether each species can be issued surplus carryover to individual vessel accounts within the conservation requirements of the Magnuson-Stevens Act. The use of the deficit carryover provision is the choice of the vessel account owner and does not require a direct role for NMFS.

Beginning in 2013, the Council is recommending a process in which the Council (rather than NMFS) would review in the first instance the eligible surplus carry-over amounts from the previous year, projected mortality for the current year, and available AMs to determine whether issuing the eligible surplus carry-over QPs would likely result in exceeding an ACL. If a concern is identified, the Council would make recommendations to NMFS to reduce or eliminate the surplus carryover for the species in question for that year. The ability to modify the surplus carry-over percentages through routine inseason action is different from the No Action option where adjustments are made by NMFS under MSA authority or by the Council through the biennial cycle. Considering the amount of surplus carryover as an inseason action would increase the Council's involvement. NMFS is proposing that the percentage of surplus carryover may be modified as a routine action, though the percentage may not exceed 10 percent.

As an example of how the process might work, the Council would review the preliminary data available from the previous year beginning in the spring and could make recommendations to NMFS after any Council meeting, but likely after the March or April meeting. The Council could recommend the surplus carryover limit be adjusted through an inseason action published in the Federal Register to a percentage lower than 10 percent for any individual IFQ species or all IFQ species (the deficit carryover limit would remain at 10 percent). If surplus carryover is not issued for any species (i.e., 0 percent), that would be included in the Federal Register notice.

Surplus carryover credits would function differently than increases to sector allocations. Increases in sector allocations (e.g., allocation top-ups, reapportionment of whiting, and flexibility of deductions from the ACL), would be added to the shorebased trawl allocation, added to the QS accumulation limits and vessel limits calculations, and allocated to QS accounts. However, the surplus carryover credit to the shorebased sector would not be added to the shorebased trawl allocation, and would not be added to the vessel accumulation limit calculation. Rather, NMFS would credit the amount directly to vessel accounts.

NMFS is also proposing that issuance of surplus carryover to vessel accounts will be restricted by the vessel limits (annual and daily limits). Annual and daily vessel limits are set at a percentage. Any increase to the sector allocation during the calendar year, due to adjustments in the non-tribal deductions from the ACL, allocation top-ups in the spring, and whiting reapportionment in the fall, would increase the associated QP amount for those daily and annual vessel limits (as well as the QS accumulation limits). Before any credit of surplus carryover QP to vessel accounts, fishermen may want to estimate their surplus carryover and then look at their vessel account balances to determine whether they would be able to accept their entire surplus carryover credit. Fishermen may be faced with fluctuating surplus carryover limits if the percentage is changed inseason. Fishermen may also face fluctuating vessel limits caused by increasing allocations.

To ensure that issuance of surplus carryover would not cause overfishing, and would be extremely unlikely to exceed an ACL, the Council also recommended modifying the regulations to allow the Shorebased IFQ Program to be closed automatically. However, NMFS already has the authority in current regulations § 660.140(a)(3) to close all or part of the Shorebased IFQ Program. Therefore, NMFS is not proposing to add an automatic action to close the Shorebased IFQ Program.

Incidental Trip Limits for IFQ Vessels

For vessels fishing IFQ, with either groundfish trawl gear or non-trawl gears, the following incidentally caught species are managed with trip limits: Minor nearshore rockfish north and south, black rockfish, cabezon (46°16′ to 42° N. lat. and south of 42° N. lat.), spiny dogfish, shortbelly rockfish, Pacific whiting, and the “other fish” category. If determined necessary, trip limits may also be established for longnose skate, California scorpionfish, and as sub-limits within the other fish category, big skate, California skate, leopard skate, soupfin shark, finescale codling, Pacific rattail, kelp greenling, and cabezon off Washington. No changes to trip limits in the IFQ fishery are proposed for the start of the 2013-2014 biennium; however, changes to trip limits are considered a routine measure under § 660.60(c) and may be implemented, if determined necessary, through inseason action.

RCA Configurations for Vessels Using Groundfish Trawl Gear

Based on analysis of West Coast Groundfish Observer Data and vessel logbook data, the boundaries of the RCAs were developed to prohibit groundfish fishing within a range of depths where encounters with overfished species were most likely to occur. The RCAs boundaries vary by season, latitude, and gear group. Boundaries for limited entry trawl vessels are different from those for the limited entry fixed-gear and open access gears. The trawl RCAs apply to vessels fishing with groundfish trawl gear. The non-trawl RCAs apply to the limited entry fixed-gear and open access gears other than non-groundfish trawl. The non-groundfish trawl RCAs are defined by fishery.

Under Amendment 20 to the PCGFMP, quota pounds associated with a limited entry trawl permit may be harvested with either trawl gear or legal fixed gear. Groundfish regulations specify both trawl and non-trawl RCAs. The type of gear employed determines the RCA structure. As such, vessels that harvest IFQ species with groundfish trawl gear will be held to the trawl RCA while vessels that harvest IFQ species with fixed gear will be held to the non-trawl RCA.

No changes to the 2012 trawl RCA boundaries are proposed for the start of the 2013-2014 biennium. As the IFQ fishery proceeds and if catch data supports reconsideration of the RCAs, the Council could revise the RCA boundaries through inseason measures.

Changes to Lingcod QP and QS Accumulation Limits

Because of the geographic split for lingcod at 40°10′ N. lat., changes to the tables that describe the QS control limits at § 660.140(d)(4)(i)(C) and the QP vessel limits at § 660.140(e)(4)(i) are proposed in this rule. Consistent with current regulations the QS control limit percent is equally split between north and south and the percentages remain the same, i.e. the previous limit was 2.5 percent coastwide and this rule proposes a 2.5 percent limit north and a 2.5 percent limit south of 40°10′ N. lat. QP vessel use limits proposed in this rule are 5.3 percent north of 40°10′ N. lat. and 13.3 percent south of 40°10′ N. lat. The changes would provide vessels an opportunity to harvest the same amount of lingcod north and south of 40°10′ N. lat. that would have been available had the coastwide lingcod quota not been split. It was noted at the Council's June meeting that the QS accumulation limits may also need to be revisited in light of the change in the geographic split being proposed for lingcod; however, NMFS is not proposing changes to QS accumulation limits at this time. Likewise, the aggregate non-whiting groundfish species QS accumulation limit and QP vessel limits may also need to be revisited in light of the change in the geographic split being proposed for lingcod; however, NMFS is not proposing changes at this time.

Limited-Entry Fixed Gear and Open Access Non-Trawl Fishery Management Measures

Management measures for the limited entry fixed gear (LEFG) and open access non-trawl fisheries tend to be similar because the majority of participants in both fisheries use hook-and-line gear. Management measures, including area restrictions and trip limits, in these non-trawl fisheries are generally designed to allow harvest of target species while keeping catch of overfished species low. For 2013-2014, changes to management measures in these fisheries are primarily driven by the lower sablefish ACL for the area north of 36° N. lat. The Council also considered the tradeoffs in area restrictions compared to trip limit restrictions for the non-trawl fishery that is prosecuted shoreward of the non-trawl RCA.

Non-Trawl RCAs

The non-trawl RCA applies to vessels that take, retain, possess, or land groundfish using non-trawl gears, unless they are incidental fisheries that are exempt from the non-trawl RCA (e.g. the pink shrimp non-groundfish trawl fishery). The seaward and shoreward boundaries of the non-trawl RCAs vary along the coast, and are divided at various commonly used geographic coordinates, defined in § 660.11, subpart C. In 2009, the shoreward boundary of the non-trawl RCA was established based on fishery information indicating that fishing in some areas in the non-trawl fishery have higher yelloweye rockfish bycatch than in others, and the RCA boundaries were adjusted to reduce mortality of yelloweye rockfish in these areas.

The non-trawl RCA boundaries proposed for 2013-2014 are the same as those in place for the non-trawl fisheries in 2011-2012, except for the shoreward boundary of the non-trawl RCA off a small part of the southern Oregon coast. The shoreward boundary of the non-trawl RCA, between 43° N. lat. (Columbia/Eureka line) and 42° N. lat. (Oregon/California border), is proposed to be shifted seaward, to open some additional areas to fishing close to shore. Under the final preferred allocations for canary and yelloweye rockfish for 2013-2014, bycatch species that limit access to targeted nearshore stocks, and with the trip limits for nearshore species that were in place during 2011-2012 remaining the same, some additional fishing opportunities can be provided while keeping anticipated mortality of canary and yelloweye rockfish below the nearshore fishery allocations. Therefore, the Council recommended and NMFS is proposing to shift the shoreward boundary of the non-trawl RCA, between 43° N. lat. and 42° N. lat., from the line approximating the 20 fm (37 m) depth contour to the line approximating the 30 fm (55 m) depth contour. These boundary lines are defined by latitude and longitude coordinates found at § 660.71, subpart C. The change to the non-trawl RCA boundary in this area opens fishing areas that have been closed since 2009, and may increase fishing efficiency and reduce gear conflicts by spreading the nearshore fleet over a larger fishing area. Opening this area is anticipated to increase overall landings of both target and bycatch species, but mortality is anticipated to be below the allocations or harvest limits for all species.

Non-Trawl Fishery Trip Limits

Trip limits proposed for the non-trawl fisheries in 2013-2014 are similar to those that applied to these fisheries in 2011-2012 with the exception of the addition of species-specific limits for blackgill rockfish south of 40°10′ N. lat. To help achieve but not exceed the allocations of sablefish in the limited entry fixed gear and open access fisheries, proposed trip limits for sablefish in these fisheries are different between 2013 and 2014, with slightly higher limits in 2014 because of the higher sablefish ACL. Proposed 2013 and 2014 trip limits for sablefish in the non-trawl fisheries are specified in Table 2 (North), Table 2 (South) to subpart E and in Table 3 (North) and Table 3 (South) to subpart F.

Blackgill rockfish is a species in the slope rockfish complex, coastwide, and was assessed in 2011. For 2013-2014, blackgill rockfish will have species-specific harvest guidelines for the area south of 40°10′ N. lat. of 106 mt and 110 mt for 2013 and 2014, respectively. To improve inseason tracking of catch and keep anticipated catch of blackgill rockfish within its harvest guideline, species specific sub-limits are proposed for the non-IFQ fisheries. For the limited entry fixed gear fishery south of 40°10′ N. lat., a species-specific sub-limit is established, within the minor slope rockfish limit, for blackgill rockfish of 1,375 lb (653 kg) per two months. For the open access fishery south of 40°10′ N. lat., a species-specific sub-limit is established, within the minor slope rockfish limit, for blackgill rockfish of 480 lb (217 kg) per two months. These trip limits, when combined with anticipated catch of blackgill rockfish in the Shorebased IFQ Program, are anticipated to keep catch below the 2013 and 2014 harvest guidelines. For the Shorebased IFQ Program, blackgill rockfish will remain a part of the minor slope rockfish south of 40°10′ N. lat. complex.

Primary Sablefish Fishery Tier Limits

Some limited entry fixed gear permits are endorsed to receive annual sablefish quota, or “tier limits,” and vessels registered with one, two, or up to three of these permits may participate in the primary sablefish fishery, described at § 660.231. Tier limits proposed for the limited entry fixed gear primary sablefish fleet are lower than in 2011-2012, reflecting the lower sablefish harvest specifications for 2013 and 2014. The proposed tier limits are as follows: In 2013, Tier 1 at 34,513 lb (15,665 kg), Tier 2 at 15,688 lb (7,116 kg), and Tier 3 at 8,964 lb (4,066 kg). For 2014, Tier 1 at 37,441 lb (16,983 kg), Tier 2 at 17,019 lb (7,720 kg), and Tier 3 at 9,725 lb (4,411 kg). These tier limits are found in groundfish regulations at § 660.231, Subpart E.

Management measures for the LEFG fishery are found at § 660.230, subpart E, with management measures specific to the primary sablefish season found at § 660.231, subpart E. Limited entry fixed gear trip limits are found in Table 2 (North) and Table 2 (South) of subpart E of part 660. Management measures for the open access fishery are found at § 660.330, subpart F. Trip limits for the open access fishery are found in Table 3 (North) and Table 3 (South) of subpart F of part 660.

Transitioning Between the Limited Entry Fixed Gear Primary Sablefish Fishery and the Daily Trip Limit (DTL) Fishery

After vessels participating in the limited entry fixed gear primary sablefish fishery have fished their tier limit(s), they are then eligible to fish in the sablefish fishery that is subject to trip limits, also known as the daily trip limit (DTL) fishery. Prior to 2009, the threshold by which it was determined when a vessel's primary fishery season was completed was equal to the daily trip limit in place for the limited entry fixed gear DTL fishery. In 2009, the daily trip limit in the limit entry fixed gear DTL fishery was removed. Removal of the daily limit in the limited entry fixed gear DTL fishery incidentally also changed the threshold by which completion of the vessels tier was judged, to the weekly rather than daily limit that was in place. Therefore, language is added to remedy the unintended threshold change that was made because of removal of the daily limit. Proposed revised regulations set a 300 lb (136 kg) threshold for the amount of sablefish that is left on a tier limit when no daily limit is specified.

Recreational Fisheries Management Measures

Recreational fisheries management measures are designed to limit catch of overfished and nearshore species to sustainable levels while also allowing viable fishing seasons. Overfished species that are taken in recreational fisheries include bocaccio, cowcod, canary, and yelloweye rockfish. Because sport fisheries are more concentrated in nearshore waters, the 2013-2014 recreational fishery management measures are intended to constrain catch of nearshore species such as minor nearshore rockfish, black rockfish, blue rockfish, and cabezon. These protections are particularly important for fisheries off California, where the majority of West Coast recreational fishing occurs. Management measures for the California recreational groundfish fishery are designed to reduce the incidental catch of overfished rockfish, primarily yelloweye and canary rockfish, while providing fishing opportunity for anglers targeting groundfish. Depth restrictions and RCAs are the primary tools used to keep overfished species impacts under the prescribed harvest levels for the California recreational fishery.

Washington, Oregon, and California each proposed, and the Council recommended, different combinations of seasons, bag limits, area closures, and size limits, to best fit the requirements to rebuild overfished species found in their regions, and the needs and constraints of their particular recreational fisheries, including responding to a very strong recruitment event of bocaccio.

Recreational fisheries management measures for Oregon in 2013-2014 are proposed to be very similar to the recreational fishery management measures that were in place off Oregon during 2011-2012. Recreational fisheries off northern California, Oregon, and Washington are limited by the need to reduce yelloweye rockfish impacts. Changes to recreational fishery management measures off California are in response to: New methods for estimating harvest specifications for data limited species; recent stock assessment information indicating a very strong recruitment of juvenile bocaccio rockfish in California; and the desire to broadly redistribute effort displaced by restrictions on fishing in Marine Protected Areas (MPAs) in state waters.

Washington

Off Washington, recreational fishing for groundfish and Pacific halibut will continue to be prohibited inside the North Coast Recreational YRCA, a C-shaped closed area off the northern Washington coast, the South Coast Recreational YRCA, and the Westport Offshore YRCA. Coordinates for YRCAs are defined at § 660.70. The RCA for recreational fishing off Washington will be the same as in 2012. The aggregate groundfish bag limits off Washington will continue to be 12 fish. The rockfish and lingcod sub-limits will remain the same as in 2011-2012: 10 rockfish sub-limit with no retention of canary or yelloweye rockfish; 2 lingcod sub-limit, with the lingcod minimum size of 22 inches (56 cm). Since catches of cabezon have increased in recent years and the stock status of cabezon off the Washington coast is unknown, and to make cabezon retention regulations off the West Coast consistent with WDFW regulations in Puget Sound, this rule continues a cabezon sub-limit for 2013-2014 of two cabezon per day. The lingcod seasons in 2013-2014 will be slightly changed from those in 2011-2012, due to minor fluctuations in differences between calendar years. Similar to 2012, this proposed rule includes a Washington State lingcod recreational fishing closure area off Washington Marine areas 1 and 2, a portion of which are closed to lingcod fishing, except on days that the primary halibut fishery is open.

Oregon

Off Oregon, recreational fishing for groundfish in 2013-2014 will have the same management measures as in 2011-2012, and the Oregon recreational fishery marine fish bag limit will continue to have a seasonal sub-bag limit for cabezon, as described at § 660.360(c)(2)(iii). The seasonal sub-bag limit for cabezon is intended to reduce the projected impacts to cabezon in the Oregon recreational ocean boat fishery in order to stay within the recreational portion of the 2013 and 2014 cabezon ACLs for Oregon of 50 mt and 48 mt, respectively.

California

For 2013-2014, recreational fisheries off California will continue to be managed as five separate areas, to reduce complexity while retaining flexibility in minimizing impacts on overfished stocks. California recreational management areas and regulations can be found at § 660.350(c)(3). Minor changes are proposed to the California recreational regulations to make references to management areas consistent.

California updated its recreational fisheries catch model with data from the California Recreational Fisheries Survey to make recommendations to the Council for the 2013-2014 fisheries. Season and area closures differ between California regions to better prevent incidental catch of overfished species according to where those species occur and where fishing effort is greatest, while providing as much fishing opportunity as possible. The California-wide combined bag limit for the Rockfish-Cabezon-Greenling (RCG) Complex will continue to be 10 fish per day when the season is open. RCG Complex sub-bag limits will also remain largely the same, including the cabezon statewide limit of three fish per day, with a few exceptions pertaining to kelp greenling and bocaccio.

Kelp greenling in California is managed as part of the Other Fish complex, while its harvest specifications contribute to the complex as a whole. The ACL contribution for kelp greenling was substantially increased in 2011-12 based on new methods for estimating harvest specifications for data limited species. However, more conservative state regulations including a total allowable catch (TAC) of 17 mt currently govern the catch of kelp greenling in California. A revised kelp greenling contribution to the other fish complex was analyzed and adopted for use in management in 2011-2012 (2011-2012 FEIS), and the kelp greenling contribution to the Other Fish complex increased for 2013-2014. In order to conform to the higher federal ACL contribution, California State will be implementing a higher recreational kelp greenling bag limit and increasing from two fish to 10 fish. No changes to the minimum size limit are proposed. No additional impacts are expected on overfished species compared to 2011-2012, because kelp greenling are commonly encountered in shallower depths and more than 50 percent of the catch comes from shore anglers. Increased mortality as a result of this action could be accommodated with low risk of exceeding a harvest guideline, specifically, the kelp greenling contribution to the complex.

There is a very strong year class of bocaccio entering the recreational fishery, as evidenced from the updated 2011 stock assessment, and increased encounters of bocaccio entering the fishery in 2012. In order to reduce unnecessary discarding as a result of increased encounters with the new year-class entrants, the changes to California recreational bocaccio management measures being proposed are to: Remove the recreational bocaccio size limit; increase the recreational bag limit for bocaccio; and allow shelf rockfish retention in the Cowcod Conservation Area, excluding bronzespotted, canary, cowcod and yelloweye rockfish, from 0-20 fathoms when the season is open to fishing.

Bocaccio are the only rockfish subject to a recreational size limit (10 inches), which was initially implemented in 2000. Since 2000, managers have additional data, which suggests that the size limit has been ineffective in reducing mortality. Bocaccio has shown steady progress toward rebuilding under the current rebuilding plan, and application of the constant harvest rate in the current rebuilding plan corresponds with an ACL for 2013-2014 that is larger than the ACL in recent years. Length data from the California Recreational Fisheries Survey (CRFS) from 2005 to 2010 was used to analyze the projected mortality of bocaccio as a result of removing the recreational size limit, which is only expected to increase total bocaccio mortality by 0.36 percent (0.2 mt), and the projected subsequent mortality can be accommodated within the higher proposed 2013-2014 ACLs and HGs. Under this proposed rule, recreational anglers will be allowed to retain all bocaccio, regardless of size, while abiding by current depth and season restrictions. This action will reduce regulatory complexity for a fishery that already has many regulations; the overall mortality of bocaccio is expected to be minimal, and no additional mortality of overfished species is expected.

There will also be an increase in the recreational bag limit for bocaccio in this proposed rule. The bocaccio recreational HGs are higher in 2013-2014 (163.5 mt and 172.5 mt, respectively) than in 2012 (131 mt). Currently for 2012, recreational anglers are allowed two bocaccio within a 10 fish Rockfish, Cabezon, Greenling (RCG) complex bag limit. Because bocaccio have a high susceptibility to barotrauma in depths of 40 fathoms or greater, anglers are often required to discard and therefore fish longer to achieve their 10 fish bag limit, which in turn can have the undesired effect of increasing the likelihood of encounters with overfished species. Bocaccio mortality is expected to increase by 11.5 percent (5.8 mt) as a result of the increase in the sub-bag limit. Given the large magnitude of the buffer between projected mortality and the recreational allocation, the HG is not likely to be exceeded.

This proposed rule would allow shelf rockfish retention in the Cowcod Conservation Area, excluding bronzespotted, canary, cowcod, and yelloweye rockfish, from 0-20 fathoms when the season is open to fishing. Bocaccio, an overfished and desirable recreational species, could be retained under this option. Incidental catch of cowcod in the area south of 34°27' north latitude continues to be restricted by the CCAs. In 2010, the state of California implemented marine protected areas in state waters between Point Conception to U.S. Mexico border, including state waters adjacent to offshore islands and rocks. The best available scientific information on depth distributions of cowcod indicates that adults primarily inhabit depths deeper than 60 fm (110 m). The California Recreational Fisheries Survey (CRFS) is used to estimate total marine recreational catch and effort in California. CRFS sample data from 2005 through 2010 indicating encounters of nearshore and shelf rockfish species, stratified by depth and area were used to analyze rockfish catch. These data were used to: Evaluate current fishing activity in depths greater than 20 fathoms or less; to evaluate mortality of shelf rockfish; and evaluate the mortality of overfished species as a result of allowing retention of shelf rockfish in the CCA. Allowing retention in this area may reduce the overall bycatch of shelf rockfish, since fish previously discarded would likely be retained, and effort on-the-grounds could be reduced. However, public comments submitted to the National Marine Fisheries Service on the 2011-12 FEIS indicate that some increase in revenue could occur as a result of allowing shelf rockfish retention within the CCA. The extent to which this increase in revenue may increase or reduce the amount of effort is currently unknown. Some increase to bocaccio mortality would be expected as a result of allowing shelf rockfish retention inside 20 fathoms, but overall projected mortality will not change compared to 2011-2012. Any increase in mortality as a result of the strong incoming year class entering the recreational fishery could still be accommodated without exceeding the recreational HG, and especially, the ACL. No changes to projected mortality of cowcod are expected to occur compared to 2011-2012 under this rule. Additionally, increased shoreside sampling landings estimates resulting from increased sub-bag limits are likely to reduce uncertainty associated with angler identification, allowing retention of species that otherwise may have been discarded, allowing for further species verification by CRFS dockside samplers.

The preferred recreational depth restriction in the Southern Management Area is 50 fathoms for 2013-2014, a change from 60 fathoms in 2011-2012. Tradeoffs between depth restrictions in the Southern Management Area were explored to reduce cowcod encounters. Submersible surveys at the Northern end of the Southern California Bight indicate that juvenile cowcod were most common from 49 fm to 82 fm and adults were most common from 66 fm to 115 fm. The projected mortality under the 50 fm depth option includes a decrease of 0.9 mt for bocaccio, 0.1 mt for canary rockfish, and 0.1 mt of cowcod compared to the No Action alternative of a 60 fm depth restriction, due to the reduction of available fishing area. If cowcod encounters are tracking higher or lower than projected, inseason action could be taken to modify the depth restrictions accordingly.

Management measures for recreational fisheries off all three West Coast states are found at § 660.360, subpart G.

Pacific Coast Treaty Indian fisheries Management Measures

Tribes implement management measures for tribal fisheries both separately and cooperatively with those management measures that are described in the Federal regulations. The tribes may adjust their tribal fishery management measures, inseason, to stay within the overall harvest targets and estimated impacts to overfished species. Trip limits are the primary management measure that the tribes specify in Federal regulations at § 660.50, subpart C.

Continued from 2011-2012, the tribes propose trip limit management in tribal fisheries during 2013-2014 for several species including: Spiny dogfish; several rockfish species and species groups, including thornyheads; and flatfish species and species groups. For spiny dogfish, tribal fisheries in 2013-2014 will continue to be restricted to a cumulative limit of “60,000 lbs (27,216 kg) per two month period;” the same trip limit that is in place for vessels fishing in the Shorebased IFQ Program. For rockfish species, tribal regulations will continue to require the 2013-2014 tribal fisheries to fully retain all overfished rockfish species and marketable non-overfished rockfish species. Tribal fisheries are restricted to “17,000 lbs (7,711 kg) per two month period” for shortspine thornyheads and “22,000 lbs (9,979 kg) per two month period” for longspine thornyheads. As in 2011-2012, other rockfish, including minor nearshore, shelf, and slope rockfish, are restricted to a “300 lb (136 kg) per trip” limit for each species group in 2013-2014. Also, as in 2011-2012, rockfish would be restricted to the limited entry trip limits if those limits are higher than 300 lb (136 kg) per trip. For 2013-2014, a new, higher, trip limit is established for redstripe rockfish (Sebastes proriger). Redstripe rockfish is a species in the minor shelf rockfish complex and makes a relatively large contribution to the stock complex OFL. In recent years, large schools of redstripe rockfish have been encountered in the tribal midwater trawl fishery, and allowing these fish to be landed is not anticipated to have mortality exceed the OFL contribution. As in 2011-2012, tribal midwater trawl fisheries in 2013-2014 are subject to a cumulative limit for yellowtail rockfish of 180,000 lb (81,647 kg) per two months and the landings of widow rockfish must not exceed 10 percent of the cumulative poundage of yellowtail rockfish landed by a given vessel for the year. As in 2011-2012, trip limits for canary rockfish and yelloweye rockfish in 2013-2014 are “300 lb (136-kg) per trip” and “100 lbs (45 kg) per trip”, respectively. The tribes will continue to develop management measures, including depth, area, and time restrictions, in the directed tribal Pacific halibut fishery in order to minimize incidental catch of yelloweye rockfish.

Tribal cumulative limits for most flatfish species in 2013-2014 are the same as those that were in place in 2011-2012. As in 2011-2012, the 2013-2014 tribal cumulative limits are “110,000 lbs (49,895 kg) per two months” for Dover sole, English sole, and Other Flatfish, combined; and “150,000 lbs (68,039 kg) per two months” for arrowtooth flounder. For 2013-2014, the “50,000 lb (22,680 kg) per two months” tribal cumulative limit for petrale sole is removed and replaced with an overall harvest target of 220 mt. Catches of petrale sole in the tribal bottom trawl fishery during 2012 was higher than anticipated. This re-structured management measure is intended to allow the tribes to modify their fishery management measures to control catch of petrale sole without the need for conforming Federal action. Tribal fishing regulations, as recommended by the tribes and the Council, and adopted by NMFS, are in Federal regulations at § 660.50, subpart C.

Housekeeping Measures

Several non-substantive revisions are made to regulations to improve consistency, remove unnecessary redundancies, remove subpart references, group similar regulations, and to add clarifying cross-references.

At § 660.11, paragraph (1) of the definition for “Conservation area(s)” is revised so the description of the purpose of the Groundfish Conservation Areas (GCAs) is consistent with the description of the uses for invoking these GCAs at § 660.60(c)(3). The revision to the definition of “Conservation area(s)” does not change how or why GCAs are used, but simply brings consistency between the language describing the uses in two different sections of the groundfish regulations.

The definition of “Fishery harvest guideline” at § 660.11 is revised to clarify that all anticipated catch in tribal fisheries, not just those species for which the tribes have a formal allocation, is deducted from the ACL. The same non-substantive changes are made at § 660.55(b) to the description of how the fishery harvest guideline is calculated.

Prior to 2011, groundfish fishing regulations that pertained to tribal fisheries were contained in two separate sections: § 660.324 “Pacific Coast Treaty Indian Fisheries”; and § 660.385 “Washington Coastal Tribal Fisheries Management Measures”. During 2011, groundfish regulations were re-organized and these two sections of tribal groundfish regulations were combined into a single section at § 660.55. Combining the two sections without revisions has caused some confusing inconsistencies, redundancies, and disorganization within § 660.55. The two different naming conventions for the sections remain in regulation even though they have identical meanings. NMFS proposes to eliminate the naming convention that is used least frequently in the groundfish regulations in part 660, subparts C through G, and revise the regulations at § 660.55 to refer to the tribal fisheries as “Pacific Coast Treaty Indian Fisheries.” NMFS also proposes to separate information on overall tribal catch levels, such as allocations, harvest guidelines and set-asides and bring them together at § 660.55(f). NMFS is also proposing to separate information regarding how tribal fisheries will be managed to achieve but not exceed their overall catch levels and bring them together at § 660.55(g). No substantive changes are made to regulations with these changes, unless described above under “Pacific Coast Treaty Indian Fisheries”; provisions are merely being moved from other paragraphs of § 660.55 in order to group similar types of information.

Also in § 660.55, trip limits for rockfish in tribal fisheries at § 660.55(g)(6) have been described since 2005 as 300 lb per trip, or equal to the non-tribal limited entry fishery trip limit for those species, if that limit is less restrictive than 300 lb per trip. The reference to limited entry fishery trip limits intentionally did not distinguish between limited entry trawl and limited entry fixed gear fisheries; tribal trip limits could be raised as high as the highest trip limit in either limited entry fishery. However, beginning in 2011, some of the rockfish species or species groups for which this trip limit provision applied were made IFQ species in the Shorebased IFQ Program and no longer have limited entry trawl fishery trip limits: They are now managed with IFQ. Therefore, a clarification is proposed at § 660.55(g)(6) to distinguish that, for IFQ species and species groups, only the trip limits imposed for the limited entry fixed gear fishery would be applicable since trip limits for IFQ species are no longer specified for the limited entry trawl fishery.

In § 660.60, newly redesignated paragraph (c)(3)(i) is revised to clarify that depth-based area restrictions may be implemented, either automatically or as an inseason action, in the at-sea Pacific whiting fishery. This brings consistency with existing regulations at § 660.150(c)(2)(i)(B)(3) and § 660.160(c)(3)(iii).

Several sections of the groundfish regulations are composed of long lists of latitude and longitude coordinates that are used to define groundfish conservation areas and areas designated as essential fish habitat. In § 660.72(j) there is a list of 256 subparagraphs, and they all appear in the appropriate order. However, there is a mistake in the paragraph designation at (j)(247), where an extra digit was added to the paragraph number and it appears in the CFR as (j)(2475). Since the content and the location of the paragraph are correct, it is apparent that the paragraph should have been (j)(247). Therefore, the paragraph is redesignated so that the extra digit is removed. This will reduce confusion that may be caused by the incorrect paragraph designation that is currently in the CFR.

On May 15, 2012, NMFS published a final rule to establish a process to reapportion Pacific whiting (77 FR 28497) at § 660.131(h). In the regulations that describe QP allocations for Pacific whiting, a new paragraph is added at § 660.140(d)(1)(ii)(B)(4) so that reapportionment of Pacific whiting is included as one of the ways that additional QP may be issued to QS accounts. The added paragraph does not change how or why reapportionment of Pacific whiting may occur, but simply brings consistency between the language describing the process in two different sections of the groundfish regulations.

NMFS also proposes clarifying language in surplus carryover regulations at § 660.140(e)(5)(i), which state that additional surplus carryover QP or IBQ pounds will not be issued by NMFS above the vessel limits. This reiterates existing regulations at § 660.140(b)(1)(v) and does not change the effect or impact of the existing regulations. Also at § 660.140(e)(5)(i), NMFS proposes clarifying language stating that surplus QP or IBQ pounds are not included as part of the shorebased trawl allocation.

Classification

At this time, NMFS has made a preliminary determination that the 2013-2014 groundfish harvest specifications and management measures in this proposed rule are consistent with PCGFMP, the MSA, and other applicable law. In making its final determination, NMFS will take into account the complete record, including the data, views, and comments received during the comment period.

A DEIS was prepared for the 2013-2014 groundfish harvest specifications and management measures. The DEIS includes socio-economic information that was used to prepare the RIR and IRFA. The Environmental Protection Agency published a notice of availability for the draft EIS on June 15, 2012 (77 FR 35961). A copy of the DEIS is available online at http://www.pcouncil.org/.

An initial regulatory flexibility analysis (IRFA) was prepared, as required by section 603 of the Regulatory Flexibility Act (RFA). The IRFA describes the economic impact this proposed rule, if adopted, would have on small entities. A description of the action, why it is being considered, and the legal basis for this action are contained at the beginning of this section in the preamble and in the SUMMARY section of the preamble. A copy of the IRFA is available from NMFS (see ADDRESSES). A summary of the analysis follows: The RIR/IRFA summarizes the key indicators and analyses used in the DEIS to compare the alternatives. Among other things, the DEIS discusses the impacts of the alternatives on commercial fishermen, the processors, recreational fishermen and businesses, and fishing communities.

The reasons for why agency action is being considered and the statement of objectives and legal basis for the proposed rule are discussed above in the SUMMARY and in the Executive Summary. The number of small entities that are affected is discussed below along with the other IRFA requirements. The analysis below suggests that there are approximately 1,900 small entities involved in the fishery.

This proposed rule will regulate businesses that harvest groundfish. This rule directly affects limited entry fixed gear permit holders, trawl quota share and whiting catch history endorsed permit holders (which includes shorebased whiting processors), tribal vessels, charterboat vessels, and open access vessels. Quota share holders are directly affected because the amount of quota pounds they receive based on their quota shares are affected by the ACLs. Vessels that fish under the trawl rationalization program receive their quota pounds from the quota share holders, and thus are indirectly affected if they only own vessel accounts rather than quota shares. Similarly, Mothership processors are indirectly affected as they receive the fish they process from limited entry permits that are endorsed with whiting catch history assignments. According to the Small Business Administration, a small commercial harvesting business is one that has annual receipts under $4.0 million, a small charter boat business is one that has annual receipts under $7 million, and a small processor is one that employs 500 employees or fewer. To determine the number of small entities potentially affected by this rule, NMFS reviewed analyses of fish ticket data and limited entry permit data, the DEIS associated with this rulemaking, which includes information on charterboat, tribal, and open access fleets, available cost-earnings data developed by NWFSC, and responses associated with the permitting process for the Trawl rationalization program where applicants were asked if they considered themselves a small business based on SBA definitions. This proposed rule would regulate businesses that harvest groundfish.

NMFS makes the following conclusions based primarily on analyses associated with fish ticket data and limited entry permit data, available employment data provided by processors, information on the charterboat and tribal fleets, available industry responses to on-going surveys on ownership, current permit information, and the EIS associated with this rule making. As part of the permitting process for the Trawl rationalization program, applicants were asked if they considered themselves a small business. Quota shares were initially allocated to 166 limited entry trawl permit holders (permits held by catcher processors did not receive QS, while one limited entry trawl permit did not apply to receive QS) and to 10 whiting processors. Thirty-six limited entry permits also have MS/CV endorsements and catch history assignments. Because many of these permits were owned by the same entity, these initial allocations were consolidated into 138 quota share permits/accounts. Of the 166 limited entry permits that received quota share, 25 limited entry trawl permits are either owned or closely associated with a “large” shorebased processing company or with a non-profit organization who considers itself a “large” organization. Nine other permit owners indicated that they were “large” companies. Almost all of these large companies are associated with the shorebased and mothership whiting fisheries. The remaining 132 limited entry trawl permits are likely held by “small” companies. Of the 10 shorebased processing companies (whiting first receivers/processors) that received whiting QS, three are “small” entities.

There are 222 fixed gear limited entry permits with 164 of these permits endorsed for sablefish. Currently 105 of these sablefish permits are stacked onto 42 vessels. Open access vessels are not federally permitted so counts based on landings can provide an estimate of the fleet. In 2011, 682 directed open access vessels fished while 284 incidental open access vessels fished for a total of 966 vessels. Over the 2005-2010 period, 1,583 different directed open access vessels fished and 837 different incidental open access vessels fished for a total of 2,420 different vessels. According to the DEIS, over the 2008-2010 period, 447 to 470 charterboats participated in the groundfish fishery. The four tribal fleets sum to a total of 54 longline vessels, 5 whiting trawlers, and 5 non-whiting trawlers, for a grand total of 64 vessels. Available information on average revenue per vessel suggests that all the entities in these groups can be considered small.

There are no new reporting or recordkeeping requirements. There are two new compliance requirements: An offloading requirement and a blackgill rockfish sorting requirement. As discussed above (See Sorting Requirements), current regulations already authorize the expansion of sorting requirements. In this instance, blackgill rockfish need to be sorted to a species specific level so that its catch can be matched against the new blackgill rockfish HG. As discussed above (See Offloading Requirements), NMFS is proposing to expand the offload requirements now used in the trawl rationalization program to all other sectors of the fishery. Every sector of the groundfish fishery, including landings in the limited entry fixed gear and open access fisheries, would be required to completely remove all fish from the vessel once landing had begun, in order for them to be allowed to start a subsequent trip. This requirement will make matching catch against sector allocations more accurate. NMFS is seeking comments from participants in the limited entry fixed gear and open access sectors, on the proposed action to require all fish from any trip, except for vessels fishing in the at-sea sectors of the Pacific whiting fishery, be offloaded prior to beginning a new trip.

There are no relevant Federal rules that may duplicate, overlap, or conflict with this action. There are no significant alternatives to the proposed rule that accomplish the stated objectives of applicable statutes and that minimize any of the significant economic impact of the proposed rule on small entities. An analysis of the alternatives follows.

The DEIS compared alternatives based on time to rebuild, changes in ex-vessel revenues, recreational trips and amount of regional impacts generated as measured by changes in personal income. The RIR/IRFA and the DEIS describe the alternatives in more detail and include the Council's analysis of the economic effects associated with the new management measures and accounting measures. These new management measures are not incorporated into the models used to project ex-vessel revenue, net revenue, income impacts, and employment used in the evaluation of the alternatives. Except for new recreational shelf rockfish retention measures, which may increase annual charterboat revenues by $3.5 to $7.0 million, generally speaking, the impacts of these new measures will have insignificant socio-economic effects. Several new measures include the elimination of unneeded size limits or allowing greater opportunity of harvested fish in one sector to be reallocated to another. The RIR/IRFA also contains discussions taken from the DEIS that address the following: non-market values, safety, and effects on processors. The effects on processors are generally reflected in the change in ex-vessel revenues discussed bellowed. The Council's conclusion on non-market values of groundfish is that there was no quantitative information to assess the non-consumptive uses that range from recreational enjoyment of the environment, or on the benefits from the knowledge that these resources will be available in the future or that the environmental quality is maintained. Regardless, even should such information be available, it is not likely that there would be substantive differences among the alternatives. The differences between the integrated alternatives in terms of their possible effects on vessel safety are expected to be negligible.

The DEIS undertakes comparisons of the eight integrated action alternatives that are described above using the no action alternative as a benchmark. In comparing the action alternatives to the no action alternative, much of the change results from a 25 percent reduction in the ACL for sablefish north of 36° north latitude. This reduction extends across all the 2013 action alternatives and forms a backdrop affecting all sectors targeting sablefish. The affected sectors and projected respective shares of total groundfish ex-vessel revenue contributed by sablefish landings under no action are: Nonwhiting Trawl (IFQ) 50 percent, Limited Entry Fixed Gear 79 percent, Non-nearshore Open Access 88 percent, and Tribal groundfish (including shoreside whiting) 35 percent.

As the no action alternative represents the status quo, the economic analysis of this alternative provides the main characteristics of the current fishery. Under the no action alternative, total shoreside ex-vessel revenues from groundfish landings of $93,512 are projected in 2013. This includes the following projections for shoreside groundfish sectors: Whiting Trawl $23.65 million, Nonwhiting Trawl $26,912 million, Limited Entry Fixed Gear $19,068 million, Nearshore Open Access $4,218 million, Non-nearshore Open Access $7,687, Tribal groundfish (including shoreside whiting) $11.825 million, and Incidental Open Access $0.151 million. In addition $30,890 million ex-vessel revenue equivalent from the at-sea non-tribal whiting fisheries (combined motherships and catcher processors) and $9.675 million ex-vessel revenue equivalent from the at-sea Tribal whiting (mothership) fisheries are projected under the no action and all the action alternatives. Total shoreside and at-sea revenues including Tribal shoreside and at-sea revenues, are projected to reach $134 million.

The combined projected revenue estimate of $134 million is higher than what actually occurred in 2011. Total groundfish revenues including tribal and at-sea fisheries reached $122 million in 2011. The main reason for the difference concerns Pacific whiting. To model the socioeconomic impacts of the alternatives the same Pacific whiting TAC, U.S. allocation, and sector allocations—equal to those set for 2011—were used for all of the integrated alternatives including No Action. However in 2011, the entire U.S. allocation was not caught. The analysis predicts that 287,000 mt of whiting will be landed under the no action alternative. During 2011, 230,000 mt of whiting was landed. The assumption that whiting landings will approximate 287,000 mt in 2013 and 2014 will depend on the upcoming stock assessment in April 2013. However, recent changes in the ability to reapportion unharvested whiting from the tribal sector to the non-tribal sectors make it more likely that whatever the allocation, it will be more fully harvested.

In comparison to the no action alternative, depending in the indicator, the range of impacts across the action alternatives is either negative or essentially reflects no change: ex-vessel revenues (−9.60 percent to −16.6 percent), shoreside commercial fishery net revenues, a measure of effects on vessel profits (−14.40 percent to −24.70 percent), total recreational trips (−1.8 percent to +0.3 percent), community commercial fishery income impacts (−9.8 percent to −18.0 percent), employment impacts (−6.3 percent to −19.8 percent), change in regional unemployment rates (+.001 percent to +.003 percent), recreational income impacts (−10.3 percent to +0.2 percent), combined recreational and commercial income impacts (−5.3 percent to −14.5 percent), and processor groundfish purchases (−9.6 percent to −16.6 percent).

Of the indicators listed above, the coastwide income indicator is the most comprehensive indicator because it incorporates both recreational and commercial information including shoreside tribal fisheries. The action alternatives do not differ greatly in level of income generated. Alternatives 1, 2, and 8 differ from alternatives 6 and 7 by $235,000. After rounding to the nearest million, these alternatives all generate about $155 million in coastwide income. Coastwide income under alternatives 3-5 generate income levels that range from $141 million to $149 million. Alternative 4, as it has the lowest level of canary, generates the lowest income level of $141 million. Adoption of this alternative, would lead to a 14.5 percent decrease in income from the no action alternative level of $165 million.

The range in differences in the action alternatives summarized above result from varying levels of POP and canary rockfish ACLs. The allowable total mortality of canary rockfish affects all sectors of the groundfish fishery, while that for POP affects only the northern trawl fishery (both the at-sea whiting sectors and the shorebased IFQ sector, whiting and non-whiting). However, differences in nontrawl sector impacts (both projected total mortality and socioeconomic impacts) are due solely to variation of the canary rockfish ACL across the integrated alternatives. A substantial amount of total fishing mortality for canary rockfish also incurs in the recreational sector. Increased canary rockfish harvests may lead to increased harvests of bocaccio and cowcod, while the petrale sole fishery is limited by the available amount of canary and yelloweye rockfish, and Pacific halibut.

Under the no action alternative, the following impacts were assessed. A total of 653,600 groundfish and Pacific halibut trips are projected coastwide. Just over half of these are private boat trips with the remainder taken on charterboats. The breakdown by state is: Washington 27,100 trips (14,300 charter + 12,800 private), Oregon 92,100 trips (37,600 charter + 54,400 private, and California (269,400 charter + 265,100 private). For shoreside communities, commercial groundfish fishing coastwide generates income and employment impacts of $90.249 million and 3,029 total and full time part-time jobs. The unemployment rate in coastal counties coastwide in 2010 according to the Bureau of Labor Statistics was 11.17 percent. A total of $74.089 million in income impacts were generated by recreational groundfish angling. The total, combined coastwide commercial plus recreational, income impacts under no action is $164,518 million. Under no action, total purchases of groundfish landings by shoreside processors are projected in 2013. This total includes projected purchases of $23.65 million of whiting and $69.862 million in deliveries of combined nonwhiting groundfish species.

Although not explicitly analyzed, the combination of low canary rockfish and POP ACLS would affect the trawl fleets significantly. Low canary ACLs (i.e., <100 mt) and low POP ACLs (i.e., <150 mt) could result in limiting trawl fisheries to deeper waters outside the range of canary rockfish and POP. The low canary rockfish ACL negatively affects the smaller-sized trawlers that cannot safely fish the deeper slope areas, and are limited to fishing on the shelf shoreward of the RCA. The whiting fishery is especially challenged when canary rockfish and POP ACLs are both low because they have to avoid a larger area to target whiting without exceeding a canary rockfish or POP set-aside. When canary rockfish allocations are low, the whiting fleet tends to move to deeper waters to avoid canary rockfish at the expense of higher bycatch rates of darkblotched rockfish and POP. When POP allocations are low, the fleet targets whiting on the shelf to avoid that species. When both allocations are low, there are few areas the whiting fleets can go to safely target whiting.

For purposes of contrast, the impacts of alternative 1 (The Council preferred alternative; alternatives 2 and 8 yield the same impacts), alternative 4 (greatest negative impact) and alternative 6 (least negative impact, alternative 7 yields same impact) are presented. Projected impacts under alternative 2 are the same as under alternative 1 for all commercial groundfish sectors. This is because measures used to manage commercial fisheries to stay within the 116 mt canary rockfish ACL and sector HGs under alternative 1 are also sufficient to not exceed the 101 mt canary rockfish ACL under alternative 2. The primary common factor limiting commercial groundfish fisheries modeled under alternatives 1 and 2 is the fixed ACL for POP. Impacts under alternative 2 are the same as alternative 1. This result is because measures used to manage cowcod, bocaccio, and yelloweye rockfish to stay within their common ACLs and HGs under all the action alternatives are already sufficient to manage for the lower canary rockfish ACL under alternative 2.

Projected impacts under alternative 8 are the same as under alternative 1 (the preferred alternative). The lack of difference in projected ex-vessel revenue impacts may seem surprising given that management measures to limit canary rockfish mortality are likely to affect target species fishing opportunity. However, measures used to manage commercial trawl fisheries to stay within the 150 mt POP ACL and sector HGs under alternative 8 are the same as those used under alternative 1. Thus the POP ACL is more limiting of commercial trawl fisheries modeled under alternatives 1 and 8 than is the canary rockfish ACL. Similarly the 3.3 mt of yelloweye rockfish allocated to the fixed gear fisheries sectors under all the action alternatives means that increasing the canary rockfish ACL is not expected to increase fishing opportunity for fixed gear sector target species to any great degree. Projected impacts under alternative 7 are the same as under alternative 6 for all commercial groundfish sectors. This is because measures used to manage commercial fisheries to stay within the 222 mt POP ACL and sector HGs under alternative 7 are the same as those used under alternative 6. The 222 mt POP ACL is the main factor limiting commercial fisheries modeled under both alternatives 6 and 7.

For recreational impacts, other than alternative 4, estimates of the impacts do not differ because of the constant levels of the other overfished species or because POP is not a recreational fish. Projected impacts under alternative 2, 5, 6, 7, and 8 are the same as under alternative 1. This is because measures used to manage cowcod, bocaccio and yelloweye rockfish to stay within their common ACLs and HGs under the action alternatives generally override the effects of the lower canary rockfish ACL under alternative 6, and changes in the POP ACL do not impact recreational fisheries. Impacts under alternative 3 are the same as alternative 1. This is because POP is not generally caught by recreational anglers, so changes in the POP ACL do not impact recreational fisheries.

The regulations in this proposed rule would implement the Council's preferred alternative; in the discussion below references are made to options “B” and a distinction between alternative 1 and the Council preferred alternative, which is a modification of alternative 1. Under each of alternatives 1-8, two sub-alternatives (“A” and “B”) were developed for the Nearshore Open Access sector. The preferred alternative incorporates the management measures under sub-alternative B. This treatment reflects consideration of two different management options to achieve the prescribed bycatch levels. In each case, the “B” option would likely yield lower harvests and revenues for the Nearshore Open Access sector than would the “A” option, a difference of about $206,000 to a fishery projected to earn $4.2 million in revenues under the no action alternative.

The preferred alternative is very similar to alternative 1 except that the fishery harvest guideline is lower for petrale sole, yellowtail rockfish, and to a lesser extent, shortspine thornyheads, to accommodate tribal fisheries set asides. Increased allowances for research and at-sea whiting sector catch of arrowtooth flounder also reduce the fishery harvest guideline for these stocks. These changes reduce the fishery harvest guideline (allocations) for commercial fisheries for those four species accordingly. There may be an increase in tribal landings of petrale sole under the preferred alternative since projected tribal petrale sole landings under No action are slightly higher than the alternative 1 set aside. If the full amount of the tribal petrale sole set aside were landed under the preferred alternative, the upper bound on possible additional tribal revenue impact is on the order of +$0.25 million. All of these additional landings would be made in Puget Sound and Washington coast ports. Any increase in tribal yellowtail rockfish landings under the preferred alternative is less certain since projected tribal yellowtail rockfish landings under no action are well below the alternative 1 set aside amount. There is no expected decrease in commercial trawl (IFQ) fisheries revenue impacts under the preferred alternative because projected landings of petrale sole and yellowtail rockfish under alternative 1B are both well below the preferred alternative's shorebased trawl sector harvest guideline. There is no expected decrease in non-trawl sectors' revenue impacts under the preferred alternative because the affected species either are not taken (arrowtooth flounder, petrale sole), or projected landings under alternative 1B are well below the preferred alternative's non-trawl sector harvest guideline (shortspine thornyheads, yellowtail rockfish). As a result, preferred alternative may differ slightly from alternative 1 in the distribution of revenues between Nonwhiting Trawl and Tribal fisheries sectors.

Compared with No Action, under the alternative 1B, total shoreside ex-vessel revenue is projected to decline by $9.174 million (−9.8 percent) and accounting net revenues by $4.510 (−14.7 percent). Nearshore Open Access would see projected revenues increase by $0.539 million (+12.8 percent) under alternative 1B. These numbers represent the most favorable outcome for the Nearshore Open Access sector and are the same as those expected under alternatives 2, 3, 5, 6, 7, and 8. All other shoreside directed groundfish sectors would experience ex-vessel revenue decreases from no action under this alternative: Whiting Trawl by $0.278 million (−1.2 percent), Nonwhiting Trawl by $3.175 million (−11.8 percent), Limited Entry Fixed Gear by $3.782 million (−19.8 percent), Non-nearshore Open Access by $1.436 million (−18.7 percent), and Tribal groundfish by $1.042 million (−8.8 percent). Under alternative 1, Shoreside Whiting and Nonwhiting Trawl would experience the second highest ex-vessel revenues among the action alternatives. Ex-vessel revenues for Limited Entry Fixed Gear, Non-nearshore Open Access and Tribal sectors do not vary across the action alternatives. Under the preferred alternative and alternative 1, angler trips coastwide are projected to increase by 1,700 (+0.3 percent) over no action, with all of the increase occurring in the Mendocino and Sonoma County (Fort Bragg—Bodega Bay) region of California. No change in angler effort is expected in Washington or Oregon. Alternative 1 shows the greatest increase in angler trips under the action.

Compared to the status quo as measured by the no action alternative, total ex-vessel revenue under the proposed regulations is projected to decline by about 10 percent ($9.2 million) and accounting net revenues (vessel “profits”) by 15 percent ($4.5 million). This is primarily due to the decline in the sablefish ACLs, which under no action/status quo alternative sum to 6,813 mt, versus 5,451 mt under the proposed regulations. This is a 20 percent decline in the ACL. Based on sablefish prices used in the analysis, declining sablefish revenues account for about 80 percent of the projected decline of $9 million. Under the proposed regulations, angler trips coastwide are projected to increase by 1,700 (+0.3 percent) compared to the status quo. Under the proposed regulations, income from commercial groundfish fishing is projected to decline by $9.274 million (−10.3 percent). Income impacts from recreational groundfish are expected to increase by $0.136 million (+0.2 percent). Combined coastwide commercial plus recreational income impacts are expected to decrease by $9.138 million (−5.6 percent) compared to the no action alternative.

For context, total groundfish revenues including tribal and at-sea fisheries reached $122 million in 2011-a 43 percent increase over 2010. Major causes of the increase can be associated with a 33 percent increase in sablefish prices; 43 percent increase in whiting prices, and 60 percent increase in whiting harvests. However, prices for all major species except lingcod increased in 2011. For most species, the percentage increase in ex-vessel prices was greater than 25 percent. Specific reasons for these increases are unknown, but appear correlated with improvements in U.S. and World economies, and in particular for sablefish, the Japanese market. For the shoreside trawl fishery, the IFQ program may also have had an influence on prices. Sablefish now accounts for almost 40 percent of the entire groundfish fishery (shoreside, at-sea, and tribal) revenues. Total groundfish revenues and total shoreside revenues in 2011 including whiting are at levels not seen since 1997. However, despite these increases, the shoreside non-whiting fishery has not returned to pre-overfished era levels. During the period 1981 to 1998, shoreside non-whiting revenues averaged $98 million annually in inflation adjusted revenues. For the period 1999 to 2011, shoreside non-whiting revenues have averaged $54 million. Shoreside non-whiting revenues reached $69 million in 2011, compared to $58 million in 2010.

With respect to assessing the needs of communities and choosing the time period to rebuild, the Council is recommending keeping to a constant harvest rate because, as stock biomass increases, the ACL increases correspondingly (essentially, a constant fraction of the population, rather than quantity, is removed from the population). Maintaining the no action ACL of 107 mt for canary would imply a constant catch policy in which the ACL would be set at a fixed value for the duration of the rebuilding period. This strategy is problematic if, as the stock becomes more abundant, harvesters have a harder time avoiding incidental catch. Fishery managers would then have to impose even more restrictive measures to prevent the ACL from being exceeded. Furthermore, it is not clear that a harvest rate associated with this lower ACL would rebuild the stock any faster than the preferred alternative since decreasing the SPR harvest rate from the default 88.7 percent to 90 percent—an ACL of 101 mt in 2013—shortens rebuilding by only one year. The preferred ACL maintains the spawning biomass per recruit (SPR) harvest rate and provides a level of harvest that is expected to rebuild in a time period as short as possible, while taking into account the needs of fishing communities. For POP, the ACLs of 150 mt and 153 mt in 2013 and 2014, respectively maintain the SPR harvest rate and provide a level of harvest that is reduced from the ACLs in 2011—and 2012 to take into account fundament changes in our understanding of the biology of the stock. Although the target time to rebuild POP is extended to 2051 due to revised estimates of the unfished biomass, which is estimated to be much larger than in previous assessments, POP limits access to target stocks as indicated in the integrated alternatives analyzed in the DEIS. As a result, the 2013 POP ACL is 18 percent lower than the status quo 2012 POP ACL. Maintaining a continued constant harvest strategy allows incidental take of POP in target fisheries, allowing POP to rebuild in as short a time as possible, while also balancing the needs of fishing communities.

The final preferred alternative represents the Council's efforts to address the MSA's requirements to rebuild stocks in as short a time as possible, taking into account: (1) The status and biology of the stocks, (2) the needs of fishing communities, and (3) interactions of depleted stocks within the marine ecosystem. By taking into account the “needs of fishing communities” the Council was also simultaneously taking into account the “needs of small businesses” as fishing communities rely on small businesses as a source of economic income and activity and income. During its four major council meetings, actions and revisions by the Council in selecting the preferred alternative can be seen as means of trying to mitigate impacts of the proposed rule on small entities. The DEIS includes analysis of a range of alternatives that were considered by the Council, including analysis of the effects of setting allowable harvest levels necessary to rebuild groundfish species that were previously declared overfished. The Council reviewed these analyses and read and heard testimony from Council advisors, fishing industry representatives, representatives from non-governmental organizations, and the general public before deciding the final Council-preferred alternative in June 2012. The Council's final preferred management measures are intended to stay within all the final recommended harvest levels for groundfish species decided by the Council at their April and June 2012 meetings.

The above analysis suggests that there are approximately 1,400 small entities involved in the fishery. Under the RFA, an agency does not need to conduct an IRFA and/or Final Regulatory Flexibility Analysis (FRFA), if an agency can certify that the proposed rule will not have a significant economic impact on a substantial number of small entities. The economic analysis forecasts that 2013-2014 will lead to an increase in recreational groundfish trips and a decline of about 15 percent in commercial revenues compared to 2011, largely because of the decline in the amount of sablefish available to be harvested. This decline will affect the profits of both large and small entities. However, we do not believe that this rule will place a substantial number of small entities at a significant competitive disadvantage compared to large entities. Nonetheless, NMFS has prepared an IRFA. Through the rulemaking process associated with this action, we are requesting comments on this conclusion.

NMFS issued Biological Opinions under the Endangered Species Act (ESA) on August 10, 1990, November 26, 1991, August 28, 1992, September 27, 1993, May 14, 1996, and December 15, 1999, pertaining to the effects of the Pacific Coast groundfish FMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions have concluded that implementing the FMP for the Pacific Coast groundfish fishery is not expected to jeopardize the continued existence of any endangered or threatened species under the jurisdiction of NMFS, or result in the destruction or adverse modification of critical habitat.

NMFS issued a Supplemental Biological Opinion on March 11, 2006, concluding that neither the higher observed bycatch of Chinook in the 2005 whiting fishery nor new data regarding salmon bycatch in the groundfish bottom trawl fishery required a reconsideration of its prior “no jeopardy” conclusion. NMFS also reaffirmed its prior determination that implementation of the Pacific Coast Groundfish Fishery Management Plan (PCGFMP) is not likely to jeopardize the continued existence of any of the affected ESUs. Lower Columbia River coho (70 FR 37160, June 28, 2005) and Oregon Coastal coho (73 FR 7816, February 11, 2008) were recently relisted as threatened under the ESA. The 1999 biological opinion concluded that the bycatch of salmonids in the Pacific whiting fishery were almost entirely Chinook salmon, with little or no bycatch of coho, chum, sockeye, and steelhead.

On February 9, 2012, NMFS's Protected Resources Division issued a Biological Opinion (BO) pursuant to section 7(a)(2) of the Endangered Species Act (ESA) on the effects of the operation of the Pacific coast groundfish fishery in 2012. In this Opinion, NMFS concluded that the operation of the groundfish fishery is not likely to jeopardize the continued existence of green sturgeon (Acipenser medirostris), eulachon (Thaleichthys pacificus), humpback whales (Megaptera novaeangliae), Steller sea lions (Eumetopias jubatus), and leatherback sea turtles (Dennochelys coriacea). NMFS also concluded that the operation of the groundfish fishery is not likely to destroy or adversely modify designated critical habitat of green sturgeon or leatherback sea turtles. Furthermore, NMFS concluded that the operation of the groundfish fishery may affect, but is not likely to adversely affect the following species and designated critical habitat: Sei whales (Balaenoptera borealis); North Pacific Right whales (Eubalaena japonica); Blue whales (Balaenoptera musculus); Fin whales (Balaenoptera physalus); Sperm whales (Physter macrocephalus); Southern Resident killer whales (Orcinus orca); Guadalupe fur seals (Arctocephalus townsendi); Green sea turtles (Chelonia mydas); Olive ridley sea turtles (Lepidochelys olivacea); Loggerhead sea turtles (Carretta carretta); critical habitat of Southern Resident killer whales; and critical habitat of Steller sea lions.

On August 25, 2011, NMFS' Sustainable Fisheries Division initiated consultation with U.S. Fish and Wildlife Service (USFWS) pursuant to section 7(a)(2) of the Endangered Species Act (ESA) on the effects of the operation of the Pacific coast groundfish fishery. The Biological Assessment (BA) on the effects of the groundfish fishery on endangered species was revised and re-submitted to USFWS on January 17, 2012. The BA concludes that the continued operation of the Pacific Coast Groundfish Fishery is likely to adversely affect short-tailed albatross; however, the level of take is not expected to reduce appreciably the likelihood of survival or significantly affect recovery of the species. The BA preliminarily concludes that continued operation of the Pacific Coast Groundfish Fishery is not likely to adversely affect California least terns, marbled murrelets, bull trout, and Northern or Southern sea otters. USFWS formally responded with a letter dated March 29, 2012 and advised NMFS that formal consultation has been initiated. Marine Mammal Protection Act (MMPA) impacts resulting from fishing activities in this final rule are discussed in the DEIS for the 2013-2014 groundfish fishery specifications and management measures. As discussed above, NMFS issued a BO addressing impacts to ESA listed marine mammals and is currently completing formal consultation for the ongoing effects of prosecution of the groundfish fishery for 2013 and beyond. NMFS is also working on the process leading to any necessary authorization of incidental taking under MMPA section 101(a)(5)(E).

Pursuant to Executive Order 13175, this proposed rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.324(d) further state “the Secretary will develop tribal allocations and regulations under this paragraph in consultation with the affected tribe(s) and, insofar as possible, with tribal consensus”. The tribal management measures in this proposed rule have been developed following these procedures. The tribal representative on the Council made a motion to adopt the non-whiting tribal management measures, which was passed by the Council. Those management measures, which were developed and proposed by the tribes, are included in this proposed rule.

This proposed rule has been determined to be not significant for purposes of Executive Order 12866.

List of Subjects in 50 CFR Part 660

Fisheries, Fishing, Indian fisheries.

Dated: November 2, 2012.
Samuel D. Rauch III,
Deputy Assistant Administrator for Regulatory Programs, performing the functions and duties of the Assistant Administrator for Fisheries, National Marine Fisheries Service.

For the reasons set out in the preamble, 50 CFR part 660 is proposed to be amended as follows:

PART 660—FISHERIES OFF WEST COAST STATES

1. The authority citation for part 660 continues to read as follows:

Authority: 16 U.S.C. 1801 et seq. and 16 U.S.C. 773 et seq.

2. In § 660.11, revise the definitions for “Conservation area(s)” paragraph (1), and “Fishery harvest guideline” as follows:

§ 660.11 General definitions

* * * * *

Conservation area(s) * * *

(1) Groundfish Conservation Area or GCA means a geographic area defined by coordinates expressed in degrees latitude and longitude, wherein fishing by a particular gear type or types may be prohibited. Regulations at § 660.60(c)(3) describe the various purposes for which these GCAs may be implemented. Regulations at § 660.70 define coordinates for these polygonal GCAs: Yelloweye Rockfish Conservation Areas, Cowcod Conservation Areas, waters encircling the Farallon Islands, and waters encircling the Cordell Banks. GCAs also include Bycatch Reduction Areas or BRAs and Rockfish Conservation Areas or RCAs, which are areas closed to fishing by particular gear types, bounded by lines approximating particular depth contours. RCA boundaries may and do change seasonally according to conservation needs. Regulations at §§ 660.70 through 660.74 define RCA boundary lines with latitude/longitude coordinates; regulations at Tables 1 (North) and 1 (South) of subpart D, Tables 2 (North) and 2 (South) of subpart E, and Tables 3 (North) and 3 (South) of subpart F set RCA seasonal boundaries. Fishing prohibitions associated with GCAs are in addition to those associated with EFH Conservation Areas.

* * * * *

Fishery harvest guideline means the harvest guideline or quota after subtracting from the TAC, ACL, or ACT when specified, any allocation or projected catch for the Pacific Coast treaty Indian Tribes, projected research catch, deductions for fishing mortality in non-groundfish fisheries, and deductions for EFPs.

* * * * *

3. In § 660.12, paragraphs (a)(11) through (a)(13) are redesignated as (a)(12) through (a)(14) and new paragraph (a)(11) is added to read as follows:

§ 660.12 General groundfish prohibitions.

* * * * *

(a) * * *

(11) Fail to remove all fish from the vessel at landing (defined in § 660.11) and prior to beginning a new fishing trip, except for processing vessels in the catcher/processor or mothership sectors of the Pacific whiting fishery.

* * * * *

4. In § 660.40, introductory text and paragraphs (b), (e) and (f) are revised, paragraph (g) is removed, and paragraph (h) is redesignated as paragraph (g) to read as follows:

§ 660.40 Overfished species rebuilding plans.

For each overfished groundfish stock with an approved rebuilding plan, this section contains the standards to be used to establish annual or biennial ACLs, specifically the target date for rebuilding the stock to its MSY level and the harvest control rule to be used to rebuild the stock. The harvest control rule may be expressed as a “Spawning Potential Ratio” or “SPR” harvest rate.

* * * * *

(b) Canary rockfish. Canary rockfish was declared overfished in 2000. The target year for rebuilding the canary rockfish stock to BMSY is 2030. The harvest control rule to be used to rebuild the canary rockfish stock is an annual SPR harvest rate of 88.7 percent.

* * * * *

(e) Pacific Ocean Perch (POP). POP was declared overfished in 1999. The target year for rebuilding the POP stock to BMSY is 2051. The harvest control rule to be used to rebuild the POP stock is an annual SPR harvest rate of 86.4 percent.

(f) Petrale Sole. Petrale sole was declared overfished in 2010. The target year for rebuilding the petrale sole stock to BMSY is 2016. The harvest control rule is the 25-5 default adjustment.

* * * * *

(g) Yelloweye rockfish. Yelloweye rockfish was declared overfished in 2002. The target year for rebuilding the yelloweye rockfish stock to BMSY is 2074. The harvest control rule to be used to rebuild the yelloweye rockfish stock is an annual SPR harvest rate of 76.0 percent.

5. In § 660.50, paragraphs (f) introductory text, (f)(2)(ii), (f)(4), (g) introductory text, (g)(5), through (7) are revised and (f)(6), (f)(7) are added to read as follows:

§ 660.50 Pacific Coast treaty Indian fisheries

* * * * *

(f) Pacific Coast treaty Indian fisheries allocations, harvest guidelines, and set-asides. Catch amounts may be specified in this section and in Tables 1a and 2a to subpart C. Trip limits for certain species were recommended by the tribes and the Council and are specified in paragraph (g) of this section.

* * * * *

(2) * * *

(ii) The Tribal allocation is 401 mt in 2013 and 435 in 2014 per year. This allocation is, for each year, 10 percent of the Monterey through Vancouver area (North of 36° N. lat.) ACL. The Tribal allocation is reduced by 1.5 percent for estimated discard mortality.

* * * * *

(4) Pacific whiting. The tribal allocation for 2012 is 48,556 mt. The tribal allocations will be announced annually in the Federal Register.

* * * * *

(6) For petrale sole, treaty fishing vessels are restricted to a fleetwide harvest target of 220 mt each year.

(7) Yellowtail rockfish taken in the directed tribal mid-water trawl fisheries are subject to a catch limit of 677 mt for the entire fleet.

(g) Pacific Coast treaty Indian fisheries management measures. Trip limits for certain species were recommended by the tribes and the Council and are specified here.

* * * * *

(5) Yellowtail and widow rockfish. The Makah Tribe will manage the midwater trawl fisheries as follows: Landings of widow rockfish must not exceed 10 percent of the weight of yellowtail rockfish landed, for a given vessel, throughout the year. These limits may be adjusted by the tribe inseason to minimize the incidental catch of canary rockfish and widow rockfish, provided the catch of yellowtail rockfish does not exceed the fleetwide catch limit specified in paragraph (f) of this section.

(6) Other rockfish.

(i) Minor nearshore rockfish. Minor nearshore rockfish are subject to a 300-lb (136-kg) trip limit per species or species group, or to the non-tribal limited entry trip limit for those species if those limits are less restrictive than 300-lb (136-kg) per trip. Limited entry trip limits for waters off Washington are specified in Table 1 (North) to subpart D, and Table 2 (North) to subpart E.

(ii) Minor shelf rockfish and minor slope rockfish. Redstripe rockfish are subject to an 800-lb (363 kg) trip limit. Minor shelf (excluding redstripe rockfish), and minor slope rockfish groups are subject to a 300-lb (136 kg) trip limit per species or species group, or to the non-tribal limited entry fixed gear trip limit for those species if those limits are less restrictive than 300-lb (136 kg) per trip. Limited entry fixed gear trip limits are specified in Table 2 (North) to subpart E.

(iii) Other rockfish. All other rockfish, not listed specifically in paragraph (g) of this section, are subject to a 300-lb (136 kg) trip limit per species or species group, or to the non-tribal limited entry trip limit for those species if those limits are less restrictive than 300-lb (136 kg) per trip. Limited entry trip limits for waters off Washington are specified in Table1 (North) to subpart D, and Table 2 (North) to subpart E.

(7) Flatfish and other fish. Trawl vessels are restricted to using small footrope trawl gear. Treaty fishing vessels using bottom trawl gear are subject to the following limits: For Dover sole, English sole, other flatfish 110,000-lbs (49,895 kg) per 2 months; and for arrowtooth flounder 150,000-lbs (68,039 kg) per 2 months. The Dover sole and arrowtooth flounder limits in place at the beginning of the season will be combined across periods and the fleet to create a cumulative harvest target. The limits available to individual vessels will then be adjusted inseason to stay within the overall harvest target as well as estimated impacts to overfished species.

* * * * *

6. In § 660.55, paragraph (k) is removed and reserved, paragraph (b) introductory text, and (j) are revised as follows:

§ 660.55 Allocations.

* * * * *

(b) Fishery harvest guidelines and reductions made prior to fishery allocations. Prior to the setting of fishery allocations, the TAC, ACL, or ACT when specified, is reduced by the Pacific Coast treaty Indian Tribal harvest (allocations, set-asides, and estimated harvest under regulations at § 660.50); projected scientific research catch of all groundfish species, estimates of fishing mortality in non-groundfish fisheries and, as necessary, deductions for EFPs. The remaining amount after these deductions is the fishery harvest guideline or quota. (note: recreational estimates are not deducted here).

* * * * *

(j) Fishery set-asides. Annual set-asides are not formal allocations but they are amounts which are not available to the other fisheries during the fishing year. For Pacific Coast treaty Indian fisheries, set-asides will be deducted from the TAC, OY, ACL, or ACT when specified. For the catcher/processor and mothership sectors of the at-sea Pacific whiting fishery, set-asides will be deducted from the limited entry trawl fishery allocation. Set-aside amounts will be specified in Tables 1a through 2d of this subpart and may be adjusted through the biennial harvest specifications and management measures process.

(k) [Reserved]

* * * * *

7. In § 660.60, paragraphs (c) introductory text, (c)(1)(i), (c)(3), (d)(1)(ii), (d)(1)(vi), (h)(2) are revised and paragraph (c)(1)(v) is added to read as follows:

§ 660.60 Specifications and management measures.

* * * * *

(c) Routine management measures. Catch restrictions that are likely to be adjusted on a biennial or more frequent basis may be imposed and announced by a single notification in the Federal Register if good cause exists under the APA to waive notice and comment, and if they have been designated as routine through the two-meeting process described in the PCGFMP. Routine management measures that may be revised during the fishing year, via this process, are implemented in paragraph (h) of this section, and in subparts C through G of this part, including Tables 1a through 1c, and 2a through 2c to subpart C, Tables 1 (North) and 1 (South) of subpart D, Tables 2 (North) and 2 (South) of subpart E, Tables 3 (North) and 3 (South) of subpart F. Most trip, bag, and size limits, and area closures in the groundfish fishery have been designated “routine,” which means they may be changed rapidly after a single Council meeting. Council meetings are held in the months of March, April, June, September, and November. Inseason changes to routine management measures are announced in the Federal Register pursuant to the requirements of the Administrative Procedure Act (APA). Changes to trip limits are effective at the times stated in the Federal Register. Once a change is effective, it is illegal to take and retain, possess, or land more fish than allowed under the new trip limit. This means that, unless otherwise announced in the Federal Register, offloading must begin before the time a fishery closes or a more restrictive trip limit takes effect. The following catch restrictions have been designated as routine:

(1) * * *

(i) Trip landing and frequency limits, size limits, all gear. Trip landing and frequency limits have been designated as routine for the following species or species groups: widow rockfish, canary rockfish, yellowtail rockfish, Pacific ocean perch, yelloweye rockfish, black rockfish, blue rockfish, splitnose rockfish, blackgill rockfish in the area south of 40°10′ N. lat., chilipepper, bocaccio, cowcod, minor nearshore rockfish or shallow and deeper minor nearshore rockfish, shelf or minor shelf rockfish, and minor slope rockfish; DTS complex which is composed of Dover sole, sablefish, shortspine thornyheads, longspine thornyheads; petrale sole, rex sole, arrowtooth flounder, Pacific sanddabs, and the other flatfish complex, which is composed of those species plus any other flatfish species listed at § 660.11; Pacific whiting; lingcod; Pacific cod; spiny dogfish; longnose skate; cabezon in Oregon and California and “other fish” as a complex consisting of all groundfish species listed at § 660.11 and not otherwise listed as a distinct species or species group. In addition to the species and species groups listed above, sub-limits or aggregate limits may be specified, specific to the Shorebased IFQ Program, for the following species: big skate, California skate, California scorpionfish, leopard shark, soupfin shark, finescale codling, Pacific rattail (grenadier), ratfish, kelp greenling, shortbelly, and cabezon in Washington. Size limits have been designated as routine for sablefish and lingcod. Trip landing and frequency limits and size limits for species with those limits designated as routine may be imposed or adjusted on a biennial or more frequent basis for the purpose of keeping landings within the harvest levels announced by NMFS, and for the other purposes given in paragraphs (c)(1)(i)(A) and (B) of this section.

* * * * *

(v) Shorebased IFQ Program surplus carryover percentage. As specified at § 660.140(e)(5)(i), a percentage of surplus QP or IBQ pounds in a vessel account may be carried over from one year to the next. The percentage of surplus QP or IBQ pounds, that may be carried over may be modified on a biennial or more frequent basis, and may not be higher than 10 percent.

* * * * *

(3) All fisheries, all gear types.

(i) Depth-based management measures. Depth-based management measures, particularly the setting of closed areas known as Groundfish Conservation Areas, may be implemented in any fishery that takes groundfish directly or incidentally. Depth-based management measures are set using specific boundary lines that approximate depth contours with latitude/longitude waypoints found at § 660.70 through 660.74. Depth-based management measures and the setting of closed areas may be used: to protect and rebuild overfished stocks, to prevent the overfishing of any groundfish species by minimizing the direct or incidental catch of that species, to minimize the incidental harvest of any protected or prohibited species taken in the groundfish fishery, to extend the fishing season; for the commercial fisheries, to minimize disruption of traditional fishing and marketing patterns; for the recreational fisheries, to spread the available catch over a large number of anglers; to discourage target fishing while allowing small incidental catches to be landed; and to allow small fisheries to operate outside the normal season. BRAs may be implemented in the Pacific whiting fishery: as an automatic action for species with a sector specific allocation, consistent with paragraph (d)(1) of this section; or as a routine action consistent with the purposes for implementing depth based management and the setting of closed areas as described in paragraph (c)(3)(i) of this section.

(ii) Non-tribal deductions from the ACL. Changes to the non-tribal amounts deducted from the TAC, ACLs, or ACT when specified, described at § 660.55 (b)(2) through (4) and specified in the footnotes to Tables 1a through 1c, and 2a through 2c, to subpart C, have been designated as routine to make fish that would otherwise go unharvested available to other fisheries during the fishing year. Adjustments may be made to provide additional harvest opportunities in groundfish fisheries when catch in scientific research activities, non-groundfish fisheries, and EFPs are lower than the amounts that were initially deducted off the TAC, ACL, or ACT when specified, during the biennial specifications. When recommending adjustments to the non-tribal deductions, the Council shall consider the allocation framework criteria outlined in the PCGFMP and the objectives to maintain or extend fishing and marketing opportunities taking into account the best available fishery information on sector needs.

(d) * * *

(1) * * *

(ii) Close one or more at-sea sectors of the fishery when a non-whiting groundfish species with allocations is reached or projected to be reached.

* * * * *

(vi) Implement Pacific Whiting Bycatch Reduction Areas, described at § 660.131(c)(4), when NMFS projects a sector-specific allocation will be reached before the sector's whiting allocation.

* * * * *

(h) * * *

(2) Landing. As stated at § 660.11 (in the definition of “Land or landing”), once the offloading of any species begins, all fish aboard the vessel are counted as part of the landing and must be reported as such. All fish from a landing must be removed from the vessel before a new fishing trip begins, except for processing vessels fishing in the catcher/processor or mothership sectors of the Pacific whiting fishery. Transfer of fish at sea is prohibited under § 660.12, unless a vessel is participating in the primary whiting fishery as part of the mothership or catcher/processor sectors, as described at § 660.131(a). Catcher vessels in the mothership sector must transfer all catch from a haul to the same vessel registered to an MS permit prior to the gear being set for a subsequent haul. Catch may not be transferred to a tender vessel.

* * * * *

8. In § 660.72, paragraph (j)(2475) is redesignated as (j)(247).

9. Section 660.73 is amended as follows:

a. Remove paragraphs (h)(58) and (h)(59),

b. Redesignate paragraphs (h)(60) through (h)(186) as (h)(61) through (h)(187), (h)(187) through (h)(191) as (h)(192) through (h)(196), (h)(192) through (h)(301) as (h)(200) through (h)(309),

c. Add paragraphs (h)(58) through (h)(60), (h)(188) through (h)(191), (h)(197) through (h)(199), and paragraph (l) to read as follows:

§ 660.73 Latitude/longitude coordinates defining the 100 fm (183 m) through 150 fm (274 m) depth contours.

* * * * *

(h) * * *

(58) 46°58.36′ N. lat., 124°59.82′ W. long.;

(59) 46°56.80′ N. lat., 125°00.00′ W. long.;

(60) 46°56.62′ N. lat., 125°00.00′ W. long.;

* * * * *

(188) 39°49.10′ N. lat., 124°06.00′ W. long.;

(189) 39°48.94′ N. lat., 124°04.74′ W. long.;

(190) 39°48.60′ N. lat., 124°04.50′ W. long.;

(191) 39°47.95′ N. lat., 124°05.22′ W. long.;

* * * * *

(197) 39°31.64′ N. lat., 123°56.16′ W. long.;

(198) 39°31.40′ N. lat., 123°56.70′ W. long.;

(199) 39°32.35′ N. lat., 123°57.42′ W. long.;

* * * * *

(l) The 150 fm (274 m) depth contour used between the U.S. border with Canada and 40°10′ N. lat., modified to allow fishing in petrale sole areas, is defined by straight lines connecting all of the following points in the order stated:

(1) 48°14.96′ N. lat., 125°41.24′ W. long.;

(2) 48°12.89′ N. lat., 125°37.83′ W. long.;

(3) 48°11.49′ N. lat., 125°39.27′ W. long.;

(4) 48°10.00′ N. lat., 125°40.65′ W. long.;

(5) 48°08.72′ N. lat., 125°41.84′ W. long.;

(6) 48°07.00′ N. lat., 125°45.00′ W. long.;

(7) 48°06.13′ N. lat., 125°41.57′ W. long.;

(8) 48°05.00′ N. lat., 125°39.00′ W. long.;

(9) 48°04.15′ N. lat., 125°36.71′ W. long.;

(10) 48°03.00′ N. lat., 125°36.00′ W. long.;

(11) 48°01.65′ N. lat., 125°36.96′ W. long.;

(12) 48°01.00′ N. lat., 125°38.50′ W. long.;

(13) 47°57.50′ N. lat., 125°36.50′ W. long.;

(14) 47°56.53′ N. lat., 125°30.33′ W. long.;

(15) 47°57.28′ N. lat., 125°27.89′ W. long.;

(16) 47°59.00′ N. lat., 125°25.50′ W. long.;

(17) 48°01.77′ N. lat., 125°24.05′ W. long.;

(18) 48°02.08′ N. lat., 125°22.98′ W. long.;

(19) 48°03.00′ N. lat., 125°22.50′ W. long.;

(20) 48°03.46′ N. lat., 125°22.10′ W. long.;

(21) 48°04.29′ N. lat., 125°20.37′ W. long.;

(22) 48°02.00′ N. lat., 125°18.50′ W. long.;

(23) 48°00.01′ N. lat., 125°19.90′ W. long.;

(24) 47°58.75′ N. lat., 125°17.54′ W. long.;

(25) 47°53.50′ N. lat., 125°13.50′ W. long.;

(26) 47°48.88′ N. lat., 125°05.91′ W. long.;

(27) 47°48.50′ N. lat., 125°05.00′ W. long.;

(28) 47°45.98′ N. lat., 125°04.26′ W. long.;

(29) 47°45.00′ N. lat., 125°05.50′ W. long.;

(30) 47°42.11′ N. lat., 125°04.74′ W. long.;

(31) 47°39.00′ N. lat., 125°06.00′ W. long.;

(32) 47°35.53′ N. lat., 125°04.55′ W. long.;

(33) 47°30.90′ N. lat., 124°57.31′ W. long.;

(34) 47°29.54′ N. lat., 124°56.50′ W. long.;

(35) 47°29.50′ N. lat., 124°54.50′ W. long.;

(36) 47°28.57′ N. lat., 124°51.50′ W. long.;

(37) 47°25.00′ N. lat., 124°48.00′ W. long.;

(38) 47°23.95′ N. lat., 124°47.24′ W. long.;

(39) 47°23.00′ N. lat., 124°47.00′ W. long.;

(40) 47°21.00′ N. lat., 124°46.50′ W. long.;

(41) 47°18.20′ N. lat., 124°45.84′ W. long.;

(42) 47°18.50′ N. lat., 124°49.00′ W. long.;

(43) 47°19.17′ N. lat., 124°50.86′ W. long.;

(44) 47°18.07′ N. lat., 124°53.29′ W. long.;

(45) 47°17.78′ N. lat., 124°51.39′ W. long.;

(46) 47°16.81′ N. lat., 124°50.85′ W. long.;

(47) 47°15.96′ N. lat., 124°53.15′ W. long.;

(48) 47°14.31′ N. lat., 124°52.62′ W. long.;

(49) 47°11.87′ N. lat., 124°56.90′ W. long.;

(50) 47°12.39′ N. lat., 124°58.09′ W. long.;

(51) 47°09.50′ N. lat., 124°57.50′ W. long.;

(52) 47°09.00′ N. lat., 124°59.00′ W. long.;

(53) 47°06.06′ N. lat., 124°58.80′ W. long.;

(54) 47°03.62′ N. lat., 124°55.96′ W. long.;

(55) 47°02.89′ N. lat., 124°56.89′ W. long.;

(56) 47°01.04′ N. lat., 124°59.54′ W. long.;

(57) 46°58.47′ N. lat., 124°59.08′ W. long.;

(58) 46°58.36′ N. lat., 124°59.82′ W. long.;

(59) 46°56.80′ N. lat., 125°00.00′ W. long.;

(60) 46°56.62′ N. lat., 125°00.00′ W. long.;

(61) 46°57.09′ N. lat., 124°58.86′ W. long.;

(62) 46°55.95′ N. lat., 124°54.88′ W. long.;

(63) 46°54.79′ N. lat., 124°54.14′ W. long.;

(64) 46°58.00′ N. lat., 124°50.00′ W. long.;

(65) 46°54.50′ N. lat., 124°49.00′ W. long.;

(66) 46°54.53′ N. lat., 124°52.94′ W. long.;

(67) 46°49.52′ N. lat., 124°53.41′ W. long.;

(68) 46°42.24′ N. lat., 124°47.86′ W. long.;

(69) 46°39.50′ N. lat., 124°42.50′ W. long.;

(70) 46°38.17′ N. lat., 124°41.50′ W. long.;

(71) 46°37.50′ N. lat., 124°41.00′ W. long.;

(72) 46°36.50′ N. lat., 124°38.00′ W. long.;

(73) 46°33.85′ N. lat., 124°36.99′ W. long.;

(74) 46°33.50′ N. lat., 124°29.50′ W. long.;

(75) 46°32.00′ N. lat., 124°31.00′ W. long.;

(76) 46°30.53′ N. lat., 124°30.55′ W. long.;

(77) 46°25.50′ N. lat., 124°33.00′ W. long.;

(78) 46°23.00′ N. lat., 124°35.00′ W. long.;

(79) 46°21.05′ N. lat., 124°37.00′ W. long.;

(80) 46°20.64′ N. lat., 124°36.21′ W. long.;

(81) 46°20.36′ N. lat., 124°37.85′ W. long.;

(82) 46°19.48′ N. lat., 124°38.35′ W. long.;

(83) 46°17.87′ N. lat., 124°38.54′ W. long.;

(84) 46°16.15′ N. lat., 124°25.20′ W. long.;

(85) 46°16.00′ N. lat., 124°23.00′ W. long.;

(86) 46°14.87′ N. lat., 124°26.15′ W. long.;

(87) 46°13.37′ N. lat., 124°31.36′ W. long.;

(88) 46°12.08′ N. lat., 124°38.39′ W. long.;

(89) 46°09.46′ N. lat., 124°40.64′ W. long.;

(90) 46°07.29′ N. lat., 124°40.89′ W. long.;

(91) 46°02.76′ N. lat., 124°44.01′ W. long.;

(92) 46°01.22′ N. lat., 124°43.47′ W. long.;

(93) 45°51.82′ N. lat., 124°42.89′ W. long.;

(94) 45°46.00′ N. lat., 124°40.88′ W. long.;

(95) 45°45.95′ N. lat., 124°40.72′ W. long.;

(96) 45°45.21′ N. lat., 124°41.70′ W. long.;

(97) 45°42.72′ N. lat., 124°41.22′ W. long.;

(98) 45°34.50′ N. lat., 124°30.28′ W. long.;

(99) 45°21.10′ N. lat., 124°23.11′ W. long.;

(100) 45°20.25′ N. lat., 124°22.92′ W. long.;

(101) 45°09.69′ N. lat., 124°20.45′ W. long.;

(102) 45°03.83′ N. lat., 124°23.30′ W. long.;

(103) 44°56.41′ N. lat., 124°27.65′ W. long.;

(104) 44°44.47′ N. lat., 124°37.85′ W. long.;

(105) 44°37.17′ N. lat., 124°38.60′ W. long.;

(106) 44°35.55′ N. lat., 124°39.27′ W. long.;

(107) 44°31.81′ N. lat., 124°39.60′ W. long.;

(108) 44°31.48′ N. lat., 124°43.30′ W. long.;

(109) 44°12.67′ N. lat., 124°57.87′ W. long.;

(110) 44°08.30′ N. lat., 124°57.84′ W. long.;

(111) 44°07.38′ N. lat., 124°57.87′ W. long.;

(112) 43°57.42′ N. lat., 124°57.20′ W. long.;

(113) 43°52.52′ N. lat., 124°49.00′ W. long.;

(114) 43°51.55′ N. lat., 124°37.49′ W. long.;

(115) 43°47.83′ N. lat., 124°36.43′ W. long.;

(116) 43°31.79′ N. lat., 124°36.80′ W. long.;

(117) 43°29.34′ N. lat., 124°36.77′ W. long.;

(118) 43°26.37′ N. lat., 124°39.53′ W. long.;

(119) 43°20.83′ N. lat., 124°42.39′ W. long.;

(120) 43°16.15′ N. lat., 124°44.36′ W. long.;

(121) 43°09.33′ N. lat., 124°45.35′ W. long.;

(122) 43°08.77′ N. lat., 124°49.82′ W. long.;

(123) 43°08.83′ N. lat., 124°50.93′ W. long.;

(124) 43°05.89′ N. lat., 124°51.60′ W. long.;

(125) 43°04.60′ N. lat., 124°53.02′ W. long.;

(126) 43°02.64′ N. lat., 124°52.01′ W. long.;

(127) 43°00.39′ N. lat., 124°51.77′ W. long.;

(128) 42°58.00′ N. lat., 124°52.99′ W. long.;

(129) 42°57.56′ N. lat., 124°54.10′ W. long.;

(130) 42°53.93′ N. lat., 124°54.60′ W. long.;

(131) 42°53.26′ N. lat., 124°53.94′ W. long.;

(132) 42°52.31′ N. lat., 124°50.76′ W. long.;

(133) 42°50.00′ N. lat., 124°48.97′ W. long.;

(134) 42°47.78′ N. lat., 124°47.27′ W. long.;

(135) 42°46.31′ N. lat., 124°43.60′ W. long.;

(136) 42°41.63′ N. lat., 124°44.07′ W. long.;

(137) 42°40.50′ N. lat., 124°43.52′ W. long.;

(138) 42°38.83′ N. lat., 124°42.77′ W. long.;

(139) 42°35.36′ N. lat., 124°43.22′ W. long.;

(140) 42°32.78′ N. lat., 124°44.68′ W. long.;

(141) 42°32.02′ N. lat., 124°43.00′ W. long.;

(142) 42°30.54′ N. lat., 124°43.50′ W. long.;

(143) 42°28.16′ N. lat., 124°48.38′ W. long.;

(144) 42°18.26′ N. lat., 124°39.01′ W. long.;

(145) 42°13.66′ N. lat., 124°36.82′ W. long.;

(146) 42°00.00′ N. lat., 124°35.99′ W. long.;

(147) 41°47.80′ N. lat., 124°29.41′ W. long.;

(148) 41°41.67′ N. lat., 124°29.46′ W. long.;

(149) 41°22.80′ N. lat., 124°29.10′ W. long.;

(150) 41°13.29′ N. lat., 124°23.31′ W. long.;

(151) 41°06.23′ N. lat., 124°22.62′ W. long.;

(152) 40°55.60′ N. lat., 124°26.04′ W. long.;

(153) 40°53.97′ N. lat., 124°26.16′ W. long.;

(154) 40°53.94′ N. lat., 124°26.10′ W. long.;

(155) 40°50.31′ N. lat., 124°26.16′ W. long.;

(156) 40°49.82′ N. lat., 124°26.58′ W. long.;

(157) 40°49.62′ N. lat., 124°26.57′ W. long.;

(158) 40°45.72′ N. lat., 124°30.00′ W. long.;

(159) 40°40.56′ N. lat., 124°32.11′ W. long.;

(160) 40°38.87′ N. lat., 124°30.18′ W. long.;

(161) 40°38.38′ N. lat., 124°30.18′ W. long.;

(162) 40°37.33′ N. lat., 124°29.27′ W. long.;

(163) 40°35.60′ N. lat., 124°30.49′ W. long.;

(164) 40°37.38′ N. lat., 124°37.14′ W. long.;

(165) 40°36.03′ N. lat., 124°39.97′ W. long.;

(166) 40°31.58′ N. lat., 124°40.74′ W. long.;

(167) 40°30.30′ N. lat., 124°37.63′ W. long.;

(168) 40°28.22′ N. lat., 124°37.23′ W. long.;

(169) 40°24.86′ N. lat., 124°35.71′ W. long.;

(170) 40°23.01′ N. lat., 124°31.94′ W. long.;

(171) 40°23.39′ N. lat., 124°28.64′ W. long.;

(172) 40°22.29′ N. lat., 124°25.25′ W. long.;

(173) 40°21.90′ N. lat., 124°25.18′ W. long.;

(174) 40°22.02′ N. lat., 124°28.00′ W. long.;

(175) 40°21.34′ N. lat., 124°29.53′ W. long.;

(176) 40°19.74′ N. lat., 124°28.95′ W. long.;

(177) 40°18.13′ N. lat., 124°27.08′ W. long.;

(178) 40°17.45′ N. lat., 124°25.53′ W. long.;

(179) 40°17.97′ N. lat., 124°24.12′ W. long.;

(180) 40°15.96′ N. lat., 124°26.05′ W. long.;

(181) 40°16.90′ N. lat., 124°34.20′ W. long.;

(182) 40°16.29′ N. lat., 124°34.50′ W. long.;

(183) 40°14.91′ N. lat., 124°33.60′ W. long.;

(184) 40°10.00′ N. lat., 124°22.96′ W. long.;

10. Section 660.74 is amended as follows:

a. Remove paragraphs (g)(87),

b. Redesignate paragraphs (g)(88) through (g)(257) as (g)(89) through (g)(258),

c. Add paragraphs (g)(87) through (g)(88), to read as follows:

§ 660.74 Latitude/longitude coordinates defining the 180 fm (329 m) through 250 fm (457 m) depth contours.

* * * * *

(g) * * *

(87) 44°21.73′ N. lat., 124°49.82′ W. long.;

(88) 44°17.57′ N. lat., 124°55.04′ W. long.;

* * * * *

11. Tables 1a through 1d and 2a through 2d, Subpart C, are revised to read as follows:

BILLING CODE 3510-22-P

BILLING CODE 3510-22-C

12. In § 660.112, introductory text and paragraph (b)(1)(xv) is revised to read as follows:

§ 660.112 Trawl fishery—prohibitions.

These prohibitions are specific to the limited entry trawl fisheries. General groundfish prohibitions are defined at § 660.12. In addition to the general prohibitions specified in § 600.725 of this chapter, it is unlawful for any person or vessel to:

* * * * *

(b) * * *

(1) * * *

(xv) Begin a new fishing trip until all fish from an IFQ landing have been offloaded from the vessel, consistent with § 660.12(a)(11).

* * * * *

13. In § 660.130, paragraphs (d) introductory text, (d)(1)(iii), and (e) introductory text are revised to read as follows:

§ 660.130 Trawl fishery—management measures.

* * * * *

(d) Sorting. In addition to the requirements at § 660.12(a)(8), the States of Washington, Oregon, and California may also require that vessels record their landings as sorted on their state landing receipt. Sector-specific sorting requirements and exceptions are listed at paragraphs (d)(2) and (d)(3) of this section.

(1) * * *

* * * * *

(iii) South of 40°10′ N. lat. Minor shallow nearshore rockfish, minor deeper nearshore rockfish, California scorpionfish, chilipepper, bocaccio, splitnose rockfish, Pacific sanddabs, cowcod, bronzespotted rockfish, blackgill rockfish and cabezon.

* * * * *

(e) Groundfish conservation areas (GCAs) applicable to trawl vessels. A GCA, a type of closed area, is a geographic area defined by coordinates expressed in degrees of latitude and longitude. The latitude and longitude coordinates of the GCA boundaries are specified at §§ 660.70 through 660.74. A vessel that is fishing within a GCA listed in this paragraph (e) with trawl gear authorized for use within a GCA may not have any other type of trawl gear on board the vessel. The following GCAs apply to vessels participating in the limited entry trawl fishery. Additional closed areas that specifically apply to the Pacific whiting fisheries are described at § 660.131(c).

* * * * *

14. In § 660.140, paragraphs (c)(1) table, (d)(1)(ii) introductory text, (d)(1)(ii)(D), (d)(3)(ii)(B)(3), (d)(4)(i)(C), (e)(4)(i), (e)(5) introductory text, and (e)(5)(i) are revised and paragraphs (d)(1)(ii)(A)(3), (d)(1)(ii)(B)(3) and (d)(1)(ii)(B)(4) are added to read as follows:

§ 660.140 Shorebased IFQ Program

* * * * *

(c) * * *

(1) * * *

IFQ Species
ROUNDFISH:
Lingcod N. of 40°10′ N. lat
Lingcod S. of 40°10′ N. lat
Pacific cod
Pacific whiting
Sablefish N. of 36° N. lat
Sablefish S. of 36° N. lat
FLATFISH:
Arrowtooth flounder
Dover sole
English sole
Other flatfish stock complex
Petrale sole
Starry flounder
Pacific halibut (IBQ) N. of 40°10′ N. lat
ROCKFISH:
Bocaccio S. of 40°10′ N. lat
Canary rockfish
Chilipepper S. of 40°10′ N. lat
Cowcod S. of 40°10′ N. lat
Darkblotched rockfish
Longspine thornyhead N. of 34°27′ N. lat
Minor shelf rockfish complex N. of 40°10′ N. lat
Minor shelf rockfish complex S. of 40°10′ N. lat
Minor slope rockfish complex N. of 40°10′ N. lat
Minor slope rockfish complex S. of 40°10′ N. lat
Pacific ocean perch N. of 40°10′ N. lat
Shortspine thornyhead N. of 34°27′ N. lat
Shortspine thornyhead S. of 34°27′ N. lat
Splitnose rockfish S. of 40°10′ N. lat
Widow rockfish
Yelloweye rockfish
Yellowtail rockfish N. of 40°10′ N. lat

* * * * *

(d) * * *

(1) * * *

(ii) Annual QP and IBQ pound allocations. QP and IBQ pounds will be deposited into QS accounts annually. QS permit owners will be notified of QP deposits via the IFQ Web site and their QS account. QP and IBQ pounds will be issued to the nearest whole pound using standard rounding rules (i.e., decimal amounts less than 0.5 round down and 0.5 and greater round up), except that in the first year of the Shorebased IFQ Program, issuance of QP for overfished species greater than zero but less than one pound will be rounded up to one pound. Rounding rules may affect distribution of the entire shorebased trawl allocation. NMFS will distribute such allocations to the maximum extent practicable, not to exceed the total allocation. QS permit owners must transfer their QP and IBQ pounds from their QS account to a vessel account in order for those QP and IBQ pounds to be fished. QP and IBQ pounds must be transferred in whole pounds (i.e., no fraction of a QP or IBQ pound can be transferred). All QP and IBQ pounds in a QS account must be transferred to a vessel account by September 1 of each year in order to be fished, unless there is a reapportionment of Pacific whiting consistent with § 660.131(h) and paragraph (d)(3) of this section or a release of additional QP consistent with § 660.60(c) and paragraph (d)(3)(ii)(B)(3) of this section.

(A) * * *

(3) In years where the non-tribal deductions from the TAC, ACL, or ACT when specified, described at § 660.55(b), were too high and would go unharvested, NMFS may increase the shorebased trawl allocation, consistent with § 660.60(c), and issue additional QP to QS accounts.

(B) * * *

(3) In years where the non-tribal deductions from the TAC, ACL, or ACT when specified, described at § 660.55(b), were too high and would go unharvested, NMFS may increase the shorebased trawl allocation, consistent with § 660.60(c), and issue additional QP to QS accounts.

(4) In years where there is reapportionment of Pacific whiting, specified at § 660.131(h), to the Shorebased IFQ Program, NMFS will increase the shorebased trawl allocation and issue additional QP to QS accounts as described at paragraph (d)(3)(ii)(B)(3) of this section.

* * * * *

(D) For the trawl fishery, NMFS will issue QP based on the following shorebased trawl allocations:

Shorebased Trawl Allocations
IFQ species | Management area | 2013 shorebased trawl allocation (mt) | 2014 shorebased trawl allocation (mt)
Arrowtooth flounder |  | 3,846.13 | 3,467.08
Bocaccio | South of 40°10′ N. lat | 74.90 | 79.00
Canary Rockfish |  | 39.90 | 41.10
Chilipepper | South of 40°10′ N. lat | 1,099.50 | 1,067.25
Cowcod | South of 40°10′ N. lat | 1.00 | 1.00
Darkblotched Rockfish |  | 266.70 | 278.41
Dover sole |  | 22,234.50 | 22,234.50
English sole |  | 6,365.03 | 5,255.59
Lingcod | North of 40°10′ N. lat | 1,222.57 | 1,151.68
Lingcod | South of 40°10′ N. lat | 494.41 | 472.88
Longspine thornyhead | North of 34°27′ N. lat | 1,859.85 | 1,811.40
Minor shelf rockfish complex | North of 40°10′ N. lat | 508.00 | 508.00
Minor shelf rockfish complex | South of 40°10′ N. lat | 81.00 | 81.00
Minor slope rockfish complex | North of 40°10′ N. lat | 776.93 | 776.93
Minor slope rockfish complex | South of 40°10′ N. lat | 376.11 | 378.63
Other flatfish complex |  | 4,189.61 | 4,189.61
Pacific cod |  | 1,125.29 | 1,125.29
Pacific Ocean Perch | North of 40°10′ N. lat | 109.43 | 112.28
Pacific Whiting |  |  |
Petrale Sole |  | 2,318.00 | 2,378.00
Sablefish | North of 36° N. lat | 1,828.00 | 1,988.00
Sablefish | South of 36° N. lat | 602.28 | 653.10
Shortspine thornyhead | North of 34°27′ N. lat | 1,385.35 | 1,371.12
Shortspine thornyhead | South of 34°27′ N. lat | 50.00 | 50.00
Splitnose rockfish | South of 40°10′ N. lat | 1,518.10 | 1,575.10
Starry flounder |  | 751.50 | 755.50
Widow rockfish |  | 993.83 | 993.83
Yelloweye Rockfish |  | 1.00 | 1.00
Yellowtail rockfish | North of 40°10′ N. lat | 2,635.33 | 2,638.85

* * * * *

(3) * * *

(ii) * * *

(B) * * *

(3) Transfer of QP or IBQ pounds from a QS account to a vessel account. QP or IBQ pounds must be transferred in whole pounds (i.e. no fraction of a QP can be transferred). QP or IBQ pounds must be transferred to a vessel account in order to be used. Transfers of QP or IBQ pounds from a QS account to a vessel account are subject to vessel accumulation limits and NMFS' approval. Once QP or IBQ pounds are transferred from a QS account to a vessel account (accepted by the transferee/vessel owner), they cannot be transferred back to a QS account and may only be transferred to another vessel account. QP or IBQ pounds may not be transferred from one QS account to another QS account. All QP or IBQ pounds from a QS account must be transferred to one or more vessel accounts by September 1 each year. If, after September 1 in any year, the Regional Administrator makes a decision to reapportion Pacific whiting from the tribal to the non-tribal fishery or NMFS releases additional QP consistent with §§ 660.60(c) and paragraph (d)(1)(ii) of this section, the following actions will be taken.

(i) NMFS will credit QS accounts with additional QP proportionally, based on the QS percent for a particular QS permit owner and the increase in the shorebased trawl allocation specified at paragraph (d)(1)(ii)(D) of this section.

(ii) The QS account transfer function will be reactivated by NMFS from the date that QS accounts are credited with additional QP to allow permit holders to transfer QP to vessel accounts only for those IFQ species with additional QP.

(iii) After December 15, the transfer function in QS accounts will again be inactivated.

* * * * *

(4) * * *

(i) * * *

(C) The Shorebased IFQ Program accumulation limits are as follows:

Accumulation Limits
Species category | QS and IBQ control limit (in percent)
Arrowtooth flounder | 10
Bocaccio S. of 40°10′ N. lat | 13.2
Canary rockfish | 4.4
Chilipepper S. of 40°10′ N. lat | 10
Cowcod S. of 40°10′ N. lat | 17.7
Darkblotched rockfish | 4.5
Dover sole | 2.6
English sole | 5
Lingcod:
N. of 40°10′ N. lat | 2.5
S. of 40°10′ N. lat | 2.5
Longspine thornyhead:
N. of 34°27′ N. lat | 6
Minor rockfish complex N. of 40°10′ N. lat:
Shelf species | 5
Slope species | 5
Minor rockfish complex S. of 40°10′ N. lat:
Shelf species | 9
Slope species | 6
Other flatfish stock complex | 10
Pacific cod | 12
Pacific halibut (IBQ) N. of 40°10′ N. lat | 5.4
Pacific ocean perch N. of 40°10′ N. lat | 4
Pacific whiting (shoreside) | 10
Petrale sole | 3
Sablefish:
N. of 36° N. lat. (Monterey north) | 3
S. of 36° N. lat. (Conception area) | 10
Shortspine thornyhead:
N. of 34°27′ N. lat | 6
S. of 34°27′ N. lat | 6
Splitnose rockfish S. of 40°10′ N. lat | 10
Starry flounder | 10
Widow rockfish | 5.1
Yelloweye rockfish | 5.7
Yellowtail rockfish N. of 40°10′ N. lat | 5
Non-whiting groundfish species | 2.7

* * * * *

(e) * * *

(4) * * *

(i) Vessel limits. For each IFQ species or species group specified in this paragraph, vessel accounts may not have QP or IBQ pounds in excess of the QP Vessel Limit (Annual Limit) in any year, and, for species covered by Unused QP Vessel Limits (Daily Limit), may not have QP or IBQ pounds in excess of the Unused QP Vessel Limit at any time. The QP Vessel Limit (Annual Limit) is calculated as unused available QPs plus used QPs (landings and discards) plus any pending outgoing transfer of QPs. The Unused QP Vessel Limits (Daily Limit) is calculated as unused available QPs plus any pending outgoing transfer of QPs. These vessel limits are as follows:

Vessel Limits
Species category | QP vessel limit (annual limit) (in percent) | Unused QP vessel limit (daily limit) (in percent)
Arrowtooth flounder | 20 |
Bocaccio S. of 40°10′ N. lat | 15.4 | 13.2
Canary rockfish | 10 | 4.4
Chilipepper S. of 40°10′ N. lat | 15 |
Cowcod S. of 40°10′ N. lat | 17.7 | 17.7
Darkblotched rockfish | 6.8 | 4.5
Dover sole | 3.9 |
English sole | 7.5 |
Lingcod
N. of 40°10′ N. lat | 5.3 |
S. of 40°10′ N. lat | 13.3 |
Longspine thornyhead:
N. of 34°27′ N. lat | 9 |
Minor rockfish complex N. of 40°10′ N. lat:
Shelf species | 7.5 |
Slope species | 7.5 |
Minor rockfish complex S. of 40°10′ N. lat:
Shelf species | 13.5 |
Slope species | 9 |
Other flatfish complex | 15 |
Pacific cod | 20 |
Pacific halibut (IBQ) N. of 40°10′ N. lat | 14.4 | 5.4
Pacific ocean perch N. of 40°10′ N. lat | 6 | 4
Pacific whiting (shoreside) | 15 |
Petrale sole | 4.5 |
Sablefish:
N. of 36° N. lat. (Monterey north) | 4.5 |
S. of 36° N. lat. (Conception area) | 15 |
Shortspine thornyhead:
N. of 34°27′ N. lat | 9 |
S. of 34°27′ N. lat | 9 |
Splitnose rockfish S. of 40°10′ N. lat | 15 |
Starry flounder | 20 |
Widow rockfish | 8.5 | 5.1
Yelloweye rockfish | 11.4 | 5.7
Yellowtail rockfish N. of 40°10′ N. lat | 7.5 |
Non-whiting groundfish species | 3.2 |

* * * * *

(5) Carryover. The carryover provision allows a limited amount of surplus QP or IBQ pounds in a vessel account to be carried over from one year to the next or allows a deficit in a vessel account in one year to be covered with QP or IBQ pounds from a subsequent year, up to a carryover limit. The carryover limit is calculated by multiplying the carryover percentage by the cumulative total of QP or IBQ pounds (used and unused) in a vessel account for the base year, less any transfers out of the vessel account, any QP resulting from reapportionment of whiting specified at § 660.60(d) or release of additional QP during the year specified at § 660.60(c)(3)(ii), or any previous carryover amounts. The percentage used for the carryover provision may be changed during the biennial specifications and management measures process, and, for the surplus carryover provision specified in paragraph (e)(5)(i) of this section, the percentage is designated as a “routine management measure” at § 660.60(c)(1)(v) and may be changed through an inseason action, but may not exceed 10 percent.

(i) Surplus QP or IBQ pounds. A vessel account with a surplus of QP or IBQ pounds (unused QP or IBQ pounds) for any IFQ species at the end of the fishing year may carryover for use in the immediately following year an amount of unused QP or IBQ pounds up to its carry over limit. The carryover limit for the surplus is calculated as 10 percent of the cumulative total QP or IBQ pounds (used and unused, less any transfers or any previous carryover amounts) in the vessel account at the end of the year. Based on a Council recommendation, NMFS will credit the carryover amount to the vessel account in the immediately following year once NMFS has completed its end-of-the-year account reconciliation. If NMFS disagrees with all or part of the Council recommendation, NMFS will not credit the vessel accounts, as appropriate, and will notify the Council in writing, describing the basis for the decision. NMFS will notify vessel account owners through the online IFQ system of any additional QP or IBQ pounds resulting from a carryover of surplus pounds, and will not issue those pounds above the vessel limits (specified at paragraph (e)(4) of this section). If there is a decline in the ACL between the base year and the following year in which the QP or IBQ pounds would be carried over, the carryover amount will be reduced in proportion to the reduction in the ACL. When surplus QP or IBQ pounds are issued, those pounds are deposited directly into the vessel accounts and do not increase the shorebased trawl allocation. Surplus QP or IBQ pounds may not be carried over for more than one year. Any amount of QP or IBQ pounds in a vessel account and in excess of the carryover amount will expire on December 31 each year and will not be available for any future use.

* * * * *

15. Table 1 (North) and 1 (South) to 660, subpart D are revised as follows:

BILLING CODE 3510-22-P

16. In § 660.230, paragraphs (c)(1) and (c)(2), and (c)(2)(ii) and (c)(2)(iii) are revised to read as follows:

§ 660.230 Fixed gear fishery—management measures.

* * * * *

(c) * * *

(1) In addition to the requirements at § 660.12(a)(8) the States of Washington, Oregon, and California may also require that vessels record their landings as sorted on their state landing receipts.

(2) For limited entry fixed gear vessels, the following species must be sorted:

* * * * *

(ii) North of 40°10′ N. lat.—POP, yellowtail rockfish, cabezon (Oregon and California);

(iii) South of 40°10′ N. lat.—minor shallow nearshore rockfish, minor deeper nearshore rockfish, California scorpionfish, chilipepper, bocaccio, splitnose rockfish, Pacific sanddabs, cowcod, bronzespotted rockfish, blackgill rockfish and cabezon.

* * * * *

17. In § 660.231, introductory text and paragraph (b)(3)(i) is revised to read as follows:

§ 660.231 Limited entry fixed gear sablefish primary fishery.

This section applies to the sablefish primary fishery for the limited entry fixed gear fishery north of 36° N. lat. Limited entry and open access fixed gear sablefish fishing outside of the sablefish primary season north of 36° N. lat. is governed by management measures imposed under §§ 660.230, 660.232, 660.330 and 660.332.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2013, the following annual limits are in effect: Tier 1 at 34,513lb (15,665 kg), Tier 2 at 15,688 lb (7,116 kg), and Tier 3 at 8,964 lb (4,066 kg). For 2014 and beyond, the following annual limits are in effect: Tier 1 at 37,441 lb (16,983 kg), Tier 2 at 17,019 lb (7,720 kg), and Tier 3 at 9,725 lb (4,411 kg).

* * * * *

18. In § 660.232, paragraphs (a)(2) and (a)(3) are revised to read as follows:

§ 660.232 Limited entry daily trip limit (DTL) fishery for sablefish.

(a) * * *

(2) Following the start of the primary season, all landings made by a vessel authorized by § 660.231(a) of this subpart to fish in the primary season will count against the primary season cumulative limit(s) associated with the permit(s) registered for use with that vessel. A vessel that is eligible to fish in the sablefish primary season may fish in the DTL fishery for sablefish once that vessels' primary season sablefish limit(s) have been taken, or after the close of the primary season, whichever occurs earlier. A vessel's primary season cumulative limit(s) are considered to be taken when the total amount remaining is less than the daily trip limit for sablefish north of 36° N. lat., if one is specified, in Table 2 (North) and Table 2 (South) to this subpart. If no daily limit is specified, the primary season cumulative limit(s) are considered to be taken when the total amount remaining is less than 300 pounds. Any subsequent sablefish landings by that vessel will be subject to the restrictions and limits of the limited entry DTL fishery for sablefish for the remainder of the fishing year.

(3) No vessel may land sablefish against both its primary season cumulative sablefish limits and against the DTL fishery limits within the same 24 hour period of 0001 hours local time to 2400 hours local time.

* * * * *

19. Tables 2 (North) and 2 (South) to Part 660, subpart E are revised to read as follows:

20. In § 660.330, paragraph (c) is revised to read as follows:

§ 660.330 Open access fishery—management measures.

* * * * *

(c) Sorting requirements.

(1) In addition to the requirements at § 660.12(a)(8) the States of Washington, Oregon, and California may also require that vessels record their landings as sorted on their state landing receipts.

(2) For open access vessels, the following species must be sorted:

(i) Coastwide—widow rockfish, canary rockfish, darkblotched rockfish, yelloweye rockfish, shortbelly rockfish, black rockfish, blue rockfish, minor nearshore rockfish, minor shelf rockfish, minor slope rockfish, shortspine and longspine thornyhead, Dover sole, arrowtooth flounder, petrale sole, starry flounder, English sole, other flatfish, lingcod, sablefish, Pacific cod, spiny dogfish, longnose skate, other fish, Pacific whiting, and Pacific sanddabs;

(ii) North of 40°10′ N. lat.—POP, yellowtail rockfish, cabezon (Oregon and California);

(iii) South of 40°10′ N. lat.—minor shallow nearshore rockfish, minor deeper nearshore rockfish, chilipepper, bocaccio, splitnose rockfish, cowcod, bronzespotted rockfish, blackgill rockfish and cabezon.

* * * * *

21. In § 660.332, paragraphs (a) and (b) are revised to read as follows:

§ 660.332 Open access daily trip limit (DTL) fishery for sablefish.

(a) Open access DTL fisheries both north and south of 36° N. lat. Open access vessels may fish in the open access, daily trip limit fishery for as long as that fishery is open during the year, subject to the routine management measures imposed under § 660.60.

(b) Trip limits.

(1) Daily and/or weekly trip limits for the open access fishery north and south of 36° N. lat. are provided in Tables 3 (North) and 3 (South) of this subpart.

(2) Trip and/or frequency limits may be imposed in the limited entry fishery on vessels that are not participating in the primary season under § 660.60.

(3) Trip and/or size limits to protect juvenile sablefish in the limited entry or open access fisheries also may be imposed at any time under § 660.60.

(4) Trip limits may be imposed in the open access fishery at any time under § 660.60.

22. Tables 3 (North) and 3 (South), to subpart F, are revised to read as follows:

BILLING CODE 3510-22-C

++

23. In § 660.360, paragraphs (c)(1)(iv)(A) and (B), (c)(3) introductory text, (c)(3)(i)(A)(1), and (2), (c)(3)(i)(B), (c)(3)(ii)(A)(1) and (2), (c)(3)(ii)(B) through (D), (c)(3)(iii)(A)(1) and (2), (c)(3)(v)(A)(1) through (3) are revised to read as follows:

§ 660.360 Recreational fishery-management measures.

* * * * *

(c) * * *

(1) * * *

(iv) * * *

(A) Between the U.S./Canada border and 48°10′ N. lat. (Cape Alava) (Washington Marine Area 4), recreational fishing for lingcod is open, for 2013, from April 16 through October 12, and for 2014, from April 16 through October 15. Lingcod may be no smaller than 24 inches (61 cm) total length.

(B) Between 48°10′ N. lat. (Cape Alava) and 46°16′ N. lat. (Washington/Oregon border) (Washington Marine Areas 1-3), recreational fishing for lingcod is open for 2013, from March 16 through October 12, and for 2014, from March 15 through October 18. Lingcod may be no smaller than 22 inches (56 cm) total length.

* * * * *

(c) * * *

(3) California. Seaward of California, California law provides that, in times and areas when the recreational fishery is open, there is a 20 fish bag limit for all species of finfish, within which no more than 10 fish of any one species may be taken or possessed by any one person. [Note: There are some exceptions to this rule. The following groundfish species are not subject to a bag limit: Petrale sole, Pacific sanddab and starry flounder.] For groundfish species not specifically mentioned in this paragraph, fishers are subject to the overall 20-fish bag limit for all species of finfish and the depth restrictions at paragraph (c)(3)(i) of this section. Recreational spearfishing for all federally-managed groundfish, is exempt from closed areas and seasons, consistent with Title 14 of the California Code of Regulations. This exemption applies only to recreational vessels and divers provided no other fishing gear, except spearfishing gear, is on board the vessel. California state law may provide regulations similar to Federal regulations for the following state-managed species: Ocean whitefish, California sheephead, and all greenlings of the genus Hexagrammos. Kelp greenling is the only federally-managed greenling. Retention of cowcod, yelloweye rockfish, bronzespotted rockfish, and canary rockfish is prohibited in the recreational fishery seaward of California all year in all areas. For each person engaged in recreational fishing in the EEZ seaward of California, the following closed areas, seasons, bag limits, and size limits apply:

* * * * *

(i) * * *

(A) * * *

(1) Between 42° N. lat. (California/Oregon border) and 40°10′ N. lat. (Northern Management Area), recreational fishing for all groundfish (except “other flatfish” as specified in paragraph (c)(3)(iv) of this section) is prohibited seaward of the 20 fm (37 m) depth contour along the mainland coast and along islands and offshore seamounts from May 15 through October 31 (shoreward of 20 fm is open); and is closed entirely from January 1 through May 14 and from November 1 through December 31.

(2) Between 40°10′ N. lat. and 38°57.50′ N. lat. (Mendocino Management Area), recreational fishing for all groundfish (except “other flatfish” as specified in paragraph (c)(3)(iv) of this section) is prohibited seaward of the 20 fm (37 m) depth contour along the mainland coast and along islands and offshore seamounts from May 15, 2013 through September 2, 2013 (shoreward of 20 fm is open), and is closed entirely from January 1, 2013 through May 14, 2013 and from September 3, 2013 through December 31, 2013; Recreational fishing for groundfish is prohibited seaward of 20 fm (37 m) and from May 15, 2014 through September 1, 2014 (shoreward of 20 fm is open); and is closed entirely from January 1, 2014 through May 14, 2014 and from September 2, 2014 through December 31, 2014.

* * * * *

(B) Cowcod conservation areas. The latitude and longitude coordinates of the Cowcod Conservation Areas (CCAs) boundaries are specified at § 660.70. In general, recreational fishing for all groundfish is prohibited within the CCAs, except that fishing for “other flatfish” is permitted within the CCAs as specified in paragraph (c)(3)(iv) of this section. However, recreational fishing for the following species is permitted shoreward of the 20 fm (37 m) depth contour when the season for those species is open south of 34°27′ N. lat.: Minor nearshore rockfish, cabezon, kelp greenling, lingcod, California scorpionfish, shelf rockfish and “other flatfish” (subject to gear requirements at paragraph (c)(3)(iv) of this section during January-February). Retention of canary rockfish, yelloweye rockfish, bronzespotted rockfish and cowcod is prohibited within the CCA. [NOTE: California state regulations also permit recreational fishing for California sheephead, ocean whitefish, and all greenlings of the genus Hexagrammos shoreward of the 20 fm (37 m) depth contour in the CCAs when the season for the RCG complex is open south of 34°27′ N. lat.] It is unlawful to take and retain, possess, or land groundfish within the CCAs, except for species authorized in this section.

* * * * *

(ii) * * *

(A) * * *

(1) Between 42° N. lat. (California/Oregon border) and 40°10′ N. lat. (North Management Area), recreational fishing for the RCG complex is open from May 15 through October 31 (i.e., it's closed from January 1 through May 14 and from November 1 through December 31.

(2) Between 40°10′ N. lat. and 38°57.50′ N. lat. (Mendocino Management Area), recreational fishing for the RCG Complex is open from May 15, 2013 through September 2, 2013 (i.e., it's closed from January 1 through May 14 and September 3 through December 31 in 2013), and from May 15, 2014 through September 1, 2014 (i.e., it's closed from January 1 through May 14 and September 2 through December 31 in 2014).

* * * * *

(B) Bag limits, hook limits. In times and areas when the recreational season for the RCG Complex is open, there is a limit of 2 hooks and 1 line when fishing for the RCG complex and lingcod. The bag limit is 10 RCG Complex fish per day coastwide. Retention of canary rockfish, yelloweye rockfish, bronzespotted rockfish and cowcod is prohibited. Within the 10 RCG Complex fish per day limit, no more than 3 may be bocaccio and no more than 3 may be cabezon. Multi-day limits are authorized by a valid permit issued by California and must not exceed the daily limit multiplied by the number of days in the fishing trip.

(C) Size limits. The following size limits apply: Cabezon may be no smaller than 15 in (38 cm) total length; and kelp and other greenling may be no smaller than 12 in (30 cm) total length.

(D) Dressing/filleting. Cabezon, kelp greenling, and rock greenling taken in the recreational fishery may not be filleted at sea. Rockfish skin may not be removed when filleting or otherwise dressing rockfish taken in the recreational fishery. The following rockfish filet size limits apply: Brown-skinned rockfish fillets may be no smaller than 6.5 in (16.6 cm). “Brown-skinned” rockfish include the following species: Brown, calico, copper, gopher, kelp, olive, speckled, squarespot, and yellowtail.

* * * * *

(iii) * * *

(A) * * *

(1) Between 42° N. lat. (California/Oregon border) and 40°10′ N. lat. (Northern Management Area), recreational fishing for lingcod is open from May 15 through October 31 (i.e., it's closed from January 1 through May 14 and from November 1 through December 31).

(2) Between 40°10′ N. lat. and 38°57.50′ N. lat. (Mendocino Management Area), recreational fishing for lingcod is open from May 15, 2013 through September 2, 2013 (i.e., it's closed from January 1 through May 14 and September 3 through December 31 in 2013) and from May 15, 2014 through September 1, 2014 (i.e., it's closed from January 1 through May 14 and September 2 through December 31 in 2014).

* * * * *

(v) * * *

(A) * * *

(1) Between 40°10′ N. lat. and 38°57.50′ N. lat. (Mendocino Management Area), recreational fishing for California scorpionfish is open from May 15 through September 2, 2013 (i.e., it's closed from January 1 through May 14 and from September 3 through December 31, in 2013), and from May 15, 2014 through September 1, 2014 (i.e., it's closed from January 1 through May 14 and September 2 through December 31 in 2014).

(2) Between 38°57.50′ N. lat. and 37°11′ N. lat. (San Francisco Management Area), recreational fishing for California scorpionfish is open from June 1 through December 31 (i.e., it's closed from January 1 through May 31).

(3) Between 37°11′ N. lat. and 34°27′ N. lat. (Central Management Area), recreational fishing for California scorpionfish is open from May 1 through December 31 (i.e., it's closed from January 1 through April 30).

* * * * *

[FR Doc. 2012-27338 Filed 11-13-12; 8:45 am]

BILLING CODE 3510-22-P